FEDERAL COMMUNICATIONS COMMISSION

47 CFR Part 1

[MD Docket No. 24-86; FCC 24-68; FRS ID 226976]

Review of the Commission's Assessment and Collection of Regulatory Fees for Fiscal Year 2024

AGENCY: Federal Communications Commission.

ACTION: Proposed rule.

SUMMARY: In this document, the Federal Communications Commission (Commission) seeks comment on revising the fee schedule of FY 2024 regulatory fees and on several additional regulatory fee issues, as described in the text below.

DATES: Comments must be submitted on or before July 15, 2024. Reply comments must be submitted on or before July 29, 2024.

ADDRESSES: Pursuant to sections 1.415 and 1.419 of the Commission's rules, 47 CFR 1.415, 1.419, interested parties may file comments and reply comments identified by MD Docket No. 23-159, by any of the following methods below. Comments and reply comments may be filed using the Commission's Electronic Comment Filing System (ECFS). See Electronic Filing of Documents in Rulemaking Proceedings, 63 FR 24121 (1998).

1. Comment Filing Procedures. Pursuant to sections 1.415 and 1.419 of the Commission's rules, 47 CFR 1.415, 1.419, interested parties may file comments and reply comments on or before the dates indicated on the first page of this document. Comments may be filed using the Commission's Electronic Comment Filing System (ECFS).

• Electronic Filers: Comments may be filed electronically using the internet by accessing the ECFS: https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

2. People with Disabilities: To request materials in accessible formats for people with disabilities (braille, large print, electronic files, audio format), send an email to fcc504@fcc.gov or call the Consumer & Governmental Affairs Bureau at 202-418-0530 (voice), 202-418-0432 (TTY).

1. Pursuant to section 1.49 of the Commission's rules, 47 CFR 1.49, parties to this proceeding must file any documents in this proceeding using the Commission's Electronic Comment Filing System (ECFS): http://apps.fcc.gov/ecfs/.

2. Materials in Accessible Formats. To request materials in accessible formats for people with disabilities (Braille, large print, electronic files, audio format), send an email to fcc504@fcc.gov or call the Consumer and Governmental Affairs Bureau at 202-418-0530 (voice).

3. Availability of Documents. Comments, reply comments, and ex parte submissions will be available via ECFS. Documents will be available electronically in ASCII, Microsoft Word, and/or Adobe Acrobat. When the FCC Headquarters reopens to the public, these documents will also be available for public inspection during regular business hours in the FCC Reference Center, Federal Communications Commission, 45 L Street NE, Washington, DC 20554.

For detailed instructions for submitting comments and additional information on the rulemaking process, see the SUPPLEMENTARY INFORMATION section of this document.

FOR FURTHER INFORMATION CONTACT: Roland Helvajian, Office of Managing Director at (202) 418-0444.

SUPPLEMENTARY INFORMATION: This is a summary of the Commission's Second Notice of Proposed Rulemaking (NPRM), FCC 24-68, MD Docket No. 24-86, adopted on June 12, 2024 and released on June 13, 2024. Comments, reply comments, and ex parte submissions will be available via ECFS. Documents will be available electronically in ASCII, Microsoft Word, and/or Adobe Acrobat. When the FCC Headquarters reopens to the public, these documents will also be available for public inspection during regular business hours in the FCC Reference Center, Federal Communications Commission, 45 L Street NE, Washington, DC 20554. To request materials in accessible formats for people with disabilities (Braille, large print, electronic files, audio format), send an email to fcc504@fcc.gov or call the Consumer and Governmental Affairs Bureau at 202-418-0530 (voice).

I. Administrative Matters

4. Ex Parte Information. The proceeding initiated by this NPRM, in which we seek comment on proposals as described below, shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. In proceedings governed by section 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

5. Initial Regulatory Flexibility Analysis. The Regulatory Flexibility Act of 1980, as amended (RFA), requires that an agency prepare a regulatory flexibility analysis for notice and comment rulemakings, unless the agency certifies that “the rule will not, if promulgated, have a significant economic impact on a substantial number of small entities.” Accordingly, we have prepared an Initial Regulatory Flexibility Analysis (IRFA) concerning the potential impact of rule and policy change proposals on small entities accompanying the NPRM. The IRFA is set forth in Section VII of this document.

6. Initial Paperwork Reduction Act of 1995 Analysis. This document may contain proposed new or modified information collection requirements. The Commission, as part of its continuing effort to reduce paperwork burdens, invites the general public and OMB to comment on any information collection requirements contained in this document, as required by the PRA. In addition, pursuant to the Small Business Paperwork Relief Act of 2002, Public Law 107-198, see 44 U.S.C. 3506(c)(4), we seek specific comment on how we might further reduce the information collection burden for small business concerns with fewer than 25 employees.

II. Introduction

7. For fiscal year (FY) 2024, the Commission is required to collect $390,192,000 in regulatory fees, an amount equal to our annual salaries and expenses (S&E) appropriation, pursuant to section 9 of the Communications Act of 1934, as amended (Communications Act or Act), and the Commission's FY 2024 Further Consolidation Appropriations Act. In this annual Notice of Proposed Rulemaking (NPRM), we seek comment on the Commission's proposed methodology and regulatory fees for FY 2024, as set forth in Tables 3, 4, and 7. In 2023, the Commission eliminated the International Bureau, established a new Space Bureau and a new Office of International Affairs, and reallocated the authorities and functions of the International Bureau to the Space Bureau and the Office of International Affairs. In light of these actions, we reviewed the FY 2023 reallocations to determine if any changes are warranted, and propose to slightly revise the FY 2023 reallocations to the core bureaus, including the new Space Bureau and the new Office of International Affairs, for FY 2024, as further detailed below.

8. We also seek comment on several additional regulatory fee issues, including: (i) the calculation of television broadcaster regulatory fees; (ii) how our proposals may promote or inhibit advances in diversity, equity, inclusion, and accessibility; (iii) the end of temporary relief measures we implemented in response to the coronavirus disease 2019 (COVID-19) pandemic; (iv) our proposal to discontinue the Commission's presumption that broadcast stations that are dark or were recently dark or bankrupt are experiencing financial hardship sufficient to justify waiver of their regulatory fees; and (v) ways in which the Commission might assist regulatory fee payors in meeting their annual regulatory fee obligations.

III. Background

9. Section 9 of the Communications Act of 1934 obligates the Commission to assess and collect regulatory fees each year in an amount that can reasonably be expected to equal the amount of its annual S&E appropriation. Thus, the Commission has no discretion regarding the total amount to be collected in any given fiscal year. For FY 2024, the Commission must recover $390,192,000 as set forth in the FY 2024 Further Consolidation Appropriations Act. Regulatory fees recover all of the Commission's direct costs, such as salaries and expenses; indirect costs, such as overhead functions; statutorily required tasks that do not directly equate with oversight and regulation of a particular regulatee, but instead benefit the Commission and the industry as a whole; and support costs such as rent, utilities, and equipment. Regulatory fees must recover the total amount of the appropriation; therefore, they also cover the Commission's costs incurred in oversight and regulation of entities that are statutorily exempt from paying regulatory fees (i.e., governmental and nonprofit entities, amateur radio operators, and noncommercial radio and television stations), entities that are exempt from payment of regulatory fees because their total assessed annual regulatory fees fall below the annual de minimis threshold, and entities whose regulatory fees are waived. Pursuant to section 9(d) of the Communications Act, the Commission's methodology for assessing regulatory fees must “reflect the full-time equivalent number of employees within the bureaus and offices of the Commission, adjusted to take into account factors that are reasonably related to the benefits provided to the payor of the fee by the Commission's activities.”

10. In section 9 of the Communications Act, Congress prescribed a method of collecting an amount equal to the full S&E appropriation by keying the regulatory fee assessment to the Commission's FTE burden. As a result, the fee assigned to each regulatory fee category relates to the FTE burden associated with oversight and regulation of each regulatory fee category by the relevant core bureaus. Because the total amount the Commission must collect in an offsetting collection generally changes each fiscal year, payors' regulatory fees will also typically change each fiscal year as a mathematical consequence of the changes in the total amount to be collected, the number of FTEs, and projected unit estimates for each regulatory fee category. Beyond those changed collection requirements, in considering changes, additions, or deletions to the regulatory fee schedule the Commission focuses on direct FTE cost burden related to the regulatory fee category at issue within each core bureau. The Commission has explained that, consistent with its statutory directive, it bases regulatory fees on the direct FTEs in core bureaus. The Commission has stated that, given the Communication Act's explicit language that fees must reflect FTEs, the FTE counts are by far the most administrable starting point for regulatory fee allocations.

11. The Commission does not assign direct FTEs within a bureau to specific fee categories by rote or at random, but rather in a manner that reflects the time spent by FTEs on a regulatory fee category, which is in itself a reflection of “benefit” to the fee category. Thus, we apportion regulatory fees across fee categories based on the number of direct FTEs in each core bureau to take into account factors that are reasonably related to the payor's benefits.

12. Full Time Equivalent (FTE) Allocation and Fee Calculation. The Commission allocates FTEs according to the nature of the work performed by its different organizational units. If the work performed by a group or office is directly related to our oversight and regulation of a regulatory fee category or categories in one of the five core licensing bureaus, then such FTEs are counted as a direct FTE. If the work cannot be allocated to one of the bureau's designated regulatory fee categories, the work performed is counted as an indirect FTE. Under this framework, the Commission, therefore, assesses the allocation of FTEs by first determining the number of direct FTEs, those non-auctions FTEs that work in each of the Commission's core bureaus (i.e., the Wireless Telecommunications Bureau, the Media Bureau, part of the Wireline Competition Bureau, the Office of International Affairs, and the Space Bureau). Regulatory fees are initially apportioned across the regulatory fee categories based on the number of direct FTEs in each core bureau whose time is focused on a particular industry segment and then is adjusted “to take into account factors that are reasonably related to the benefits provided to the payor of the fee by the Commission's activities.”

13. The FTE time devoted to developing and implementing the Commission's spectrum auctions is not included in the calculation of regulatory fees and is not offset by the collection of regulatory fees. Instead, such FTE time is offset by the auction proceeds that the Commission is permitted to retain pursuant to section 309(j)(8)(B) of the Communications Act and the Commission's annual appropriation. Thus, spectrum auctions FTEs are not included in the calculation of regulatory fees and the Commission's methodology excludes all spectrum auction-related FTEs and their overhead from the regulatory fee calculations. To the extent that FTEs within core bureaus spend a portion of their time on auctions issues and a portion of their time on appropriated issues, their time is split and only the non-auctions portion of their time is reflected in the relevant core bureau's FTE count.

14. Early in each fiscal year, the Commission receives FTE data from its Human Resources Management office and identifies FTEs at the core bureau level (i.e., direct FTEs), which is then used to determine the FTE allocations for the five core bureaus. This FTE data is then validated through consultation with the bureaus and apportioned to the various fee categories within each core bureau based on FTE time spent on each fee category. After the number of direct FTEs is determined for each core bureau of the Commission, the direct FTE numbers are used to calculate the percentage of the total amount of regulatory fees to be collected for a given fiscal year. We allocate appropriated amounts to be recovered proportionally based on the number of direct FTEs within each core bureau. Those proportions are then subdivided within each core bureau into fee categories among the regulatees served by the core bureau. Finally, within each regulatory fee category the amount to be collected is divided by a unit that allocates the regulatee's proportionate share based on an objective measure.

15. In prior regulatory fee proceedings, the Commission has categorized the FTEs in the Enforcement Bureau, Consumer and Governmental Affairs Bureau, Public Safety and Homeland Security Bureau, Chairwoman's and Commissioners' Offices, Office of the Managing Director, Office of General Counsel, Office of Inspector General, Office of Communications Business Opportunities, Office of Engineering and Technology, Office of Legislative Affairs, Office of Workplace Diversity, Office of Media Relations, Office of Economics and Analytics, and Office of Administrative Law Judges, along with some FTEs in the Wireline Competition Bureau and the International Bureau as indirect for regulatory fee purposes. Unlike the work of direct FTEs, the work of indirect FTEs in the non-core bureaus and offices is not focused on the oversight and regulation of a specific category of regulatory fee payors, but instead benefits the Commission, the telecommunications industry, and the public as a whole. The Commission's high percentage of indirect FTEs demonstrates that many of our activities and costs are not limited to a particular fee category.

16. Adjustments and Amendments to Regulatory Fee Schedule. In accordance with the statute, each year, in an annual fee proceeding, the Commission proposes adjustments to the prior fee schedule under section 9(c) to “(A) reflect unexpected increases or decreases in the number of units subject to the payment of such fees; and (B) result in the collection of the amount required” by the Commission's annual appropriation. The Commission will also propose amendments to the fee schedule under section 9(d) “if the Commission determines that the schedule requires amendment so that such fees reflect the full-time equivalent number of employees within the bureaus and offices of the Commission, adjusted to take into account factors that are reasonably related to the benefits provided to the payor of the fee by the Commission's activities. Pursuant to section 9A(b)(1) of the Act, the Commission must notify Congress immediately upon adoption of any adjustment. Pursuant to section 9A(b)(2) of the Act, the Commission must notify Congress at least 90 days prior to making effective any amendments to the regulatory fee schedule.

17. In implementing our section 9 authority, we consider the adoption of a new regulatory fee category or a change in an existing regulatory fee category only when we develop a sufficient basis for making the change, and we work to ensure that all changes serve the goal of ensuring that our assessment of regulatory fees is fair, administrable, and sustainable. The Commission has adopted new regulatory fee categories and new methodologies for calculating regulatory fees when there is a sufficient basis for doing so under the relevant statutory provisions and precedent, and based on the record. Most recently, in 2020, the Commission included non-U.S. licensed space stations with U.S. market access grants in the existing “Space Stations” fee category. The Commission concluded that assessing the same regulatory fees on non-U.S. licensed space stations with U.S. market access as assessed on U.S. licensed space stations would better reflect the benefits received by these operators, i.e., the adjudicatory, enforcement, regulatory, and international coordination activities by the Commission's FTEs in the International Bureau.

IV. Notice of Proposed Rulemaking

18. In this NPRM, we propose and seek comment on regulatory fees for FY 2024 as set forth in Tables 3, 4, and 7. We also seek comment on several additional regulatory fee issues, including: (i) the calculation of television broadcaster regulatory fees; (ii) how our proposals may promote or inhibit advances in diversity, equity, inclusion, and accessibility; (iii) the end of temporary relief measures we implemented in response to the COVID-19 pandemic; (iv) our proposal to discontinue the Commission's presumption that broadcast stations that are dark or were recently dark or bankrupt are experiencing financial hardship sufficient to justify waiver of their regulatory fees; and (v) ways in which the Commission might assist regulatory fee payors in meeting their annual regulatory fee obligations.

A. Assessment of Regulatory Fees

1. Methodology for Assessing Regulatory Fees

19. In FY 2024, the Commission is required to collect $390,192,000 in regulatory fees. Section 9 of the Communications Act requires us to set regulatory fees to “reflect the full-time equivalent number of employees within the bureaus and offices of the Commission adjusted to take into account factors that are reasonably related to the benefits provided to the payor of the fee by the Commission's activities.” Our first step in establishing our regulatory fee schedule is to take into consideration the adjustments necessitated by the more apparent changes from the prior fiscal year regulatory fee proceeding, e.g., changes in the (i) FY appropriation, (ii) FTE levels, and (iii) relevant unit measures for each regulatory fee category. Such adjustments are often considered ministerial. Our second step is a more substantive review where we look to the core bureaus within the Commission in order to identify the number of direct non-auction FTEs in each core bureau for purposes of the regulatory fee calculation. After we determine the number of direct FTEs for each core bureau, we use these numbers to start our calculations of the percentage of the total amount of regulatory fees to be collected for a given fiscal year from each regulatory fee category within each core bureau. These proportional calculations allocate all Commission non-auction related costs across all regulatory fee categories.

a. Indirect FTE Reallocations

20. In FY 2023, the Commission found that the Commission's general methodology for establishing regulatory fees has been, and continues to be, appropriate and consistent with section 9 of the Communications Act. The Commission therefore implemented this same methodology, but, in addition to looking at the current allocation of direct FTEs within the core bureaus, it also conducted a high-level analysis of the work of the Commission's indirect FTEs in non-core bureaus and offices and, where the Commission could determine with reasonable accuracy for FY 2023 that such work was spent on the regulation and oversight of a regulatory fee payor, the Commission reallocated the burden of that work as direct to a core bureau, solely for regulatory fee purposes. As a result of this analysis, for FY 2023, 63 indirect FTEs located in the Office of General Counsel, the Office of Economics and Analytics, and the Public Safety and Homeland Security Bureau that were previously considered to be indirect FTEs were allocated as direct FTEs to a core bureau, for regulatory fee purposes, based on the Commission's evaluation of the burden of their work. In the FY 2023 Report and Order, the Commission explained that, while the Commission will continue to evaluate whether any FTEs should be reallocated for regulatory fee purposes each year when reviewing and validating the FTE data, the Commission will exercise its discretion regarding where to focus its analytical efforts each year to best respond to changes in the Commission's substantive work and organization, and changes in the telecommunications industry itself. The Commission therefore indicated that where its analysis merits inclusion of proposed reallocations, it will seek comment on any such potential reallocation of FTEs in an annual proceeding.

21. For FY 2024, we propose to employ the same methodology the Commission employed in FY 2023. We conclude, however, that changes within the Commission's organizational structure and additional staff resources merit a review of the FY 2023 reallocations. Specifically, effective on April 10, 2023, the Commission eliminated the International Bureau, established a new Space Bureau and a new Office of International Affairs, and reallocated the International Bureau's authorities and functions between the Space Bureau and the Office of International Affairs. In light of these organizational changes, we reviewed FTEs that were previously allocated to the International Bureau as direct for regulatory fee purposes and we analyzed the work done by those FTEs to determine whether such FTEs should be allocated to the Office of International Affairs or to the Space Bureau. In addition, FTE levels in the Public Safety and Homeland Security Bureau have increased during this fiscal year. In light of these changes, we analyzed the work of the new staff in the Public Safety and Homeland Security Bureau to determine whether any of their work should be allocated as indirect FTEs or allocated as direct FTEs to a core bureau for regulatory fee purposes. We also analyzed the work of the FTEs in the Office of General Counsel, the Office of Economics and Analytics, and the Public Safety and Homeland Security Bureau that we reallocated in FY 2023 as direct FTEs to core bureaus for regulatory fee purposes to determine whether their work assignments continue to merit allocation of those FTEs as direct to a core bureau for regulatory fee purposes.

22. Also, in instances where an FTE was previously allocated to the International Bureau as direct for regulatory fee purposes, we analyzed the specific work done by the FTE to determine whether such FTE should be allocated to the new Office of International Affairs or the Space Bureau. We limited our analytical efforts for FY 2024 to address the specific changes within the Commission and did not conduct a high-level analysis this fiscal year of all FTEs within the Commission as we believe the adjustments we make for FY 2024 reasonably reflect the major changes in the burden of work within the Commission. We thus utilize our discretion to ensure that we conduct our annual review in a manner that is fair, manageable, and sustainable. As described in more detail below, we propose that, for FY 2024, approximately 69 indirect FTEs should be reallocated as direct FTEs to a core bureau for regulatory fee purposes, based on our evaluation of the burden of their work. We find that these proposed reallocations are consistent with section 9 of the Communications Act, which requires us to base our methodology on the number of FTEs in calculating regulatory fees.

b. Space and Earth Station Regulatory Fee Rates

23. On March 13, 2024, the Commission released the Space and Earth Station Regulatory Fees NPRM seeking comment on proposed changes to the regulatory fee methodology used for assessing space and earth station regulatory fees for FY 2024. In this NPRM, we propose regulatory fee rates in Tables 3 and 4, based on our existing methodology, and regulatory fee rates in Table 7 based on the proposals set forth in the Space and Earth Station Regulatory Fees NPRM. Our proposed space and earth station regulatory fee rates are, however, estimates because we recognize that, ultimately, final space and earth station regulatory fee rates are dependent upon the outcome of the Space and Earth Station Regulatory Fees NPRM proceeding. We also recognize that there could be a combination of the proposals based upon commenters' feedback and the outcome of the Space and Earth Station Regulatory Fees NPRM. Accordingly, we do not seek comment again in this proceeding on the specific proposals to adjust our existing methodology for assessing space and earth station regulatory fees, or to adopt an alternative methodology for assessing space station regulatory fees, which were set forth in the Space and Earth Station Regulatory Fees NPRM. Instead, comments pertaining to the proposals set forth in the Space and Earth Station Regulatory Fees NPRM regarding the categories and allocation of fees for space and earth stations should be submitted in the proceeding, MD Docket No. 24-85, and need not be submitted again in response to this NPRM. In this item, we specifically seek comment on the proposed regulatory fee rates for space and earth station payors for FY 2024 based on the proposals set forth in the Space and Earth Station Regulatory Fees NPRM.

24. The existing schedule of regulatory fees for space and earth station payors is contained in section 1.1156 of the Commission's rules. There are four current categories of space station payors: Space Stations (Geostationary Orbit); Space Stations (Non-Geostationary Orbit)—Less Complex; Space Stations (Non-Geostationary Orbit)—Other; and Space Station (Small Satellites). “Less Complex” NGSO systems are defined as NGSO satellite systems planning to communicate with 20 or fewer U.S. authorized earth stations that are primarily used for Earth Exploration Satellite Service (EESS) and/or Automatic Identification System (AIS). “Small Satellites” are space stations licensed pursuant to the streamlined small satellite process contained in section 25.122 of the Commission's rules. The Space Stations (Small Satellites) category also includes “small spacecraft” licensed pursuant to the analogous streamlined procedures of section 25.123 of the rules. In addition, there is a single category of earth station payors—Earth Stations: Transmit/Receive & Transmit only. Since our fiscal year 2020 proceeding, non-U.S. licensed space stations granted market access to the United States through a Petition for Declaratory Ruling or through earth station licenses are subject to regulatory fees.

25. Under the existing methodology of calculating regulatory fees for space and earth station payors, the Commission multiplies the space station and earth station FTE allocation percentages by the target goal of collections (overall total amount to collect), respectively, to determine the amount to be collected from each regulatory fee category. Since 2020, the space station allocation percentages reflect an 80/20 split between the GSO and NGSO regulatory fee categories, respectively. The amount to be collected by the space station and earth station regulatory fee categories, divided by the projected number of units, determines the fee rate. There are several space station regulatory fee categories—GSO, NGSO “other,” NGSO “less complex,” and small satellites—and each of these regulatory fee categories has its own respective FTE allocation percentage to determine the fee rate. The small satellite fee rate is calculated by taking the average of the calculated fee rate for space stations in the NGSO “other” and NGSO “less complex” categories. The average fee rate is then multiplied by 5% (1/20) and rounded to the nearest $5 to determine the small satellite fee rate. The small satellite fee rate is then multiplied by the number of small satellite units, and the amount derived is divided by an 80/20 split and reduced from the target goals of NGSO-Other and NGSO-Less Complex, respectively. After reducing the NGSO “other” and NGSO “less complex” target goal amounts, the fee rates for both of these NGSO regulatory fee categories are re-calculated (dividing the revised target goal by its respective unit count) to reflect a slightly lower fee rate. We calculate the proposed regulatory fees for space and earth station payors for FY 2024 under this existing methodology in Tables 3 and 4, taking into account the changes in the Commission's S&E appropriation for FY 2024, as well as the change in the percentage of direct FTEs allocated to the Space Bureau as a result of the elimination of the International Bureau and the establishment of a new Space Bureau and a new Office of International Affairs. We seek comment on these proposed regulatory fee amounts.

26. In the Space and Earth Station Regulatory Fees NPRM, we sought comment on a range of proposed changes related to the regulatory fee methodology for assessing space and earth station regulatory fees. The space and earth station regulatory fees calculated under our existing methodology could change substantially if these proposed changes are adopted, in part or in whole, and are effective for FY 2024. For example, if the proposal is adopted to amend the existing fee methodology to change the allocation of regulatory fee assessments for GSO and NGSO space stations from the current 80/20 split to a 60/40 split, the proposed regulatory fees for NGSO space stations will be greater than the amount calculated under the existing methodology, and the proposed regulatory fees for GSO space stations will be less. Similarly, the change proposed in the Space and Earth Station Regulatory Fees NPRM to assess regulatory fees on authorized, not just operational, space stations may increase the number of units of space station payors, which in turn could decrease the calculated per unit regulatory fee for GSO and NGSO space station payors. This and other proposed changes, such as the proposal to adopt regulatory fees for Rendezvous and Proximity Operations (RPO), On-Orbit Servicing (OOS), and Orbital Transfer Vehicles (OTV), could assess fees on space station regulatees that may not be assessed regulatory fees under the existing methodology. Furthermore, the earth station regulatory fees calculated for FY 2024 under the existing methodology would increase substantially if the proposals of the Space and Earth Station Regulatory Fees NRPM were adopted and effective for FY 2024, which could also result in a decrease in the amount of regulatory fees calculated for space station payors. Finally, the alternative methodology for assessing regulatory fees proposed in the Space and Earth Station Regulatory Fees NPRM would replace the existing four categories of space station regulatory fees for GSO and NGSO space stations with a single fee category for all space stations and a fee for small satellites. This would also substantially change the regulatory fees calculated for FY 2024 under the existing methodology.

27. We provide calculations of possible space and earth station regulatory fees if the proposals of the Space and Earth Station Regulatory Fees NPRM were adopted and effective for FY 2024 in Table 7. We acknowledge the difficulty of making these calculations while the Space and Earth Station Regulatory Fees NPRM proceeding is still ongoing and it is unknown whether the proposals will be adopted, in part, in whole, or a variation thereof, in time to be effective for FY 2024. In addition, the number of units per fee category depends on whether certain proposals in the Space and Earth Station Regulatory Fees NRPM are adopted or not. To address these difficulties, we explain, as part of our calculations within Table 7, the methodology and the underlying assumptions for arriving at the calculated regulatory fees in order to provide as much information as reasonably possible at this time to potential commenters. We seek comment on these calculations and the methodology and underlying assumptions that went into them.

28. Based on the foregoing, we seek comment on these proposals and on the proposed FY 2024 regulatory fees as set forth in Tables 3, 4, and 7. We recognize that, due to the potential variations to our proposals as described in the Space and Earth Station Regulatory Fees NPRM, there could be slight changes to the proposed regulatory fee rates upon adoption of the regulatory fee rates in a subsequent Report and Order. Any proposals or comments requesting a change or modification to our proposed methodology in this NPRM and regulatory fees for FY 2024 should include a thorough analysis showing a sufficient basis for making the change. Commenters should also provide alternative options for the Commission to meet its statutory obligation to collect the full amount of the appropriation by the end of the fiscal year, and indicate how such proposed alternative options are fair, administrable, and sustainable.

2. Adjustment of Reallocations, for Regulatory Fee Purposes, of Certain Indirect FTEs as Direct FTEs

29. According to information provided by our Human Resources Management office, there currently are 404 direct non-auctions FTEs for FY 2024 that are distributed among the core bureaus. In FY 2023, the Commission reallocated 63 indirect FTEs from the Office of Economics and Analytics, the Office of General Counsel, and the Public Safety and Homeland Security Bureau and added those FTEs as direct to the relevant core bureau solely for the purposes of collecting regulatory fees. Today, we revisit those reallocations in light of the elimination of the International Bureau and the creation of the Space Bureau and the Office of International Affairs, and additional hires in the Public Safety and Homeland Security Bureau. As a result of our analysis, for FY 2024 we proposed to reallocate 69 indirect FTEs from the Office of Economics and Analytics, the Office of General Counsel, and Public Safety and Homeland Security Bureau and add those FTEs as direct to the relevant core bureau solely for the purposes of collecting regulatory fees.

30. Our calculations of direct FTEs under our proposal, which are more fully detailed below, would be as follows: Office of International Affairs (8), Space Bureau (51), Wireless Telecommunications Bureau (121), Wireline Competition Bureau (153.25), and Media Bureau (140). Based on these proposed reallocations and after adjustments are made to these direct FTE counts to implement Commission precedent, we would collect approximately $6.59 million (1.69%) in fees from the Office of International Affairs regulatory fee payors; $42.14 million (10.80%) in fees from the Space Bureau regulatory fee payors; $100.05 million (25.64%) in fees from Wireless Telecommunications Bureau regulatory fee payors; $126.69 million (32.47%%) in fees from Wireline Competition Bureau regulatory fee payors; and $114.72 million (29.40%) in fees from Media Bureau regulatory fee payors.

31. For purposes of this determination for FY 2024, we used the same analysis as was done in FY 2023 and evaluated whether measurable FTE time for FY 2024 is primarily being spent on the regulation and oversight of regulatory fee payors. Specifically, where the amount of work under consideration equaled .5 FTE or less, we rounded down to the nearest whole FTE and only proposed our reallocations in one full FTE increments. The Commission concluded that less than a full-time FTE demonstrates that the work being done is appropriately considered to be indirect and should not be reassigned. The table below summarizes the FY 2023 reallocations and the proposed FY 2024 reallocations.

Table 1—Core Bureau FY 2023 FTE Percentages With FY 2024 Proposed FTE Reallocation Adjustments
Core Bureau | FY 2023 FTE % with FTE reallocations | FY 2023 amount with FTE reallocations (millions): FY 2023 appropriation was $390.192 | FY 2024 proposed FTE % with adjusted FTE reallocations | FY 2024 amount with FTE reallocations (millions): FY 2024 appropriation is $390.192
Wireline Bureau | 35.91 | $140.12 | 32.47 | $126.69
Media Bureau | 31.76 | 123.9 | 29.40 | 114.72
Media Bureau; subcategory Broadcasters | 14.12 | 55.10 | 13.09 | 51.08
Media Bureau; subcategory Cable | 17.64 | 68.83 | 16.31 | 63.64
Wireless Bureau | 24.56 | 95.83 | 25.64 | 100.05
International Bureau | 7.77 | 30.32 | N/A | N/A
Office of International Affairs | N/A | N/A | 1.69 | 6.59
Space Bureau | N/A | N/A | 10.80 | 42.14

32. Based upon our re-evaluation of indirect FTE time in the Office of Economics and Analytics, the Office of General Counsel, and the Public Safety and Homeland Security Bureau, we propose that 69 indirect FTEs should be reallocated as direct FTEs because they devote their time to the oversight and regulation of regulatory fee payors. We therefore propose to reallocate the FTE time as direct to the relevant core bureaus and office for calculating regulatory fees. Consistent with the Commission's determination in FY 2023, we propose to continue to reallocate two direct FTEs from the Media Bureau as indirect because the nature of their work is sufficiently linked to work that is similar to that performed in the Enforcement Bureau, which has previously been categorized as indirect. We find no reason at this time to alter this determination and conclude that the time of two FTEs in the Media Bureau should continue be considered indirect. We seek comment on this conclusion. Below, we discuss our analysis for the Office of Economics and Analytics, the Office of General Counsel, and the Public Safety and Homeland Security Bureau.

33. Office of Economics and Analytics (OEA) FTEs. In FY 2023, the Commission reallocated 30 indirect FTEs from OEA as direct to a core bureau for regulatory fee purposes as follows: two to the International Bureau, eight to the Wireless Telecommunications Bureau, 13 to the Wireline Competition Bureau, and seven to the Media Bureau. Consistent with the Commission's analysis in the FY 2023 Regulatory Fee Report and Order, we continue to find that there is measurable work done by OEA that is being done directly in furtherance of the oversight and regulation of regulatory fee payors in certain industry segments. For FY 2024, staff analysis of OEA's work, however, has slightly changed from FY 2023 to FY 2024 and rather than reallocating two FTEs as direct for regulatory fee purposes as was done in FY 2023, based on OEA staff analysis, specifically one FTE is reallocated to the Space Bureau based on OEA's work on satellite service related issues. We therefore propose to adjust the FY 2023 allocations for OEA and allocate 29 indirect FTEs from OEA as direct to a core bureau for a regulatory fee purposes for FY 2024 as follows: one to the Space Bureau, eight to the Wireless Telecommunications Bureau, 13 to the Wireline Competition Bureau, and seven to the Media Bureau. We seek comment on this proposed allocation for FY 2024.

34. Office of General Counsel (OGC) FTEs. In FY 2023, the Commission reallocated five indirect FTEs from OGC as direct to a core bureau for regulatory fee purposes as follows: one to the Wireline Competition Bureau, two to the Wireless Telecommunications Bureau, one to the Media Bureau, and one to the International Bureau. Consistent with the Commission's analysis in the FY 2023 Regulatory Fee Report and Order, we continue to find that the majority of OGC's work is appropriately categorized as indirect, however, certain aspects of OGC's work are sufficiently linked to the oversight and regulation of individual regulatory fee categories such that, for FY 2024, four FTEs from OGC should be reallocated as direct FTEs to a relevant core bureau for regulatory purposes. For FY 2024, staff analysis of OGC's work has also slightly changed from FY 2023 to FY 2024 in that no OGC indirect FTEs will be reallocated to what was formerly the International Bureau (now, the Office of International Affairs and the Space Bureau). We make this proposal because OGC FTE time devoted to the Office of International Affair's efforts is for FY 2024 focused on Office of International Affair's matters other than the Office of International Affair's regulatory fee payors (satellite and international bearer circuits and submarine cables). We therefore propose to adjust the FY 2023 allocations for OGC and allocate four indirect FTEs from OGC as direct to a core bureau for regulatory fee purposes for FY 2024 as follows: one to the Wireline Competition Bureau, two to the Wireless Telecommunications Bureau, and one to the Media Bureau. We seek comment on this proposed allocation for FY 2024.

35. Public Safety and Homeland Security Bureau (PSHSB) FTEs. In FY 2023, the Commission reallocated 28 indirect FTEs from PSHSB as direct to a core bureau for regulatory fee purposes as follows: 13 to the Wireless Telecommunications Bureau, nine to the Wireline Competition Bureau, and six to the Media Bureau. PSHSB advises and coordinates within the Commission on all matters pertaining to public safety, homeland security, national security, cybersecurity, emergency management and preparedness, disaster management, and related matters. Consistent with the Commission's analysis in the FY 2023 Report and Order, to the extent that the bureau leads initiatives that strengthen public safety and emergency response capabilities enabling the Commission to assist the public, first responders, law enforcement, hospitals, the communications industry and all levels of government in times of emergency, we continue to conclude that the majority of its work is best categorized as indirect. In FY 2023, the Commission, however, concluded that specific aspects of the FTE work within PSHSB's three divisions—the Policy and Licensing Division, the Operations and Emergency Management Division, and the Cybersecurity and Communications Reliability Division—is sufficiently linked to the oversight and regulation of individual regulatory fee categories such that certain FTE time should be reallocated as direct to a relevant core bureau for regulatory purposes. For FY 2024, we continue to conclude that certain aspects of the of the FTE work in these divisions of PSHSB can be allocated as direct to a core bureau because such work provides direct oversight and regulation of specific regulatory fee categories. Staff therefore analyzed the work of the 28 indirect FTEs which were allocated as direct to a core bureau in FY 2023 and their analysis of the work performed of the 28 indirect FTEs remains unchanged. Since FY 2023, PSHSB has 11 additional FTEs. Consistent with the Commission's analysis in the FY 2023 Regulatory Fee Report and Order, we analyzed the work PSHSB was able to accomplish with the additional 11 FTE resources and determined it was directly in furtherance of the oversight and regulation of regulatory fee payors of a core bureau. We therefore propose to adjust the FY 2023 allocations and allocate a total of 38 PSHSB FTEs as direct to a core for regulatory fee purposes for FY 2024 as follows: 16 to the Wireless Telecommunications Bureau, 11 to the Wireline Competition Bureau, and nine to the Media Bureau, and two to the Space Bureau. We seek comment on this proposal.

36. Conclusion of the Proposal to Reallocate Certain Indirect FTEs from OEA, OGC, and PSHSB as Direct FTEs to a Relevant Core Bureau. As represented above, FTE time associated with the proposed reallocations for regulatory fee purposes would be added to the relevant core bureau. Such a reallocation for regulatory fee purposes would result in increasing the number of direct FTEs in a core bureau and reducing the total number of indirect FTEs within the Commission. Because our underlying methodology for calculating regulatory fees remains unchanged, we conclude that our fee regulatory fee calculation continues to be consistent with section 9 of the Communications Act, which requires us to base our methodology on the number of FTEs in calculating regulatory fees. We seek comment on this conclusion.

37. We continue to be mindful that our treatment of FTEs as direct or indirect can change over time based on our evaluation of the FTE burden associated with the Commission's work assignments, fluctuations within industry segments, and needs of specific regulatory fee payors. As depicted in the table below, the percentage of regulatory fees allocated to each core bureau has generally decreased due to the increase in the number of FTEs from FY 2023 within the core bureaus. The only exception to this is the FY 2024 allocation of direct FTEs to the Space Bureau. Because there are more direct FTEs in the Space Bureau attributable to space and earth station fee payors than there were in the International Bureau, the percentage of regulatory fees allocated to the Space Bureau in FY 2024 is larger than the FY 2023 allocation to the International Bureau. The table below shows the proposed reallocations of a total of 69 FTEs to each of the core bureaus, as discussed above. Such reallocations, for regulatory fee purposes, would be proportionally distributed within the core bureau. We seek comment on these reallocations for FY 2024.

Table 2—FTE Allocations: FY 2023 and FY 2024
Core bureau/ office | FY 2023 FTE reallocations | Total # of direct FY 2023 FTEs With FTE reallocations | FY 2023 % after reallocations | Total # of direct FY 2024 FTEs Without FTE reallocations | FY 2024 FTE reallocations | Total # of Direct FY 2024 FTEs With FTE reallocations | FY 2024 % after reallocations
International Bureau (Reorganized in April 2023) | +2 from OEA + 1 from OGC Total additional FTEs +3 | 31 | 7.77 | N/A | N/A | N/A | N/A
Office of International Affairs (Submarine Cable and International Bearer Circuits) | N/A | N/A | N/A | 8 | +0 from OEA +0 from OGC Total additional FTEs +0 | 8 | 1.69
Space Bureau (Space and Earth Stations) | N/A | N/A | N/A | 48 | +1 from OEA +2 from PSHSB Total additional FTEs +3 | 51 | 10.80
Wireless Telecommunications Bureau | +8 from OEA +2 from OGC +13 from PSHSB Total additional FTEs +23 | 98 | 24.56 | 95 | +8 from OEA +2 from OGC +16 from PSHSB Total additional FTEs +26 | 121 | 25.64
Wireline Competition Bureau | +13 from OEA +1 from OGC +9 from PSHSB Total additional FTEs +23 | 143.25 | 35.91 | 128.25 | +13 from OEA +1 from OGC +11 from PSHSB Total additional FTEs +25 | 153.25 | 32.47
Media Bureau | +7 from OEA +1 from OGC +6 from PSHSB −2 from MB Reallocated as Indirect Total additional FTEs +12 | 128 | 31.76 | 125 | +7 from OEA +1 from OGC +9 from PSHSB −2 from EB Reallocated as Indirect Total additional FTEs +15 | 140 | 29.40
Total | 63 | 400.25 | 100 | 404.25 | 69 | 473.25 | 100

38. As reflected in the table above, our proposals to adjust the reallocation of 63 indirect FTEs as direct for regulatory fee purposes in FY 2023 to 69 indirect FTEs as direct for regulatory fee purposes in FY 2024 will result in a 17.1% increase in our overall direct FTE count for FY 2024, and an increase of 18.2% in the overall direct FTE count from FY 2023. We continue to make these proposals consistent with our long standing regulatory fee methodology and conclude that our determinations are reasonably accurate for fiscal year 2024. We seek comment on our proposals and this tentative conclusion. While our proposals adjust the reallocations for regulatory fee purposes for FY 2024, we are mindful that FTE's work in OEA, OGC, and PSHSB can change from year to year and we want to avoid any unplanned shifts in regulatory fees on an annual basis that would undermine the goals of having a fair, administrable, and sustainable program. In light of the creation of the Space Bureau and Office of International Affairs and the expanded number of FTEs in PSHSB, it was necessary to review the Commission's FY 2023 allocations to ensure a reasonably accurate allocation of direct and indirect FTEs to the core bureaus for the calculation of regulatory fees for FY 2024.

B. Elimination of the International Bureau

39. In January 2023, the Commission eliminated the International Bureau and established: (1) a Space Bureau to handle policy and licensing matters related to satellite communications and other in-space activities under the Commission's jurisdiction; and (2) an Office of International Affairs to handle issues involving foreign and international regulatory authorities as well as international telecommunications and submarine cable licensing. The reorganization became effective on April 10, 2023. When the Commission adopted regulatory fees for FY 2023, it noted that it would be the last year for doing so for the International Bureau. The Commission anticipated that the elimination of the International Bureau and the creation of the Space Bureau and the Office of International Affairs, could result in a change in the number of FTEs, due to increased oversight of various relevant industries. Accordingly, the Commission stated that it would closely review the Space Bureau and Office of International Affairs FTEs to determine the appropriate number of FTEs in each entity as a result of the reorganization and how they will be apportioned among the different services. Accordingly, for purposes of FY 2024 and going forward, we discuss the functions and FTE allocations of the Office of International Affairs and the Space Bureau below.

1. Office of International Affairs

40. The Office of International Affairs (OIA) is responsible for the Commission's engagement of foreign and international regulatory authorities, including multilateral and regional organizations. OIA also facilitates through rulemaking and licensing the Commission's development of policies regarding international telecommunications facilities and services, including submarine cables, and advises and makes recommendations to the Commission on foreign ownership issues. In undertaking these functions, OIA implements Commission policies to facilitate competition and foreign investment in U.S. international telecommunications markets while ensuring, in consultation with relevant federal partners, that national security, law enforcement, foreign policy, and trade policy concerns are addressed. OIA also is responsible for intergovernmental leadership, negotiation and international and inter-agency representational functions. Additionally, OIA oversees and coordinates the Commission's global participation in international and multilateral conferences, regional organizations, cross-border negotiations and international standard setting efforts. Further, OIA also oversees bilateral meetings with other countries and foreign government officials.

41. OIA is composed of the Telecommunications and Analysis Division (TAD) and the Global Strategy and Negotiation Division (GSN). Because the majority of OIA's work does not benefit specific regulatory fee payors, but rather the government as whole, consistent with Commission precedent, we conclude that the majority of the work of its FTEs is appropriately categorized as indirect. As the Commission discussed in the FY 2023 Report and Order, all FTEs in GSN are considered indirect FTEs. Specifically, GSN staff represent the Commission in international conferences, meetings, and negotiations, and manage Commission participation in the fellowship telecommunication training program for foreign officials offered through the U.S. Telecommunications Training Institute (USTTI) as well as the Commission's International Visitors Program. They also participate in various international and regional organizations such as the International Telecommunication Union (ITU), the International Maritime Organization, the International Civil Aeronautics Organization, the Organization for Economic Cooperation and Development, the Asia Pacific Economic Cooperation, and the Inter-American Telecommunication Commission. GSN also coordinates cross-border issues with Mexico and Canada that involve a wide range of services, such as maritime, aeronautical, mobile and fixed satellite, broadcasting, mobile, and terrestrial wireless services. In addition, GSN's functions include international broadcasting station licensing and coordination of frequencies for International Broadcast licenses at the ITU. GSN's multilateral and bilateral international work ultimately benefits all fee payors by maintaining and advancing the United States' global leadership and interests, which encompasses, among others, U.S. trade, foreign policy, and national security interests. Thus, the work of GSN does not benefit a specific fee payor, but rather the government as whole and is therefore appropriately categorized as indirect. There are, however, 8 FTEs within TAD that work on international bearer circuit related issues, including the services provided over submarine cables, and their time can be appropriately categorized as direct in furtherance of the oversight and regulation of specific regulatory fee payors. Therefore, we conclude, for FY 2024, that there are a total of 47 FTEs within OIA, 8 direct FTEs and 39 indirect FTEs. We seek comment on this conclusion.

2. Space Bureau

42. The Space Bureau plays a key role in advancing the Commission's Space Innovation Agenda to meet the needs of the next generation Space Age. The Space Bureau promotes a competitive and innovative global communications marketplace by leading policy and licensing matters related to satellite and space-based communications and activities. Among its responsibilities, the Space Bureau leads complex policy analysis and rulemakings; authorizes satellite and earth station systems used for space-based services; streamlines regulatory processes to provide maximum flexibility for operators to meet customer needs; and fosters the efficient use of scarce spectrum and orbital resources. The Space Bureau also serves as the Commission's focal point for coordination with other U.S. government agencies on matters of space policy and governance, and collaborates with OIA for consultations with other countries, international and multi-lateral organizations, and foreign government officials that involve satellite and space policy matters.

43. The Space Bureau is comprised of the Satellite Licensing Division (SLD), Satellite Programs & Policy Division (SPPD), and the Earth Station Licensing Division (ESLD). These new divisions have the responsibilities and authorities for the analysis and functions that were housed within the Satellite Division of the International Bureau, including its branches, the Policy Branch, the Engineering Branch, and the System Analysis Branch. ESLD is responsible for the technical analysis, review, and licensing of applications and special temporary requests for satellite earth stations. SLD is responsible for the engineering review of satellite systems applications, and for registering FCC-licensed satellite systems with the ITU. SPPD develops and administers rules, regulations, and policies to support a competitive and innovative space-based global telecommunications marketplace. Our Human Resources Management office has provided data identifying 54 FTEs in the Space Bureau to be counted for FY 2024. The Space Bureau anticipates that 48 of these FTEs will be categorized as direct FTEs, with the exception of six FTEs that work exclusively, or nearly exclusively, on matters that do not provide oversight and regulation of a specific category of regulatory fee payors. A number of space related activities indirectly benefit the existing fee categories, including space stations, commercial mobile services, and earth stations. For example, the Space Bureau coordinates with the National Aeronautics and Space Administration (NASA), Federal Aviation Administration (FAA), National Oceanic and Atmospheric Administration (NOAA), State Department on space sustainability, planetary protections, and on space innovation. Staff in ESLD, SLD, and SPPD assist the Office of Engineering & Technology in reviewing applications for experimental licenses for space-based activities. Lastly, the Space Bureau works closely with GSN staff in the Office of International Affairs to help cover certain ITU World Radiocommunications Conference (WRC) agenda items. These six Space Bureau FTEs would therefore be considered indirect.

44. Of these six indirect FTEs, three FTEs work with the staff of the Office of International Affairs on covering ITU World Radiocommunications Conference (WRC) agenda items, and three FTEs work with the staff of the Office of Engineering & Technology on experimental licenses involving space or earth stations. Thus, we conclude that such FTEs are indirect since such work does not focus on the oversight and regulation of a specific category of regulatory fee payors, but instead benefits the Commission, the telecommunications industry, or the public as a whole, or in the case of work done on experimental licenses, is in furtherance of licenses that are not subject to a regulatory fee.

45. In addition to the 48 direct FTEs out of the 54 FTEs identified by our Human Resources Office, as indicated above, we also propose to reallocate one FTE from OEA and two FTEs from PSHSB as direct to the Space Bureau for regulatory fee purposes. We therefore conclude, for regulatory fee purposes for FY 2024, there are a total of 54 FTEs within the Space Bureau, 48 direct FTEs and six indirect FTEs, and three indirect FTEs that are designated as direct for a total of 51 direct FTEs and six indirect FTEs. We recognize that the increase in number of direct FTEs allocated to the Space Bureau will directly result in a significant increase in regulatory fees for Space Bureau regulatory fee payors between FY 2023 and FY 2024. This is true even though the amount of appropriated S&E for FY 2024 remains the same as for FY 2023 due to the significant increase in the number of direct FTEs attributed to the Space Bureau. We seek comment on this conclusion.

C. Broadcast Television Stations

46. In the FY 2020 Report and Order, we completed the transition to a population-based full-service broadcast television regulatory fee. The population-based methodology conforms with the service authorized here—broadcasting television to the American people. For FY 2024, we propose to continue to assess fees for full-power broadcast television stations based on the population covered by a full-service broadcast television station's contour. Currently, we use 2010 U.S. Census data to assess fees for full-power broadcast television stations. In FY 2024, we will use the results of the 2020 U.S. Census. As a result, there will be no need to make any population adjustments to account for reductions in the population since 2010. However, the Commission will continue to base assessments on limiting the population count of full-power television stations that rely on satellite television stations to reach terrain-limited areas. We seek comment on our mechanism, described below, for how we will calculate the regulatory fee based on the previously decided population-based methodology. We propose adopting a factor of $.006598 per population served for FY 2024 full-power broadcast television station fees. The population data for broadcasters' service areas are determined using the TVStudy software and the LMS database, based on a station's projected noise-limited service contour. The population data for each licensee and the population-based fee (population multiplied by $.006598 for each full-power broadcast television station is listed in Table 8. We seek comment on these proposed fees.

D. Digital Equity and Inclusion

47. The Commission, as part of its continuing effort to advance digital equity for all, including people of color, persons with disabilities, persons who live in rural or tribal areas, and others who are or have been historically underserved, marginalized, or adversely affected by persistent poverty or inequality, invites comment on any equity-related considerations and benefits (if any) that may be associated with the proposals and issues discussed herein. Specifically, we seek comment on how our proposals for collecting regulatory fees for FY 2024 may promote or inhibit advances in diversity, equity, inclusion, and accessibility, as well the scope of the Commission's relevant legal authority. We note that diversity and equity considerations, however, do not allow the Commission to shift fees from one party of fee payors to another nor to fees under section 9 of the Act for any purpose other than as an offsetting collection in the amount of our annual S&E appropriation.

E. Temporary Relief Measures Due to Economic Effects of COVID-19 Pandemic

48. During the COVID-19 pandemic and through FY 2023, the Commission provided certain temporary relief to regulatory fee payors experiencing financial hardship caused or exacerbated by the COVID-19 pandemic through a combination of partial rule waivers and direction to the Office of the Managing Director in exercising its delegated authority. As we explain below, we do not plan to implement these temporary measures for FY 2024. The circumstances for which the measures were temporarily implemented have changed. The National Emergency COVID-19 pandemic has ended and the national economy is rebounding. We seek comment on the following proposals.

49. For FY 2023, the Commission directed the Office of the Managing Director to continue to exercise its delegated authority to partially waive section 1.1910 of the Commission's rules to allow regulatees on “red light” and experiencing financial hardship to nonetheless request waiver, reduction, deferral, and/or installment payment of their FY 2023 regulatory fees, provided that those regulatees resolve all of the delinquent debt they owe to the Commission in advance of the Commission's decision on their relief requests. For fiscal year 2024, we do not intend to direct the Office of the Managing Director to exercise its discretion in this manner in this proceeding. This means that absent grant of individual requests for waiver of section 1.1910 of our rules, the Commission would not act on a request for waiver, reduction and/or deferral of a regulatory fee filed by a fee payor on red light until full payment of the fee payor's delinquent debt and that the Commission would dismiss the request if the debt was not paid in full within 30 days of the filing of the request.

50. During FY 2023 the Commission also directed OMD to offer a nominal interest rate and waive its down payment requirement for installment payment of regulatory fee debt. For FY 2024, the Commission does not intend to direct Office of the Managing Director to fix the interest rate charged on installment debt at a nominal rate or to waive the requirement that regulatory fee debtors seeking installment payment relief make a downpayment. That means that the Office of the Managing Director will have authority to, but will not be required to, assess a minimum interest rate on regulatory fee installment debt, and will have authority to assess a higher rate of interest if it determines that a higher rate of interest is necessary to protect the interests of the United States. In addition, the Office of the Managing Director will have authority to require a down payment from a regulatory fee payor seeking installment payment relief.

51. During FY 2023, the Commission partially waived section 1.1166 of our rules to permit fee payors seeking waiver, reduction and/or deferral of their FY 2023 regulatory fees based on financial hardship to submit financial documentation supporting their requests after their underlying requests are submitted, but the Commission modified the waiver to permit only one post-filing submission of supplemental financial documents by a deadline of January 31, 2023. This was a change from FY 2022, in that we limited our rule waiver to more closely align it with the requirements of section 1.1166, anticipating a return to the normal operation of section 1.1166. For fiscal year 2024, we do not intend to direct OMD to waive any aspect of this rule in this proceeding. Absent individual waiver requests being granted, this means that parties seeking waiver, reduction and/or deferral relief to submit with their requests all such financial documentation necessary to justify the relief sought on financial hardship grounds. Documents submitted after a request is filed would not be considered, and failure to submit any supporting financial documentation with a request would result in dismissal and/or denial of the request.

52. We recognize that some regulatory fee payors may be experiencing lingering or continuing financial difficulties related to the pandemic's economic effects, but we believe that sections 1.1166 and 1.1914 of our rules, now streamlined and simplified, offer those fee payors a straightforward path to regulatory fee relief. Commenters that disagree with our proposals should explain why any continued relief based on the COVID-19 pandemic is necessary or justified, and to the extent continuation of any measure requires waiver of a Commission's rule, commenters should explain why good cause exists for, and the public interest would be served by, waiver or modification of the relevant rule.

F. Non-Operating Broadcast Stations

53. We seek comment on ending a policy of presuming that dark or silent stations have experienced financial hardship and therefore merit grant of a request for waiver of regulatory fees on the basis of financial hardship, without requiring submission of evidence of actual financial hardship. This policy was first mentioned by the Commission in 1995, observing that when a broadcast station is dark, it is “generally based on financial hardship.” The Commission then concluded that “it is unnecessary to require a licensee to make a further showing of financial hardship” when requesting a waiver of regulatory fees. In articulating this policy in 1995, the Commission assumed that most stations go dark because of financial hardship and observed that “broadcast stations which are dark must request permission to suspend operation” under FCC rules. In 1996, the Commission's Office of the Managing Director applied the presumption to regulatory fees assessed in the first year of a station's operation by a licensee that purchased a recently dark or bankrupt station.

54. The Commission has never codified this policy and it is rarely used. The policy, moreover, appears to assume that the only rationale for a dark or silent station is financial duress. There is no such limitation, however, contained in section 73.1740(a)(4) of our rules. Licensees might go dark for different reasons depending on each station's particular circumstances. Thus, drawing on the Commission's experience since establishment of the policy in 1995, the assumption that requiring financial information in a request for waiver of regulatory fees is unnecessary by the operators of a dark or silent station appears to be no longer accurate in 2024.

55. In considering whether a licensee is experiencing financial hardship sufficient to justify a waiver under section 1.1166 of our rules, the Commission considers the financial circumstances of the licensee, including all of its assets and revenue streams. In the case of a licensee with multiple stations, the silence of one of its stations does not automatically mean that the licensee's overall financial circumstances are such that it cannot pay its stations' regulatory fees and continue operating its remaining stations. Similarly, it is not always the case that a newly purchased station that was previously dark or bankrupt is insufficiently funded in its first year of operations such that its regulatory fees cannot be paid. A new station owner may have other revenue sources, including from its other stations it operates, or financing for the new station's start-up costs. In other words, while a station's silence or reduced operation may be the result of, or may cause financial hardship, we tentatively conclude that the question of whether that is in fact the case is more appropriately determined on a case-by-case basis.

56. For these reasons, we propose to end the assumption that stations are dark or were recently dark or bankrupt are experiencing financial distress when they file a request for waiver of regulatory fees. We propose instead to require these licensees to submit supporting financial documentation with their fee requests to prove financial hardship sufficient to justify a fee waiver, just as all other regulatory fee payors are required to do under ection 1.1166 of our rules. In order to give regulatory fee payors more time to make any necessary changes to comply with this change in policy, we propose to make the change effective for fiscal year 2025. We seek comment on this proposal.

G. Improving the Regulatory Fee Process

57. We have a statutory obligation to assess and collect regulatory fees each fiscal year to meet the Commission's S&E appropriation. At the same time, we are committed to ensuring that the regulatory fee process is administratively manageable and reasonably predictable for both the Commission and regulatory fee payors. We therefore seek comment on ways in which the Commission might improve the regulatory fee process to ensure that regulatory fee payors can timely meet their annual regulatory fee obligations. We ask that commenters explain the legal bases for any proposals they make and how such proposals fit within the Commission's statutory authorizations and our existing regulatory fee methodology.

58. Providing Accountability Through Transparency Act. Consistent with the Providing Accountability Through Transparency Act, Public Law 118-9, a summary of this document will be available on https://www.fcc.gov/proposed-rulemakings.

H. New Regulatory Fee Categories

59. Finally, we continue to seek additional comment on “whether we should adopt new regulatory fee categories and on ways to improve our regulatory fee process regarding any and all categories of service.” We invite additional comment in order to help inform our consideration of these issues.

V. Procedural Matters

60. Included below are procedural items as well as our current payment and collection methods. We include these payments and collection procedures here as a useful way of reminding regulatory fee payers and the public about these aspects of the annual regulatory fee collection process.

61. Credit Card Transaction Levels. In accordance with Treasury Financial Manual, Volume I, Part 5, Chapter 7000, section 7065.20a—Credit Card Collections, the total daily credit card transactions processed from a single customer can be no more than $24,999.99 (hereinafter the “Maximum Daily Limit”) and the total monthly transactions processed from a single customer (based on a rolling 30-day period) can be no more than $100,000.00 (hereinafter the “Maximum Monthly Limit”). Transactions greater than the Maximum Daily Limit will be rejected. If a customer initiates multiple transactions on the same day with the same credit card, those transactions causing the total charge to exceed the Maximum Daily Limit will also be rejected. This limit applies to single payments or bundled payments of more than one bill. Multiple transactions to a single agency in one day may be aggregated and treated as a single transaction subject to the $24,999.99 limit. Customers who wish to pay an amount greater than $24,999.99 should consider available electronic alternatives such as Visa or MasterCard debit cards, Automates Clearing House (ACH) debits from a bank account, and wire transfers. Each of these payment options is available after filing regulatory fee information in CORES. Further details will be provided regarding payment methods and procedures at the time of FY 2024 regulatory fee collection in Fact Sheets, https://www.fcc.gov/regfees.

62. Payment Methods. During the fee season for collecting regulatory fees, regulatees can pay their fees by credit card through Pay.gov, ACH, debit card, or by wire transfer. Additional payment instructions are posted on the Commission's website at https://www.fcc.gov/licensing-databases/fees/wire-transfer. The receiving bank for all wire payments is the U.S. Treasury, New York, NY (TREAS NYC). Any other form of payment (e.g., checks, cashier's checks, or money orders) will be rejected. For payments by wire, an FCC Form 159-E should still be transmitted via fax so that the Commission can associate the wire payment with the correct regulatory fee information. The fax should be sent to the Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at https://www.fcc.gov/licensing-databases/fees/wire-transfer.

63. Standard Fee Calculations and Payment Dates. The Commission will accept fee payments made in advance of the window for the payment of regulatory fees. The responsibility for payment of fees by service category is as follows:

• Media Services: Regulatory fees must be paid for initial construction permits that were granted on or before October 1, 2023 for AM/FM radio stations, VHF/UHF broadcast television stations, and satellite television stations. Regulatory fees must be paid for all broadcast facility licenses granted on or before October 1, 2023.

• Wireline (Common Carrier) Services: Regulatory fees must be paid for authorizations that were granted on or before October 1, 2023. In instances where a permit or license is transferred or assigned after October 1, 2023, responsibility for payment rests with the holder of the permit or license as of the fee due date. Audio bridging service providers are included in this category. For Responsible Organizations (RespOrgs) that manage Toll Free Numbers (TFN), regulatory fees should be paid on all working, assigned, and reserved toll free numbers as well as toll free numbers in any other status as defined in section 52.103 of the Commission's rules. The unit count should be based on toll free numbers managed by RespOrgs on or about December 31, 2023.

• Wireless Services: Commercial Mobile Radio Service (CMRS) cellular, mobile, and messaging services (fees based on number of subscribers or telephone number count): Regulatory fees must be paid for authorizations that were granted on or before October 1, 2023. The number of subscribers, units, or telephone numbers on December 31, 2023 will be used as the basis from which to calculate the fee payment. In instances where a permit or license is transferred or assigned after October 1, 2023, responsibility for payment rests with the holder of the permit or license as of the fee due date.

• Wireless Services, Multi-year fees: The first eight regulatory fee categories in our Schedule of Regulatory Fees (first seven in our Calculation of Fees in Table 4) pay “small multi-year wireless regulatory fees.” Entities pay these regulatory fees in advance for the entire amount period covered by the five-year or ten-year terms of their initial licenses, and pay regulatory fees again only when the license is renewed, or a new license is obtained. We include these fee categories in our rulemaking to publicize our estimates of the number of “small multi-year wireless” licenses that will be renewed or newly obtained in FY 2024.

• Multichannel Video Programming Distributor (MVPD) Services (cable television operators, Cable Television Relay Service (CARS) licensees, DBS, and IPTV): Regulatory fees must be paid for the number of basic cable television subscribers as of December 31, 2023. Regulatory fees also must be paid for CARS licenses that were granted on or before October 1, 2023. In instances where a permit or license is transferred or assigned after October 1, 2023, responsibility for payment rests with the holder of the permit or license as of the fee due date. For providers of DBS service and IPTV-based MVPDs, regulatory fees should be paid based on a subscriber count on or about December 31, 2023. In instances where a permit or license is transferred or assigned after October 1, 2023, responsibility for payment rests with the holder of the permit or license as of the fee due date.

• International Services: Regulatory fees must be paid for earth stations that were licensed (or authorized) on or before October 1, 2023. Regulatory fees must also be paid for Geostationary orbit space stations (GSO) and non-geostationary orbit satellite systems (NGSO), and the two NGSO subcategories “Other” and “Less Complex,” that were licensed and operational on or before October 1, 2023. Licensees of small satellites that were licensed and operational on or before October 1, 2023 must also pay regulatory fees. Proposals have also been made to assess regulatory fees on all space stations that are authorized only (earth stations are feeable when they become licensed or authorized). Proposals have also been made to adopt regulatory fees for Rendezvous and Proximity Operations (RPO), On-Orbit Servicing (OOS), and Orbital Transfer Vehicles (OTV). In instances where a permit or license is transferred or assigned after October 1, 2023, responsibility for payment rests with the holder of the permit or license as of the fee due date.

• International Services (Submarine Cable Systems, Terrestrial and Satellite Services): Regulatory fees for submarine cable systems are to be paid on a per cable landing license basis based on lit circuit capacity as of December 31, 2023. Regulatory fees for terrestrial and satellite IBCs are to be paid based on active (used or leased) international bearer circuits as of December 31, 2023, in any terrestrial or satellite transmission facility for the provision of service to an end user or resale carrier. When calculating the number of such active circuits, entities must include circuits used by themselves or their affiliates. For these purposes, “active circuits” include backup and redundant circuits as of December 31, 2023. Whether circuits are used specifically for voice or data is not relevant for purposes of determining that they are active circuits. In instances where a permit or license is transferred or assigned after October 1, 2023, responsibility for payment rests with the holder of the permit or license as of the fee due date.

64. CMRS and Mobile Services Assessments. The Commission will compile data from the Numbering Resource Utilization Forecast (NRUF) report that is based on “assigned” telephone number (subscriber) counts that have been adjusted for porting to net Type 0 ports (“in” and “out”). We have included non-geographic numbers in the calculation of the number of subscribers for each CMRS provider in Table 3 and the CMRS regulatory fee factor proposed in Table 4. CMRS provider regulatory fees will be calculated and should be paid based on the inclusion of non-geographic numbers. CMRS providers can adjust the total number of subscribers, if needed. This information of telephone numbers (subscriber count) will be posted on the Commission's Registration System (CORES) along with the carrier's Operating Company Numbers (OCNs).

65. A carrier wishing to revise its telephone number (subscriber) count can do so by accessing CORES and following the prompts to revise their telephone number counts. Any revisions to the telephone number counts should be accompanied by an explanation. The Commission will then review the revised count and supporting explanation, if any, and either approve or disapprove the submission in CORES. If the submission is disapproved, the Commission will contact the provider to afford the provider an opportunity to discuss its revised subscriber count and/or provide supporting documentation. If the Commission receives no response from the provider, or the Commission does not reverse its initial disapproval of the provider's revised count submission, the fee payment must be based on the number of subscribers listed initially in CORES. Once the timeframe for revision has passed, the telephone number counts are final and are the basis upon which CMRS regulatory fees are to be paid. Providers can view their final telephone counts online in CORES.

66. Because some carriers do not file the NRUF report, they may not see their telephone number counts in CORES. In these instances, the carriers should compute their fee payment using the standard methodology that is currently in place for CMRS Wireless services (i.e., compute their telephone number counts as of December 31, 2024), and submit their fee payment accordingly. Whether a carrier reviews its telephone number counts in CORES or not, the Commission reserves the right to audit the number of telephone numbers for which regulatory fees are paid. In the event that the Commission determines that the number of telephone numbers that are paid is inaccurate, the Commission will bill the carrier for the difference between what was paid and what should have been paid.

67. Regulatory Flexibility Act. The RFA requires that an agency prepare a regulatory flexibility analysis for notice and comment rulemakings, unless the agency certifies that “the rule will not, if promulgated, have a significant economic impact on a substantial number of small entities.” Accordingly, we have prepared an IRFA concerning the potential impact of rule and policy change proposals on small entities in the NPRM. The IRFA is set forth in the back of this rulemaking. The Commission invites the general public, in particular small businesses, to comment on the IRFA. Comments must be filed by the deadlines for comments on the NPRM indicated on the first page of this document and must have a separate and distinct heading designating them as responses to the IRFA.

List of Tables

Table 3—Calculation of FY 2024 Revenue Requirements and Pro-Rata Fees
Regulatory fees for the categories shaded in gray are collected by the Commission in advance to cover the term of the license and are submitted at the time the application is filed.
Fee category | FY 2024 payment units | Yrs | FY 2023 revenue estimate | Pro-Rated FY 2024 revenue requirement | Computed FY 2024 regulatory fee | Rounded FY 2024 reg. fee | Expected FY 2024 revenue
PLMRS (Exclusive Use) | 1,150 | 10 | 300,000 | 287,500 | 25.00 | 25 | 287,500
PLMRS (Shared use) | 23,300 | 10 | 1,900,000 | 2,330,000 | 10.00 | 10 | 2,330,000
Microwave | 16,500 | 10 | 4,000,000 | 4,125,000 | 25.00 | 25 | 4,125,000
Marine (Ship) | 7,000 | 10 | 1,050,000 | 1,050,000 | 15.00 | 15 | 1,050,000
Aviation (Aircraft) | 5,800 | 10 | 480,000 | 580,000 | 10.00 | 10 | 580,000
Marine (Coast) | 280 | 10 | 96,000 | 112,000 | 40.00 | 40 | 112,000
Aviation (Ground) | 270 | 10 | 60,000 | 54,000 | 20.00 | 20 | 54,000
AM Class A ¹ | 58 | 1 | 286,800 | 266,175 | 4,589 | 4,590 | 266,220
AM Class B ¹ | 1,305 | 1 | 3,556,605 | 3,302,737 | 2,531 | 2,530 | 3,301,650
AM Class C ¹ | 784 | 1 | 1,273,910 | 1,182,590 | 1,508 | 1,510 | 1,183,840
AM Class D ¹ | 1,325 | 1 | 4,208,245 | 3,906,677 | 2,948 | 2,950 | 3,908,750
FM Classes A, B1 & C3 ¹ | 3,021 | 1 | 8,885,560 | 8,238,364 | 2,727 | 2,725 | 8,232,225
FM Classes B, C, C0, C1 & C2 ¹ | 3,064 | 1 | 10,872,945 | 10,087,736 | 3,292 | 3,290 | 10,080,560
AM Construction Permits ² | 2 | 1 | 3,100 | 1,170 | 585 | 585 | 1,170
FM Construction Permits ² | 14 | 1 | 17,360 | 14,350 | 1,025 | 1,025 | 14,350
Digital Television ⁵ (including Satellite TV) | 3.541 billion population | 1 | 25,463,735 | 23,365,758 | .0065978 | .006598 | 23,363,518
Digital TV Construction Permits ² | 5 | 1 | 20,400 | 26,000 | 5,200 | 5,200 | 26,000
LPTV/Class A/Translators FM Trans/Boosters | 6,215 | 1 | 1,644,500 | 1,512,193 | 243.3 | 245 | 1,522,675
CARS Stations | 105 | 1 | 206,400 | 190,963 | 1,818.7 | 1,820 | 191,100
Cable TV Systems, including IPTV & DBS | 50,000,000 | 1 | 68,880,000 | 63,437,881 | 1.2688 | 1.27 | 63,500,000
Interstate Telecommunication Service Providers | $22,100,000,000 | 1 | 135,540,000 | 122,486,646 | 0.005542 | 0.005540 | 122,434,000
Toll Free Numbers | 35,000,000 | 1 | 4,511,000 | 4,208,697 | 0.12025 | 0.12 | 4,200,000
CMRS Mobile Services (Cellular/Public Mobile) | 562,000,000 | 1 | 88,480,000 | 90,320,215 | 0.1607 | 0.16 | 89,920,000
CMRS Messaging Services | 600,000 | 1 | 104,000 | 48,000 | 0.0800 | 0.080 | 48,000
BRS/ ³ | 1,200 | 1 | 836,500 | 870,000 | 725 | 725 | 870,000
LMDS | 370 | 1 | 252,000 | 268,250 | 725 | 725 | 268,250
Per Gbps circuit Int'l Bearer Circuits Terrestrial (Common & Non-Common) & Satellite (Common & Non-Common) | 20,000 | 1 | 442,000 | 329,712 | 16.5 | 17 | 340,000
Submarine Cable Providers (See chart at bottom of Table 4)⁴ | 71.56 | 1 | 8,228,605 | 6,264,533 | 87,542 | 87,540 | 6,264,362
Earth Stations | 2,900 | 1 | 1,667,500 | 3,244,837 | 1,119 | 1,120 | 3,248,000
Space Stations (Geostationary) | 134 | 1 | 15,990,880 | 31,112,505 | 232,183 | 232,185 | 31,112,790
Space Stations (Non-Geostationary, Other) | 8 | 1 | 3,129,795 | 5,975,115 | 746,889 | 746,890 | 5,975,120
Space Stations (Non-Geostationary, Less Complex) | 6 | 1 | 782,430 | 1,496,939 | 249,490 | 249,490 | 1,496,940
Space Stations (Non-Geostationary, Small Satellite) | 12 | 1 | 85,505 | 311,340 | 25,945 | 25,945 | 311,340
****** Total Estimated Revenue to be Collected |  |  | 392,991,324 | 389,916,319 |  |  | 390,621,601
****** Total Revenue Requirement |  |  | 390,192,000 | 390,192,000 |  |  | 390,192,000
Difference |  |  | 2,799,324 | (275,681) |  |  | 429,601
Notes on Table 3:
¹ The fee amounts listed in the column entitled “Rounded New FY 2024 Regulatory Fee” constitute a weighted average broadcast regulatory fee by class of service. The actual FY 2024 regulatory fees for AM/FM radio station are listed on a grid located at the end of Table 4.
² The AM and FM Construction Permit revenues and the Digital (VHF/UHF) Construction Permit revenues were adjusted, respectively, to set the regulatory fee to an amount no higher than the lowest licensed fee for that class of service based on the threshold 10,001-25,000, the traditional basis for identifying the lowest licensed fee. Reductions in the Digital (VHF/UHF) Construction Permit revenues, and in the AM and FM Construction Permit revenues, were offset by increases in the revenue totals for Digital television stations by market size, and in the AM and FM radio stations by class size and population served, respectively.
³ The MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, para. 6 (2004).
⁴ The chart at the end of Table 4 lists the submarine cable bearer circuit regulatory fees (common and non-common carrier basis) that resulted from the adoption of the Assessment and Collection of Regulatory Fees for Fiscal Year 2008, Report and Order and Further Notice of Proposed Rulemaking, 24 FCC Rcd 6388 (2008) and Assessment and Collection of Regulatory Fees for Fiscal Year 2008, Second Report and Order, 24 FCC Rcd 4208 (2009). The Submarine Cable fee in Table A is a weighted average of the various fee payers in the chart at the end of Table 3.
⁵ The actual digital television regulatory fees to be paid by call sign are identified in Table 8.

Table 4—FY 2024 Schedule of Regulatory Fees
Regulatory fees for the categories shaded in gray are collected by the Commission in advance to cover the term of the license and are submitted at the time the application is filed.
Fee category | Annual regulatory fee (U.S. $s)
PLMRS (per license) (Exclusive Use) (47 CFR part 90) | 25
Microwave (per license) (47 CFR part 101) | 25
Marine (Ship) (per station) (47 CFR part 80) | 15
Marine (Coast) (per license) (47 CFR part 80) | 40
Rural Radio (47 CFR part 22) (previously listed under the Land Mobile category) | 10
PLMRS (Shared Use) (per license) (47 CFR part 90) | 10
Aviation (Aircraft) (per station) (47 CFR part 87) | 10
Aviation (Ground) (per license) (47 CFR part 87) | 20
CMRS Mobile/Cellular Services (per unit) (47 CFR parts 20, 22, 24, 27, 80 and 90) (Includes Non-Geographic telephone numbers) | .16
CMRS Messaging Services (per unit) (47 CFR parts 20, 22, 24 and 90) | .08
Broadband Radio Service (formerly MMDS/MDS) (per license) (47 CFR part 27) | 725
Distribution Service (per call sign) (47 CFR, part 101) | 725
Local Multipoint | 725
AM Radio Construction Permits | 585
FM Radio Construction Permits | 1,025
AM and FM Broadcast Radio Station Fees | See Table Below
Digital TV (47 CFR part 73) VHF and UHF Commercial Fee Factor | $.006598 See Table 8 for fee amounts due, also available at https://www.fcc.gov/licensing-databases/fees/regulatory-fees
Digital TV Construction Permits | 5,200
Low Power TV, Class A TV, TV/FM Translators & FM Boosters (47 CFR part 74) | 245
CARS (47 CFR part 78) | 1,820
Cable Television Systems (per subscriber) (47 CFR part 76), Including IPTV and Direct Broadcast Satellite (DBS) | 1.27
Interstate Telecommunication Service Providers (per revenue dollar) | .00554
Toll Free (per toll free subscriber) (47 CFR section 52.101 (f) of the rules) | .12
Earth Stations (47 CFR part 25) | 1,120
Space Stations (per operational station in geostationary orbit) (47 CFR part 25) also includes DBS Service (per operational station) (47 CFR part 100) | 232,185
Space Stations (per operational system in non-geostationary orbit) (47 CFR part 25) (Other) | 746,890
Space Stations (per operational system in non-geostationary orbit) (47 CFR part 25) (Less Complex) | 249,945
Space Stations (per license/call sign in non-geostationary orbit) (47 CFR part 25) (Small Satellite) | 25,945
International Bearer Circuits—Terrestrial/Satellites (per Gbps circuit) | $17
Submarine Cable Landing Licenses Fee (per cable system) | See Table Below

FY 2024 Radio Station Regulatory Fees
Population served | AM Class A | AM Class B | AM Class C | AM Class D | FM Classes A, B1 & C3 | FM Classes B, C, C0, C1 & C2
≤10,000 | $560 | $405 | $350 | $385 | $615 | $700
10,001-25,000 | 935 | 675 | 585 | 645 | 1,025 | 1,170
25,001-75,000 | 1,405 | 1,015 | 880 | 970 | 1,540 | 1,755
75,001-150,000 | 2,105 | 1,520 | 1,315 | 1,450 | 2,305 | 2,635
150,001-500,000 | 3,160 | 2,280 | 1,975 | 2,180 | 3,465 | 3,955
500,001-1,200,000 | 4,730 | 3,415 | 2,960 | 3,265 | 5,185 | 5,920
1,200,001-3,000,000 | 7,105 | 5,130 | 4,445 | 4,900 | 7,790 | 8,890
3,000,001-6,000,000 | 10,650 | 7,690 | 6,665 | 7,345 | 11,675 | 13,325
>6,000,000 | 15,980 | 11,535 | 10,000 | 11,025 | 17,515 | 19,995

FY 2024 International Bearer Circuits—Submarine Cable Systems
Submarine cable systems (capacity as of December 31, 2023) | Fee ratio (units) | FY 2024 regulatory fees
Less than 50 Gbps | .0625 | $5,475
50 Gbps or greater, but less than 250 Gbps | .125 | 10,945
250 Gbps or greater, but less than 1,500 Gbps | .25 | 21,885
1,500 Gbps or greater, but less than 3,500 Gbps | .5 | 43,770
3,500 Gbps or greater, but less than 6,500 Gbps | 1.0 | 87,540
6,500 Gbps or greater | 2.0 | 175,080

Table 5—Sources of Payment Unit Estimates for FY 2024

In order to calculate individual service fees for FY 2024, we adjusted FY 2023 payment units for each service to more accurately reflect expected FY 2024 payment liabilities. We obtained our updated estimates through a variety of means and sources. For example, we used Commission licensee data bases, actual prior year payment records and industry and trade association projections, where available. The databases we consulted include our Universal Licensing System (ULS), International Bureau Filing System (IBFS), Licensing and Management System (LMS) and Cable Operations and Licensing System (COALS), as well as reports generated within the Commission such as the Wireless Telecommunications Bureau's Numbering Resource Utilization Forecast. Regulatory fee payment units are not all the same for all fee categories. For most fee categories, the term “units” reflect licenses or permits that have been issued, but for other fee categories, the term “units” reflect quantities such as subscribers, population counts, circuit counts, telephone numbers, and revenues. As more current data is received after the Notice of Proposed Rulemaking (NPRM) is released, the Commission sometimes adjusts the NPRM fee rates to reflect the new information in the Report and Order. This is intended to make sure that the fee rates in the Report and Order reflect more recent and accurate information. We realize that by adjusting the unit counts as more accurate information is received may adjust the fee rates for certain regulatory fee categories. Certain entities that collect the fees from customers in advance in order to pay the Commission, such as Cable and DBS companies, ITSP providers, Cell Phone and Toll-Free providers, to name a few, may need to adjust their billings to customers as the Commission adjusts its fee rates. As a result, the Commission understands that these adjustments are necessary so that these regulatees can recover their fee obligations from their customers.

We sought verification for these estimates from multiple sources and, in all cases, we compared FY 2024 estimates with actual FY 2023 payment units to ensure that our revised estimates were reasonable. Where appropriate, we adjusted and/or rounded our final estimates to take into consideration the fact that certain variables that impact on the number of payment units cannot yet be estimated with sufficient accuracy. These include an unknown number of waivers and/or exemptions that may occur in FY 2024 and the fact that, in many services, the number of actual licensees or station operators fluctuates from time to time due to economic, technical, or other reasons. When we note, for example, that our estimated FY 2024 payment units are based on FY 2023 actual payment units, it does not necessarily mean that our FY 2024 projection is exactly the same number as in FY 2023. We have either rounded the FY 2024 number or adjusted it slightly to account for these variables.

Fee category | Sources of payment unit estimates
Land Mobile (All), Microwave, Marine (Ship & Coast), Aviation (Aircraft & Ground), Domestic Public Fixed | Based on Wireless Telecommunications Bureau (WTB) information as well as prior year payment information. Estimates have been adjusted to take into consideration the licensing of portions of these services.
CMRS Cellular/Mobile Services | Based on WTB projection reports, and FY 2023 payment data.
CMRS Messaging Services | Based on WTB reports, and FY 2023 payment data.
AM/FM Radio Stations | Based on downloaded LMS data, adjusted for exemptions, and actual FY 2023 payment units.
Digital TV Stations (Combined VHF/UHF units) | Based on LMS data, fee rate adjusted for exemptions, and population figures are calculated based on individual station parameters.
AM/FM/TV Construction Permits | Based on LMS data, adjusted for exemptions, and actual FY 2023 payment units.
LPTV, Translators and Boosters, Class A Television | Based on LMS data, adjusted for exemptions, and actual FY 2023 payment units.
BRS (formerly MDS/MMDS)LMDS | Based on WTB reports and actual FY 2023 payment units. Based on WTB reports and actual FY 2023 payment units.
Cable Television Relay Service (CARS) Stations | Based on cable trend data, data from the Media Bureau's COALS database, and actual FY 2023 payment units.
Cable Television System Subscribers, Including IPTV Subscribers | Based on publicly available data sources for estimated subscriber counts, trend information from past payment data, and actual FY 2023 payment units.
Interstate Telecommunication Service Providers | Based on FCC Form 499-A worksheets due in April 2024, and any data assistance provided by the Wireline Competition Bureau.
Earth Stations | Based on International Bureau licensing data and actual FY 2023 payment units.
Space Stations (GSOs & NGSOs) | Based on International Bureau data reports and actual FY 2023 payment units.
International Bearer Circuits | Based on assistance provided by the International Bureau, any data submissions by licensees, adjusted as necessary, and actual FY 2023 payment units.
Submarine Cable Licenses | Based on International Bureau license information, and actual FY 2023 payment units.

Table 6—Factors, Measurements, and Calculations That Determine Station Signal Contours and Associated Population Coverages

AM Stations

For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @1 km) for the antenna system. The standard, or augmented standard if pertinent, horizontal plane radiation pattern was calculated using techniques and methods specified in sections 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2020 block centroids were contained in the polygon. (A block centroid is the center point of a small area containing population as computed by the U.S. Census Bureau.) The sum of the population figures for all enclosed blocks represents the total population for the predicted principal community coverage area.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials. The resulting distance to principal community contours were used to form a geographical polygon. Population counting was accomplished by determining which 2020 block centroids were contained in the polygon. The sum of the population figures for all enclosed blocks represents the total population for the predicted principal community coverage area.

Table 7—Space Station Satellite Charts for FY 2024 Regulatory Fees

Listing of Satellites Under Existing Methodology

Space Stations (Geostationary Orbit): U.S.-Licensed Space Stations
Licensee | Call sign | Satellite name | Type
Astranis Projects USA LLC | S3092 | ARCTURUS | GSO
Open Plaza Corp | S2922 | SKY-B1 | GSO
DIRECTV Enterprises, LLC | S2640 | DIRECTV T11 | GSO
DIRECTV Enterprises, LLC | S2711 | DIRECTV RB-1 | GSO
DIRECTV Enterprises, LLC | S2632 | DIRECTV T8 | GSO
DIRECTV Enterprises, LLC | S2669 | DIRECTV T9S | GSO
DIRECTV Enterprises, LLC | S2641 | DIRECTV T10 | GSO
DIRECTV Enterprises, LLC | S2797 | DIRECTV T12 | GSO
DIRECTV Enterprises, LLC | S2930 | DIRECTV T15 | GSO
DIRECTV Enterprises, LLC | S2673 | DIRECTV T5 | GSO
DIRECTV Enterprises, LLC | S2133 | SPACEWAY 2 | GSO
DIRECTV Enterprises, LLC | S3039 | DIRECTV T16 | GSO
DISH Operating L.L.C | S2931 | ECHOSTAR 18 | GSO
DISH Operating L.L.C | S2738 | ECHOSTAR 11 | GSO
DISH Operating L.L.C | S2694 | ECHOSTAR 10 | GSO
DISH Operating L.L.C | S2740 | ECHOSTAR 7 | GSO
DISH Operating L.L.C | S2790 | ECHOSTAR 14 | GSO
EchoStar Satellite Operating Corporation | S2811 | ECHOSTAR 15 | GSO
EchoStar Satellite Operating Corporation | S2844 | ECHOSTAR 16 | GSO
EchoStar Satellite Services L.L.C | S2179 | ECHOSTAR 9 | GSO
ES 172 LLC | S2610 | EUTELSAT 174A | GSO
ES 172 LLC | S3021 | EUTELSAT 172B | GSO
Horizon-3 Satellite LLC | S2947 | HORIZONS-3e | GSO
Hughes Network Systems, LLC | S2663 | SPACEWAY 3 | GSO
Hughes Network Systems, LLC | S2834 | ECHOSTAR 19 | GSO
Hughes Network Systems, LLC | S2753 | ECHOSTAR XVII | GSO
Intelsat License LLC/ViaSat, Inc | S2160 | GALAXY 28 | GSO
Intelsat License LLC | S2414 | INTELSAT 10-02 | GSO
Intelsat License LLC | S2972 | INTELSAT 37e | GSO
Intelsat License LLC | S2854 | NSS-7 | GSO
Intelsat License LLC | S2409 | INELSAT 905 | GSO
Intelsat License LLC | S2405 | INTELSAT 901 | GSO
Intelsat License LLC | S2408 | INTELSAT 904 | GSO
Intelsat License LLC | S2804 | INTELSAT 25 | GSO
Intelsat License LLC | S2959 | INTELSAT 35e | GSO
Intelsat License LLC | S2237 | INTELSAT 11 | GSO
Intelsat License LLC | S2785 | INTELSAT 14 | GSO
Intelsat License LLC | S2380 | INTELSAT 9 | GSO
Intelsat License LLC | S2831 | INTELSAT 23 | GSO
Intelsat License LLC | S2915 | INTELSAT 34 | GSO
Intelsat License LLC | S2863 | INTELSAT 21 | GSO
Intelsat License LLC | S2750 | INTELSAT 16 | GSO
Intelsat License LLC | S2715 | GALAXY 17 | GSO
Intelsat License LLC | S2154 | GALAXY 25 | GSO
Intelsat License LLC | S2253 | GALAXY 11 | GSO
Intelsat License LLC | S2381 | GALAXY 3C | GSO
Intelsat License LLC | S2887 | INTELSAT 30 | GSO
Intelsat License LLC | S2924 | INTELSAT 31 | GSO
Intelsat License LLC | S2647 | GALAXY 19 | GSO
Intelsat License LLC | S2687 | GALAXY 16 | GSO
Intelsat License LLC | S2733 | GALAXY 18 | GSO
Intelsat License LLC | S2385 | GALAXY 14 | GSO
Intelsat License LLC | S2386 | GALAXY 13 | GSO
Intelsat License LLC | S2422 | GALAXY 12 | GSO
Intelsat License LLC | S2387 | GALAXY 15 | GSO
Intelsat License LLC | S3016 | GALAXY 30 | GSO
Intelsat License LLC | S3078 | GALAXY 32 | GSO
Intelsat License LLC | S3148 | GALAXY 36 | GSO
Intelsat License LLC | S2704 | INTELSAT 5 | GSO
Intelsat License LLC | S2817 | INTELSAT 18 | GSO
Intelsat License LLC | S2850 | INTELSAT 19 | GSO
Intelsat License LLC | S2368 | INTELSAT 1R | GSO
Intelsat License LLC | S2789 | INTELSAT 15 | GSO
Intelsat License LLC | S2423 | HORIZONS 2 | GSO
Intelsat License LLC | S2846 | INTELSAT 22 | GSO
Intelsat License LLC | S2847 | INTELSAT 20 | GSO
Intelsat License LLC | S2948 | INTELSAT 36 | GSO
Intelsat License LLC | S2814 | INTELSAT 17 | GSO
Intelsat License LLC | S2410 | INTELSAT 906 | GSO
Intelsat License LLC | S2406 | INTELSAT 902 | GSO
Intelsat License LLC | S2939 | INTELSAT 33e | GSO
Intelsat License LLC | S2382 | INTELSAT 10 | GSO
Intelsat License LLC | S2751 | INTELSAT 28 | GSO
Intelsat License LLC | S3023 | INTELSAT 39 | GSO
Intelsat License LLC | S3066 | INTELSAT 40e | GSO
Ligado Networks Subsidiary, LLC | S2358 | SKYTERRA-1 | GSO
Ligado Networks Subsidiary, LLC | AMSC-1 | MSAT-2 | GSO
Novavision Group, Inc | S2861 | DIRECTV KU-79W | GSO
Satellite CD Radio LLC | S2812 | FM-6 | GSO
SES Americom, Inc | S2415 | NSS-10 | GSO
SES Americom, Inc | S2162 | AMC-3 | GSO
SES Americom, Inc | S2347 | AMC-6 | GSO
SES Americom, Inc | S2826 | SES-2 | GSO
SES Americom, Inc | S2807 | SES-1 | GSO
SES Americom, Inc | S2180 | AMC-15 | GSO
SES Americom, Inc | S2713 | AMC-18 | GSO
SES Americom, Inc | S3097 | SES-19 | GSO
SES Americom, Inc | S3099 | SES-21 | GSO
Silkwave Africa, LLC | S3074 | AsiaStar | GSO
Sirius XM Radio Inc | S2710 | FM-5 | GSO
Sirius XM Radio Inc | S3034 | XM-8 | GSO
Skynet Satellite Corp | S2933 | TELSTAR 12V | GSO
Skynet Satellite Corporation | S2357 | TELSTAR 11N | GSO
ViaSat, Inc | S2747 | VIASAT-1 | GSO
ViaSat, Inc | S2917 | VIASAT-3 | GSO
XM Radio LLC | S2786 | XM-5 | GSO

Space Stations (Geostationary Orbit): Non-U.S.-Licensed Space Stations—Market Access Through Petition for Declaratory Ruling
Licensee | Call sign | Satellite name | Type
ABS Global Ltd | S2987 | ABS-3A | GSO
Avanti Hylas 2 Ltd | S3130 | HYLAS-4 | GSO
DBSD Services Ltd | S2651 | DBSD G1 | GSO
Embratel TVSAT Telecomunicacoes S.A | S3142 | Star One D2 | GSO
Empresa Argentina de Soluciones Satelitales S.A | S2956 | ARSAT-2 | GSO
Eutelsat S.A | S3056 | EUTELSAT 8 WEST B | GSO
Eutelsat S.A | S3055 | EUTELSAT 139 WEST A | GSO
Gamma Acquisition L.L.C | S2633 | TerreStar 1 | GSO
Hispamar Satélites, S.A | S2793 | AMAZONAS-2 | GSO
Hispamar Satélites, S.A | S2886 | AMAZONAS-3 | GSO
Hispamar Satélites, S.A | S3086 | AMAZONAS NEXUS | GSO
Hispasat, S.A. | S2969 | HISPASAT 30W-6 | GSO
Inmarsat PLC | S2932 | Inmarsat-4 F3 | GSO
Inmarsat PLC | S2949 | Inmarsat-3 F5 | GSO
New Skies Satellites B.V | S2756 | NSS-9 | GSO
New Skies Satellites B.V | S2870 | SES-6 | GSO
New Skies Satellites B.V | S3048 | NSS-6 | GSO
New Skies Satellites B.V | S2828 | SES-4 | GSO
New Skies Satellites B.V | S2950 | SES-10 | GSO
Satelites Mexicanos, S.A. de C.V | S2695 | EUTELSAT 113 WEST A | GSO
Satelites Mexicanos, S.A. de C.V | S2926 | EUTELSAT 117 WEST B | GSO
Satelites Mexicanos, S.A. de C.V | S2938 | EUTELSAT 115 WEST B | GSO
Satelites Mexicanos, S.A. de C.V | S2873 | EUTELSAT 117 WEST A | GSO
SES Satellites (Gibraltar) Ltd | S2676 | AMC 21 | GSO
SES Americom, Inc | S3037 | NSS-11 | GSO
SES Americom, Inc | S2964 | SES-11 | GSO
SES DTH do Brasil Ltda | S2974 | SES-14 | GSO
Telesat Canada | S2745 | ANIK F1 | GSO
Telesat Canada | S2674 | ANIK F1R | GSO
Telesat Canada | S2703 | ANIK F3 | GSO
Telesat Canada | S2472 | ANIK F2 | GSO
Telesat International Ltd | S2955 | TELSTAR 19 VANTAGE | GSO
Viasat, Inc | S2902 | VIASAT-2 | GSO

Space Stations (Geostationary Orbit): Non-U.S.-Licensed Space Stations—Market Access Through Earth Station Licenses
Licensee | Call sign | Satellite name | Type
APSTAR VI | APSTAR 6 | M292090 | GSO
AUSSAT B 152E | OPTUS D2 | M221170 | GSO
Ciel Satellite Group | Ciel-2 | E050029 | GSO
Eutelsat 65 West A | Eutelsat 65 West A | E160081 | GSO
INMARSAT 4F1 | INMARSAT 4F1 | KA25 | GSO
INMARSAT 5F2 | INMARSAT 5F2 | E120072 | GSO
INMARSAT 5F3 | INMARSAT 5F3 | E150028 | GSO
JCSAT-2B | JCSAT-2B | M174163 | GSO
NIMIQ 5 | NIMIQ 5 | E080107 | GSO
WILDBLUE-1 | WILDBLUE-1 | E040213 | GSO

Space Stations (Per License/Call Sign in Non-Geostationary Orbit)
(Small Satellite)
ITU name (if available) | Common name | Call sign | Type
Capella Space Corp | Capella-2, Capella-3, Capella-4 | S3073 | Small Satellite.
Capella Space Corp | Capella-5, Capella-6 | S3080 | Small Satellite.
Capella Space Corp | Capella-7, Capella-8 | S3100 | Small Satellite.
Capella Space Corp | Acadia-1 | S3162 | Small Satellite.
Launcher, Inc | Orbiter SN3 | S3161 | Small Satellite.
Loft Orbital Solutions Inc | YAM-3 | S3072 | Small Satellite.
Loft Orbital Solutions Inc | YAM-5 | S3147 | Small Satellite.
Turion Space Corp | DROID.001 | S3146 | Small Satellite.
R2 Space, Inc | XR-1 | S3067 | Small Satellite.
ICEYE US, Inc | ICEYE | S3082 | Small Satellite.
Umbra Lab Inc | Umbra SAR | S3095 | Small Satellite.
ICEYE US, Inc | ICEYE Second Tranche | S3165 | Small Satellite.

Space Stations (Non-Geostationary Orbit)—Less Complex
ITU name (if available) | Common name | Call sign | Type
Planet Labs | Flock/Skysats | S2912 | Less Complex.
Maxar License | WorldView 1, 2 & 3, GeoEye-1 | S2129/S2348 | Less Complex.
BlackSky Global | Global | S3032 | Less Complex.
Orbital Sidekick, Inc | GHOSt | S3139 | Less Complex.
Hawkeye 360 | HE360 | S3042 | Less Complex.
Spire Global | LEMUR & MINAS | S2946/S3045 | Less Complex.

Space Stations (Non-Geostationary Orbit)—Other
ITU name (if available) | Common name | Call sign | Type
ORBCOMM License Corp | ORBCOMM | S2103 | Other.
Iridium Constellation LLC | IRIDIUM | S2110 | Other.
Telesat Canada | TELESAT Ku/Ka-Band | S2976 | Other.
Kepler Communications, Inc | KEPLER | S2981 | Other.
O3b Ltd | O3b | S2935 | Other.
Globalstar License LLC | GLOBALSTAR | S2115 | Other.
Swarm Technologies (Space Exploration Holdings, LLC) | SWARM | S3041 | Other.
WorldVu Satellites Ltd | ONEWEB | S2963 | Other.

Space Station Satellite Charts for Proposed FY 2024 Regulatory Fees

Table A—Space Stations Potentially Subject to Regulatory Fees in FY 2024

These charts publish a list of space stations and systems that would be subject to regulatory fees in FY 2024, including under the proposal made in the Space and Earth Station Regulatory Fees Notice of Proposed Rulemaking to assess regulatory fees on all authorized space stations, not only operational space stations.

Italicized entries reflect that the space station or system of NGSO space stations are authorized, but not operational for FY 2024, or are collocated with another GSO space station, and thus would be required to pay regulatory fees for FY 2024 if the proposals made in the Space and Earth Station Regulatory Fees Notice of Proposed Rulemaking to amend the existing methodology or under the alternative methodology are adopted, but would not otherwise be required to pay regulatory fees under the existing methodology.

Space Stations (Geostationary Orbit): U.S.-Licensed Space Stations
Licensee | Call sign | Satellite name | Type
Astranis Projects USA LLC | S3092 | ARCTURUS | GSO
Open Plaza Corp | S2922 | SKY-B1 | GSO
DIRECTV Enterprises, LLC | S2640 | DIRECTV T11 | GSO
DIRECTV Enterprises, LLC | S2711 | DIRECTV RB-1 | GSO
DIRECTV Enterprises, LLC | S2632 | DIRECTV T8 | GSO
DIRECTV Enterprises, LLC | S2669 | DIRECTV T9S | GSO
DIRECTV Enterprises, LLC | S2641 | DIRECTV T10 | GSO
DIRECTV Enterprises, LLC | S2797 | DIRECTV T12 | GSO
DIRECTV Enterprises, LLC | S2930 | DIRECTV T15 | GSO
DIRECTV Enterprises, LLC | S2673 | DIRECTV T5 | GSO
DIRECTV Enterprises, LLC | S2133 | SPACEWAY 2 | GSO
DIRECTV Enterprises, LLC | S3039 | DIRECTV T16 | GSO
DISH Operating L.L.C | S2931 | ECHOSTAR 18 | GSO
DISH Operating L.L.C | S2738 | ECHOSTAR 11 | GSO
DISH Operating L.L.C | S2694/S3093 | ECHOSTAR 10/ECHOSTAR 23 | GSO
DISH Operating L.L.C | S2740 | ECHOSTAR 7 | GSO
DISH Operating L.L.C | S2790 | ECHOSTAR 14 | GSO
EchoStar Satellite Operating Corporation | S2811 | ECHOSTAR 15 | GSO
EchoStar Satellite Operating Corporation | S2844 | ECHOSTAR 16 | GSO
EchoStar Satellite Services L.L.C | S2179 | ECHOSTAR 9 | GSO
ES 172 LLC | S2610 | EUTELSAT 174A | GSO
ES 172 LLC | S3021 | EUTELSAT 172B | GSO
Horizon-3 Satellite LLC | S2947 | HORIZONS-3e | GSO
Hughes Network Systems, LLC | S2663 | SPACEWAY 3 | GSO
Hughes Network Systems, LLC | S2834 | ECHOSTAR 19 | GSO
Hughes Network Systems, LLC | S2753 | ECHOSTAR XVII | GSO
Hughes Network Systems, LLC | S3017 | EchoStar XXIV | GSO
Intelsat License LLC/ViaSat, Inc | S2160 | GALAXY 28 | GSO
Intelsat License LLC | S2414 | INTELSAT 10-02 | GSO
Intelsat License LLC | S2972 | INTELSAT 37e | GSO
Intelsat License LLC | S2854 | NSS-7 | GSO
Intelsat License LLC | S2409 | INELSAT 905 | GSO
Intelsat License LLC | S2405 | INTELSAT 901 | GSO
Intelsat License LLC | S2408 | INTELSAT 904 | GSO
Intelsat License LLC | S2804 | INTELSAT 25 | GSO
Intelsat License LLC | S2959 | INTELSAT 35e | GSO
Intelsat License LLC | S2237 | INTELSAT 11 | GSO
Intelsat License LLC | S2785 | INTELSAT 14 | GSO
Intelsat License LLC | S2380 | INTELSAT 9 | GSO
Intelsat License LLC | S2831 | INTELSAT 23 | GSO
Intelsat License LLC | S2915 | INTELSAT 34 | GSO
Intelsat License LLC | S2863 | INTELSAT 21 | GSO
Intelsat License LLC | S2750 | INTELSAT 16 | GSO
Intelsat License LLC | S2715 | GALAXY 17 | GSO
Intelsat License LLC | S2154 | GALAXY 25 | GSO
Intelsat License LLC | S2253 | GALAXY 11 | GSO
Intelsat License LLC | S2381 | GALAXY 3C | GSO
Intelsat License LLC | S2887 | INTELSAT 30 | GSO
Intelsat License LLC | S2924/S3143 | INTELSAT 31/GALAXY 35 | GSO
Intelsat License LLC | S2647 | GALAXY 19 | GSO
Intelsat License LLC | S2687 | GALAXY 16 | GSO
Intelsat License LLC | S2733 | GALAXY 18 | GSO
Intelsat License LLC | S2385 | GALAXY 14 | GSO
Intelsat License LLC | S2386 | GALAXY 13 | GSO
Intelsat License LLC | S2422/S3083 | GALAXY 12/GALAXY 34 | GSO
Intelsat License LLC | S2387/S3015 | GALAXY 15/GALAXY 33 | GSO
Intelsat License LLC | S3016 | GALAXY 30 | GSO
Intelsat License LLC | S3078 | GALAXY 32 | GSO
Intelsat License LLC | S3148 | GALAXY 36 | GSO
Intelsat License LLC | S2704 | INTELSAT 5 | GSO
Intelsat License LLC | S2817 | INTELSAT 18 | GSO
Intelsat License LLC | S2850 | INTELSAT 19 | GSO
Intelsat License LLC | S2368 | INTELSAT 1R | GSO
Intelsat License LLC | S2789 | INTELSAT 15 | GSO
Intelsat License LLC | S2423 | HORIZONS 2 | GSO
Intelsat License LLC | S2846 | INTELSAT 22 | GSO
Intelsat License LLC | S2847 | INTELSAT 20 | GSO
Intelsat License LLC | S2948 | INTELSAT 36 | GSO
Intelsat License LLC | S2814 | INTELSAT 17 | GSO
Intelsat License LLC | S2410 | INTELSAT 906 | GSO
Intelsat License LLC | S2406 | INTELSAT 902 | GSO
Intelsat License LLC | S2939 | INTELSAT 33e | GSO
Intelsat License LLC | S2382 | INTELSAT 10 | GSO
Intelsat License LLC | S2751 | INTELSAT 28 | GSO
Intelsat License LLC | S3023 | INTELSAT 39 | GSO
Intelsat License LLC | S3066 | INTELSAT 40e | GSO
Ligado Networks Subsidiary, LLC | S2358 | SKYTERRA-1 | GSO
Ligado Networks Subsidiary, LLC | AMSC-1 | MSAT-2 | GSO
Novavision Group, Inc | S2861 | DIRECTV KU-79W | GSO
Satellite CD Radio LLC | S2812 | FM-6 | GSO
SES Americom, Inc | S2415 | NSS-10 | GSO
SES Americom, Inc | S2162 | AMC-3 | GSO
SES Americom, Inc | S2347 | AMC-6 | GSO
SES Americom, Inc | S2826 | SES-2 | GSO
SES Americom, Inc | S2807 | SES-1 | GSO
SES Americom, Inc | S2892/S3096/S3098 | SES-3/SES-18/SES-20 | GSO
SES Americom, Inc | S2180 | AMC-15 | GSO
SES Americom, Inc | S2713 | AMC-18 | GSO
Telesat Canada | S2433 | AMC-11 | GSO
SES Americom, Inc | S3097/S3138 | SES-19/SES-22 | GSO
SES Americom, Inc | S3099 | SES-21 | GSO
Silkwave Africa, LLC | S2666 | AfriStar-2 | GSO
Silkwave Africa, LLC | S3074 | AsiaStar | GSO
Sirius XM Radio Inc | S2710 | FM-5 | GSO
Sirius XM Radio Inc | S3034/S2617/S2616/S3033 | XM-8/XM-3/XM-4//XM-7 | GSO
Skynet Satellite Corporation | S2933 | TELSTAR 12V | GSO
Skynet Satellite Corporation | S2357 | TELSTAR 11N | GSO
ViaSat, Inc | S2747 | VIASAT-1 | GSO
ViaSat, Inc | S2917/S3050 | VIASAT-3/VIASAT-89US | GSO
XM Radio LLC | S2786 | XM-5 | GSO

Space Stations (Geostationary Orbit): Non-U.S.-Licensed Space Stations—Market Access Through Petition for Declaratory Ruling
Licensee | Call sign | Satellite name | Type
ABS Global Ltd | S2987 | ABS-3A | GSO
Avanti Hylas 2 Ltd | S3130 | HYLAS-4 | GSO
DBSD Services Ltd | S2651 | DBSD G1 | GSO
Embratel TVSAT Telecomunicacoes S.A | S3142 | Star One D2 | GSO
Empresa Argentina de Soluciones Satelitales S.A | S2956 | ARSAT-2 | GSO
Eutelsat S.A | S3056 | EUTELSAT 8 WEST B | GSO
Eutelsat S.A | S3055 | EUTELSAT 139 WEST A | GSO
Gamma Acquisition L.L.C | S2633 | TerreStar 1 | GSO
Hispamar Satélites, S.A | S2793 | AMAZONAS-2 | GSO
Hispamar Satélites, S.A | S2886 | AMAZONAS-3 | GSO
Hispamar Satélites, S.A | S3086 | AMAZONAS NEXUS | GSO
Hispasat, S.A | S2969 | HISPASAT 30W-6 | GSO
Inmarsat PLC | S2932 | Inmarsat-4 F3 | GSO
Inmarsat PLC | S2949 | Inmarsat-3 F5 | GSO
New Skies Satellites B.V | S2756 | NSS-9 | GSO
New Skies Satellites B.V | S2870 | SES-6 | GSO
New Skies Satellites B.V | S3048 | NSS-6 | GSO
New Skies Satellites B.V | S2828 | SES-4 | GSO
New Skies Satellites B.V | S2950 | SES-10 | GSO
Satelites Mexicanos, S.A. de C.V | S2695 | EUTELSAT 113 WEST A | GSO
Satelites Mexicanos, S.A. de C.V | S2926 | EUTELSAT 117 WEST B | GSO
Satelites Mexicanos, S.A. de C.V | S2938 | EUTELSAT 115 WEST B | GSO
Satelites Mexicanos, S.A. de C.V | S2873 | EUTELSAT 117 WEST A | GSO
SES Satellites (Gibraltar) Ltd | S2676 | AMC 21 | GSO
SES Americom, Inc | S3037 | NSS-11 | GSO
SES Americom, Inc | S2964 | SES-11 | GSO
SES DTH do Brasil Ltda | S2974 | SES-14 | GSO
Telesat Canada | S2745 | ANIK F1 | GSO
Telesat Canada | S2674 | ANIK F1R | GSO
Telesat Canada | S2703 | ANIK F3 | GSO
Telesat Canada | S2472 | ANIK F2 | GSO
Telesat International Ltd | S2955 | TELSTAR 19 VANTAGE | GSO
Viasat, Inc | S2902 | VIASAT-2 | GSO

Space Stations (Geostationary Orbit): Non-U.S.-Licensed Space Stations—Market Access Through Earth Station Licenses
Licensee | Call sign | Satellite name | Type
APSTAR VI | APSTAR 6 | M292090 | GSO
AUSSAT B 152E | OPTUS D2 | M221170 | GSO
Ciel Satellite Group | Ciel-2 | E050029 | GSO
Eutelsat 65 West A | Eutelsat 65 West A | E160081 | GSO
INMARSAT 4F1 | INMARSAT 4F1 | KA25 | GSO
INMARSAT 5F2 | INMARSAT 5F2 | E120072 | GSO
INMARSAT 5F3 | INMARSAT 5F3 | E150028 | GSO
JCSAT-2B | JCSAT-2B | M174163 | GSO
NIMIQ 5 | NIMIQ 5 | E080107 | GSO
WILDBLUE-1 | WILDBLUE-1 | E040213 | GSO

Space Stations (Per License/Call Sign in Non-Geostationary Orbit)
(Small Satellite)
ITU Name (if available) | Common name | Call sign | Type
Capella Space Corp | Capella-2, Capella-3, Capella-4 | S3073 | Small Satellite.
Capella Space Corp | Capella-5, Capella-6 | S3080 | Small Satellite.
Capella Space Corp | Capella-7, Capella-8 | S3100 | Small Satellite.
Capella Space Corp | Acadia-1 | S3162 | Small Satellite.
Launcher, Inc | Orbiter SN3 | S3161 | Small Satellite.
Loft Orbital Solutions Inc | YAM-3 | S3072 | Small Satellite.
Loft Orbital Solutions Inc | YAM-5 | S3147 | Small Satellite.
Turion Space Corp | DROID.001 | S3146 | Small Satellite.
R2 Space, Inc | XR-1 | S3067 | Small Satellite.
ICEYE US, Inc | ICEYE | S3082 | Small Satellite.
Umbra Lab Inc | Umbra SAR | S3095 | Small Satellite.
Space Logistics, LLC | MISSION EXTENSION VEHICLE-1 | S2990 | RPO/OOS.
Space Logistics, LLC | MISSION EXTENSION VEHICLE-2 | S3059 | RPO/OOS.
Momentus Space LLC | VIGORIDE-5 | S3144 | OTV.
Momentus Space LLC | VIGORIDE-6 | S3154 | OTV.
Spaceflight Inc | SHERPA-AC1 | S3133 | OTV.
Lynk Global, Inc | Lynk Tower 1-10 | S3087 | Small Satellite.
Outpost Technologies Corporation | Outpost Mission 2 | S3174 | Small Satellite.
Odyssey SpaceWorks | OSW Cazorla | S3176 | Small Satellite.
ICEYE US, Inc | ICEYE Second Tranche | S3165 | Small Satellite.

Space Stations (Non-Geostationary Orbit)—Less Complex
ITU name (if available) | Common name | Call sign | Type | Number of space stations authorized
Planet Labs | Flock/Skysats | S2912 | Less Complex | 566
Maxar License | WorldView 1,2 & 3, GeoEye-1 | S2129/S2348 | Less Complex | 15
BlackSky Global | Global | S3032 | Less Complex | 16
Orbital Sidekick, Inc | GHOSt | S3139 | Less Complex | 6
Hawkeye 360 | HE360 | S3042 | Less Complex | 174
Spire Global | LEMUR & MINAS | S2946/S3045 | Less Complex | 636

Space Stations (Non-Geostationary Orbit)—Other (Small Constellation)
ITU name (if available) | Common name | Call sign | Number of space stations authorized
ORBCOMM License Corp | ORBCOMM | S2103 | 72
Iridium Constellation LLC | IRIDIUM | S2110 | 99
Telesat Canada | TELESAT Ku/Ka-Band | S2976 | 117
Kepler Communications, Inc | KEPLER | S2981 | 140
Myriota Pty. Ltd | MYRIOTA | S3047 | 26
O3b Ltd | O3b | S2935 | 42
Globalstar License LLC | GLOBALSTAR | S2115 | 96
Swarm Technologies (Space Exploration Holdings, LLC) | SWARM | S3041 | 150
Theia Holdings A, Inc | THEIA | S2986 | 112
Space Norway AS | ARCTIC SATELLITE BROADBAND MISSION | S2978 | 2
Kinéis | KINÉIS | S3054 | 25

Space Stations (Non-Geostationary Orbit)—Other (Large Constellation)
ITU name (if available) | Common name | Call sign | Number of space stations authorized
Space Exploration Holdings, LLC | SPACEX Ku/Ka-Band | S2983/S3018/ | 4408
Space Exploration Holdings, LLC | SPACEX GEN 2 | S3069 | 7500
WorldVu Satellites Ltd | ONEWEB | S2963 | 720
WorldVu Satellites Limited, Debtor-in-Possession | ONEWEB V-BAND | S2994 | 2000
Kuiper Systems LLC | KUIPER | S3051 | 5236

Table B—FY 2024 Space and Earth Station Regulatory Fees Calculations if Proposals To Amend the Existing Fee Methodology are Adopted and Effective

The following chart provides an analysis of potential regulatory fees for space and earth stations for FY 2024 assuming all the proposals to amend the existing methodology for determining space and earth station fees in the Space and Earth Station Regulatory Fees Notice of Proposed Rulemaking (NPRM), FCC 24-31, are adopted and effective for FY 2024. These proposals include reallocation of the split of space station regulatory fees between GSO and NGSO from 80/20 to 60/40, creation of new fee categories for Large and Small Constellations in the NGSO “other” category, assessment of fees on authorized, not just operational, space stations, establishment of a fixed fee for small satellites/spacecraft fee, assessing fees on rendezvous and proximity operations (RPO), on-orbit servicing (OOS), and orbital transfer vehicle (OTV) space stations using the fee category for small satellites, and an allocation of 20% of Space Bureau regulatory fees to earth stations. It assumes the same number of earth station payors in FY 2024 as there were in FY 2023 (2900 units). It does not incorporate the proposals included in the alternative methodology.

Space Bureau Share of FCC FY 2024 Appropriation | $42,140,736 (rounded up to nearest dollar).
Equals $390,192,000 times 10.8%
Earth Station Share of Space Bureau FTE Burden | $8,428,148 (rounded up to nearest dollar).
Equals Space Bureau Share of FCC FY 2024 Appropriation * 20% (proposed)
Per Unit Fee—Earth Stations: Transmit/Receive & Transmit only (per authorization or registration) | $2,907 (rounded up to nearest dollar).
Equals Earth Station Share of Space Bureau FTE Burden/2,900 units (FY 2023)
Space Station Share of Space Bureau FTE Burden (Includes GSO and NGS O Satellites). | $33,712,589 (rounded up to nearest dollar).
Equals GSO Space Bureau Share of FCC FY 2024 Appropriation * 80% (proposed) | $26,970,070 divided by 136 GSO Satellites = $198,309 per satellite.
Equals GSO Space Station Share of Space Bureau FTE Burden * 60% (proposed) | $20,227,553 divided by 136 GSO Satellites = $148,732.
Small Satellite Share of Space Station Share | $244,300 (rounded up to nearest dollar).
Equals FY 2023 small satellite fee ($12,215) * 20 estimated small satellite fee payors in FY 2024 (including RPO, OOS, or OTV space stations) | NGSO—Other Revenue Portion—$195,440. NGSO—Less Complex Portion—$48,860.
NGSO Space Station Share of Space Bureau FTE Burden | $13,485,035 (rounded up to nearest dollar).
Equals NGSO Space Station Share of Space Bureau FTE Burden * 40% (proposed)) NGSO—Other at 80% NGSO—Less Complex at 20% | $10,788,028 divided by 16 units = $674,252 fee. With Small Satellite Reduction = $662,037. $2,697,007 divided by 6 units = $449,501 fee. With Small Satellite Reduction = $441,358.
NGSO Space Station Share of Space Bureau FTE Burden | $6,742,518 (rounded up to nearest dollar).
Share at 20% (proposed) Equals NGSO Space Station Share—20% NGSO—Other at 80% NGSO—Less Complex at 20% | $5,394,014 divided by 16 units = $337,126. With Small Satellite Reduction = $324,911. $1,348,504 divided by 6 units = $224,751. With Small Satellite Reduction = $216,607.
Space Stations (Non-Geostationary Orbit)—Other (Large Constellations) Share | $5,394,014 divided by 50% = $2,697,007.
Equals NGSO Other * 50%−Proposed 20%
Per System Fee—Space Stations (Non-Geostationary Orbit)—Other (Large Constellations) | $5,394,014 divided by 3 = $1,798,005 (rounded up to nearest dollar).
Equals NGSO Other (Large Constellation) Share/3 authorized (SpaceX, OneWeb, Kuiper)
Space Stations (Non-Geostationary Orbit)—Other (Small Constellations) Share | $5,394,014 divided by 50% = $2,697,007.
Equals NGSO Other * 50%−Proposed 20%
Per System Fee—Space Stations (Non-Geostationary Orbit)—Other (Small Constellations) | $5,394,014 divided by 12 = $449,501 (rounded up to nearest dollar).
Equals NGSO Other (Small Constellation) Share/12 authorized (O3b, Kepler , Swarm, Iridium, Globalstar, Orbcomm Space Norway, Theia, Viasat, Myriota, Kineis, Telesat)
Space Stations (Non-Geostationary Orbit)—Other (Large Constellations) Share | $10,788,028 divided by 50% = $5,394,014.
Equals NGSO Other * 50%—Proposed 40%
Per System Fee—Space Stations (Non-Geostationary Orbit)—Other (Large Constellations) | $10,788,028 divided by 3 = $3,596,009 (rounded up to nearest dollar).
Equals NGSO Other (Large Constellation) Share/3 authorized (SpaceX, OneWeb, Kuiper)
Space Stations (Non-Geostationary Orbit)—Other (Small Constellations) Share | $10,788,028 divided by 50% = $5,394,014.
Equals NGSO Other * 50%—Proposed 40%
Per System Fee—Space Stations (Non-Geostationary Orbit)—Other (Small Constellations) | $10,788,028 divided by 12 = $899,002 (rounded up to nearest dollar).
Equals NGSO Other (Small Constellation) Share/12 authorized (O3b, Kepler, Swarm, Iridium, Globalstar, Orbcomm Space Norway, Theia, Viasat, Myriota, Kineis, Telesat)

Table C—FY 2024 Space and Earth Station Regulatory Fees Calculated if the Proposed Alternative Fee Methodology is Adopted and Effective

The following chart provides an analysis of potential regulatory fees for space and earth stations for FY 2024 if the alternative methodology for assessing space station fees in the Space and Earth Station Regulatory Fees Notice of Proposed Rulemaking (NPRM), FCC 24-31, is adopted and effective for FY 2024. It assumes that the share of space station regulatory fees will be 80% of all Space Bureau fees for FY 2024 ($33,712,589), and that 20 small satellite payors (including RPO, OOS, and OTV space stations) will contribute $244,300 in collections, resulting in $33,468,289 to be collected from remaining space station payors. It also assumes that the proposal to assess regulatory fees on authorized, not just operational, space stations is adopted.

Number of GSO Units: 150 (estimate of 135 operational and 15 authorized GSO space stations for FY 2024)

Number of NGSO Units (non-small sats): 70 (using 500 space station tiers); 49 (using 1,000 space station tiers)

Total Number of Units (GSO + NGSO (non-small sats)): 220 (using 500 space station tiers); 199 (using 1000 space station tiers)

Fee per Unit/Tier: $152,129 (500 space station tier); $168,182 (1,000 space station tier) (This number would be the annual fee for all authorized GSO space stations; for NGSO space stations—other than small satellites—the fee would be calculated by taking the fee per unit for the first 100 authorized space stations per system, and adding the number of additional units, on either per 500 or per 1000 authorized space stations for each additional tier)

Licensee—call sign(s) | Number of authorized space stations | Number of units assessed (500 tier) | Total estimated fee (500 tier) | Number of units assessed (1,000 tier) | Total estimated fee (1,000 tier)
Maxar (WORLDVIEW 1, 2, and 3/WORLDVIEW LEGION 1-12), S2129 | 15 | 1 | $152,129 | 1 | $168,183
Planet FLOCK/SKYSAT/PELICAN, S2912 | 566 | 3 | 456,386 | 2 | 336,365
SPIRE GLOBAL, S2946/S3045 | 636 | 3 | 456,386 | 2 | 336,365
BlackSky Global, S3032 | 16 | 1 | 152,129 | 1 | 168,183
Hawkeye 360, S3042 | 174 | 2 | 304,258 | 2 | 336,365
Swarm, S3041 | 150 | 2 | 304,258 | 2 | 336,365
Orbital Sidekick, S3139 | 16 | 1 | 152,129 | 1 | 168,183
Myriota, S3047 | 26 | 1 | 152,129 | 1 | 168,183
Kineis, S3054 | 25 | 1 | 152,129 | 1 | 168,183
ORBCOMM License Corp., S2103 | 72 | 1 | 152,129 | 1 | 168,183
Iridium Constellation LLC, S2110 | 99 | 1 | 152,129 | 1 | 168,183
GLOBALSTAR, S2115 | 96 | 1 | 152,129 | 1 | 168,183
O3b, S2935 | 42 | 1 | 152,129 | 1 | 168,183
WorldVU Satellites Ltd. (OneWeb) Ku-/Ka-band/V-band, S2963/S2994 | 2720 | 6 | 912,772 | 4 | 672,730
Telesat Canada (Ku/Ka-band), S2976 | 117 | 2 | 304,258 | 2 | 336,365
Theia, S2986 | 112 | 2 | 304,258 | 2 | 336,365
Space Norway, S2978 | 2 | 1 | 152,129 | 1 | 168,183
Kepler Communications, Inc., S2981 | 140 | 2 | 304,258 | 2 | 336,365
Viasat, S2985 | 20 | 1 | 152,129 | 1 | 168,183
Kuiper, S3051 | 5236 | 12 | 1,825,544 | 7 | 1,177,277
SpaceX (Ku/Ka-band/Gen-2), S2983/S3018/S3069 | 11,908 | 25 | 3,803,215 | 13 | 2,186,371
Total Number of NGSO Units |  | 70 | 10,659,001 | 49 | 8,240,936
Total Number of GSO Units |  | 150 | 22,812,889 | 150 | 25,227,354
Totals |  | 220 | 33,468,289 | 199 | 33,468,289

Table 8—FY 2024 Full-Service Broadcast Television Stations by Call Sign
Facility Id. | Call sign | Service area population | Terrain limited population | Terrain limited fee amount
3246 | KAAH-TV | 1,018,897 | 939,246 | $6,197
18285 | KAAL | 605,222 | 580,564 | 3,831
11912 | KAAS-TV | 243,984 | 243,947 | 1,610
56528 | KABB | 3,017,860 | 3,000,477 | 19,797
282 | KABC-TV | 18,303,336 | 17,670,502 | 116,590
1236 | KACV-TV | 383,228 | 383,071 | 2,528
33261 | KADN-TV | 889,583 | 889,583 | 5,869
8263 | KAEF-TV | 139,510 | 124,133 | 819
2728 | KAET | 4,867,739 | 4,836,434 | 31,911
2767 | KAFT | 1,294,492 | 1,218,670 | 8,041
62442 | KAID | 864,547 | 857,276 | 5,656
4145 | KAII-TV | 203,698 | 179,435 | 1,184
67494 | KAIL | 2,091,288 | 2,061,175 | 13,600
13988 | KAIT | 594,090 | 583,749 | 3,852
40517 | KAJB | 393,654 | 393,355 | 2,595
65522 | KAKE | 821,488 | 816,811 | 5,389
804 | KAKM | 397,237 | 395,241 | 2,608
148 | KAKW-DT | 3,350,876 | 3,242,159 | 21,392
51598 | KALB-TV | 933,915 | 932,500 | 6,153
51241 | KALO | 1,018,088 | 971,631 | 6,411
40820 | KAMC | 411,973 | 411,949 | 2,718
8523 | KAMR-TV | 377,485 | 377,410 | 2,490
65301 | KAMU-TV | 395,784 | 392,044 | 2,587
2506 | KAPP | 337,194 | 298,159 | 1,967
3658 | KARD | 680,743 | 678,724 | 4,478
23079 | KARE | 4,243,145 | 4,234,439 | 27,939
33440 | KARK-TV | 1,243,813 | 1,230,366 | 8,118
37005 | KARZ-TV | 1,153,588 | 1,134,221 | 7,484
32311 | KASA-TV | 1,198,361 | 1,159,350 | 7,649
41212 | KASN | 1,200,705 | 1,185,725 | 7,823
7143 | KASW | 4,828,272 | 4,813,078 | 31,757
55049 | KASY-TV | 1,182,887 | 1,143,258 | 7,543
33471 | KATC | 1,376,057 | 1,376,057 | 9,079
13813 | KATN | 95,520 | 95,197 | 628
21649 | KATU | 3,400,708 | 3,238,560 | 21,368
33543 | KATV | 1,285,451 | 1,265,986 | 8,353
50182 | KAUT-TV | 1,810,654 | 1,809,428 | 11,939
21488 | KAUU | 398,876 | 396,486 | 2,616
6864 | KAUZ-TV | 366,943 | 365,162 | 2,409
73101 | KAVU-TV | 323,202 | 322,961 | 2,131
49579 | KAWB | 193,767 | 193,705 | 1,278
49578 | KAWE | 139,854 | 137,788 | 909
58684 | KAYU-TV | 925,282 | 861,276 | 5,683
29234 | KAZA-TV | 15,481,136 | 14,233,993 | 93,916
17433 | KAZD | 8,087,952 | 8,085,339 | 53,347
776273 | KAZF | 253,785 | 188,057 | 1,241
1151 | KAZQ | 1,137,703 | 1,126,947 | 7,436
35811 | KAZT-TV | 495,353 | 409,112 | 2,699
4148 | KBAK-TV | 1,626,532 | 1,363,867 | 8,999
16940 | KBCA | 465,218 | 465,157 | 3,069
53586 | KBCB | 1,510,168 | 1,478,647 | 9,756
22685 | KBDI-TV | 4,731,715 | 4,335,180 | 28,604
56384 | KBEH | 18,512,098 | 18,476,669 | 121,909
65395 | KBFD-DT | 1,016,508 | 887,671 | 5,857
169030 | KBGS-TV | 176,432 | 173,977 | 1,148
61068 | KBHE-TV | 153,390 | 144,914 | 956
48556 | KBIM-TV | 226,233 | 226,194 | 1,492
29108 | KBIN-TV | 1,014,918 | 1,013,041 | 6,684
33658 | KBJR-TV | 278,564 | 274,572 | 1,812
83306 | KBLN-TV | 322,286 | 145,745 | 962
63768 | KBLR | 2,280,730 | 2,220,879 | 14,653
53324 | KBME-TV | 146,149 | 146,082 | 964
10150 | KBMT | 799,217 | 798,262 | 5,267
22121 | KBMY | 142,682 | 142,622 | 941
49760 | KBOI-TV | 869,688 | 862,287 | 5,689
55370 | KBRR | 154,408 | 154,405 | 1,019
66414 | KBSD-DT | 151,986 | 151,901 | 1,002
66415 | KBSH-DT | 97,884 | 95,916 | 633
19593 | KBSI | 730,259 | 728,325 | 4,805
66416 | KBSL-DT | 47,462 | 46,328 | 306
4939 | KBSV | 1,535,281 | 1,424,913 | 9,402
62469 | KBTC-TV | 4,319,699 | 4,228,861 | 27,902
61214 | KBTV-TV | 771,692 | 771,692 | 5,092
6669 | KBTX-TV | 5,354,551 | 5,351,089 | 35,306
35909 | KBVO | 1,911,833 | 1,684,206 | 11,112
58618 | KBVU | 136,908 | 121,846 | 804
6823 | KBYU-TV | 2,838,181 | 2,620,447 | 17,290
33756 | KBZK | 156,388 | 139,258 | 919
21422 | KCAL-TV | 18,258,912 | 17,586,821 | 116,038
11265 | KCAU-TV | 769,096 | 754,352 | 4,977
14867 | KCBA | 3,334,176 | 2,557,080 | 16,872
27507 | KCBD | 433,372 | 432,694 | 2,855
9628 | KCBS-TV | 18,628,137 | 17,359,665 | 114,539
49750 | KCBY-TV | 92,825 | 77,624 | 512
33710 | KCCI | 1,216,146 | 1,209,219 | 7,978
9640 | KCCW-TV | 294,831 | 287,246 | 1,895
63158 | KCDO-TV | 3,305,368 | 3,160,730 | 20,854
62424 | KCDT | 807,726 | 762,258 | 5,029
83913 | KCEB | 446,377 | 445,850 | 2,942
57219 | KCEC | 4,497,531 | 4,237,580 | 27,960
10245 | KCEN-TV | 2,224,490 | 2,174,193 | 14,345
13058 | KCET | 17,868,933 | 16,310,676 | 107,618
18079 | KCFW-TV | 196,292 | 157,001 | 1,036
132606 | KCGE-DT | 129,244 | 129,244 | 853
60793 | KCHF | 1,157,628 | 1,127,207 | 7,437
33722 | KCIT | 392,243 | 391,646 | 2,584
62468 | KCKA | 1,082,723 | 906,771 | 5,983
41969 | KCLO-TV | 150,949 | 145,392 | 959
47903 | KCNC-TV | 4,460,509 | 4,175,114 | 27,547
71586 | KCNS | 9,007,762 | 8,012,556 | 52,867
33742 | KCOP-TV | 18,134,022 | 17,318,605 | 114,268
19117 | KCOS | 1,092,982 | 1,092,792 | 7,210
63165 | KCOY-TV | 700,154 | 478,768 | 3,159
33894 | KCPQ | 5,131,164 | 4,985,829 | 32,896
53843 | KCPT | 2,690,171 | 2,688,808 | 17,741
33875 | KCRA-TV | 11,608,107 | 7,153,845 | 47,201
9719 | KCRG-TV | 1,174,546 | 1,156,435 | 7,630
60728 | KCSD-TV | 323,237 | 323,093 | 2,132
59494 | KCSG | 229,899 | 220,818 | 1,457
33749 | KCTS-TV | 4,848,434 | 4,778,758 | 31,530
41230 | KCTV | 2,732,197 | 2,730,443 | 18,015
58605 | KCVU | 700,745 | 689,702 | 4,551
10036 | KCWC-DT | 42,872 | 38,501 | 254
64444 | KCWE | 2,642,880 | 2,641,432 | 17,428
51502 | KCWI-TV | 1,152,163 | 1,151,070 | 7,595
42008 | KCWO-TV | 55,411 | 55,383 | 365
166511 | KCWV | 210,633 | 210,626 | 1,390
24316 | KCWX | 4,947,756 | 4,941,660 | 32,605
68713 | KCWY-DT | 85,085 | 84,715 | 559
22201 | KDAF | 7,951,276 | 7,949,040 | 52,448
33764 | KDBC-TV | 1,101,513 | 1,097,028 | 7,238
79258 | KDCK | 43,010 | 42,993 | 284
166332 | KDCU-DT | 773,823 | 773,808 | 5,106
38375 | KDEN-TV | 3,968,060 | 3,943,641 | 26,020
17037 | KDFI | 7,990,955 | 7,989,287 | 52,713
33770 | KDFW | 7,962,141 | 7,959,855 | 52,519
29102 | KDIN-TV | 1,193,740 | 1,189,191 | 7,846
25454 | KDKA-TV | 3,569,162 | 3,428,192 | 22,619
60740 | KDKF | 73,619 | 66,137 | 436
4691 | KDLH | 267,326 | 264,686 | 1,746
41975 | KDLO-TV | 214,024 | 213,819 | 1,411
55379 | KDLT-TV | 700,230 | 689,305 | 4,548
55375 | KDLV-TV | 98,101 | 97,673 | 644
25221 | KDMD | 394,250 | 391,278 | 2,582
78915 | KDMI | 1,248,443 | 1,247,337 | 8,230
56524 | KDNL-TV | 3,013,924 | 3,009,244 | 19,855
24518 | KDOC-TV | 18,264,021 | 17,379,123 | 114,667
1005 | KDOR-TV | 1,180,603 | 1,177,894 | 7,772
60736 | KDRV | 551,809 | 469,537 | 3,098
61064 | KDSD-TV | 65,355 | 60,171 | 397
53329 | KDSE | 52,777 | 51,188 | 338
56527 | KDSM-TV | 1,202,702 | 1,201,866 | 7,930
49326 | KDTN | 7,901,133 | 7,898,922 | 52,117
83491 | KDTP | 25,965 | 23,729 | 157
33778 | KDTV-DT | 8,697,794 | 7,750,134 | 51,135
67910 | KDTX-TV | 7,985,188 | 7,983,676 | 52,676
126 | KDVR | 4,301,541 | 4,144,268 | 27,344
18084 | KECI-TV | 228,161 | 210,560 | 1,389
51208 | KECY-TV | 407,175 | 403,848 | 2,665
58408 | KEDT | 527,343 | 527,343 | 3,479
55435 | KEET | 181,333 | 161,389 | 1,065
37103 | KEKE | 105,022 | 101,614 | 670
41983 | KELO-TV | 767,130 | 715,437 | 4,720
34440 | KEMO-TV | 9,007,762 | 8,012,556 | 52,867
776162 | KEMS | 55,920 | 54,847 | 362
2777 | KEMV | 634,060 | 576,758 | 3,805
26304 | KENS | 3,091,086 | 3,077,749 | 20,307
63845 | KENV-DT | 52,294 | 45,932 | 303
18338 | KENW | 85,762 | 85,762 | 566
50591 | KEPB-TV | 631,758 | 574,973 | 3,794
56029 | KEPR-TV | 515,354 | 493,941 | 3,259
49324 | KERA-TV | 7,984,381 | 7,981,440 | 52,662
40878 | KERO-TV | 1,387,245 | 1,257,683 | 8,298
61067 | KESD-TV | 172,302 | 165,214 | 1,090
25577 | KESQ-TV | 1,487,393 | 615,803 | 4,063
50205 | KETA-TV | 1,874,445 | 1,860,161 | 12,273
62182 | KETC | 2,945,200 | 2,942,622 | 19,415
37101 | KETD | 3,918,776 | 3,879,692 | 25,598
2768 | KETG | 421,357 | 403,179 | 2,660
12895 | KETH-TV | 7,296,694 | 7,296,428 | 48,142
55643 | KETK-TV | 1,072,485 | 1,071,097 | 7,067
2770 | KETS | 1,209,518 | 1,191,713 | 7,863
53903 | KETV | 1,491,674 | 1,486,408 | 9,807
92872 | KETZ | 505,102 | 502,310 | 3,314
68853 | KEYC-TV | 553,554 | 539,853 | 3,562
33691 | KEYE-TV | 3,533,479 | 3,444,549 | 22,727
60637 | KEYT-TV | 1,466,777 | 1,275,243 | 8,414
83715 | KEYU | 351,434 | 351,403 | 2,319
34406 | KEZI | 1,221,893 | 1,166,907 | 7,699
34412 | KFBB-TV | 96,782 | 95,488 | 630
125 | KFCT | 967,548 | 960,099 | 6,335
51466 | KFDA-TV | 394,744 | 393,695 | 2,598
22589 | KFDM | 770,621 | 770,609 | 5,084
48521 | KFDR | 672,350 | 657,307 | 4,337
65370 | KFDX-TV | 367,320 | 366,583 | 2,419
49264 | KFFV | 4,674,758 | 4,634,964 | 30,581
12729 | KFFX-TV | 467,787 | 463,006 | 3,055
83992 | KFJX | 709,125 | 679,797 | 4,485
42122 | KFMB-TV | 4,239,135 | 3,914,207 | 25,826
53321 | KFME | 442,176 | 441,664 | 2,914
74256 | KFNB | 84,543 | 83,990 | 554
21613 | KFNE | 53,059 | 52,392 | 346
21612 | KFNR | 9,724 | 9,457 | 62
66222 | KFOR-TV | 1,789,693 | 1,789,342 | 11,806
33716 | KFOX-TV | 1,107,424 | 1,097,251 | 7,240
41517 | KFPH-DT | 385,474 | 313,720 | 2,070
81509 | KFPX-TV | 1,072,290 | 1,072,222 | 7,075
31597 | KFQX | 197,918 | 173,495 | 1,145
59013 | KFRE-TV | 1,850,426 | 1,835,478 | 12,110
51429 | KFSF-DT | 7,986,866 | 7,039,241 | 46,445
66469 | KFSM-TV | 1,003,012 | 978,896 | 6,459
8620 | KFSN-TV | 1,973,852 | 1,957,279 | 12,914
29560 | KFTA-TV | 907,937 | 894,593 | 5,903
83714 | KFTC | 64,284 | 64,250 | 424
60537 | KFTH-DT | 7,287,908 | 7,287,530 | 48,083
60549 | KFTR-DT | 18,326,526 | 16,971,273 | 111,976
61335 | KFTS | 77,847 | 66,866 | 441
81441 | KFTU-DT | 109,271 | 105,476 | 696
34439 | KFTV-DT | 1,930,415 | 1,914,464 | 12,632
664 | KFVE | 91,164 | 81,417 | 537
592 | KFVS-TV | 867,835 | 847,638 | 5,593
29015 | KFWD | 7,970,373 | 7,964,229 | 52,548
35336 | KFXA | 914,357 | 912,893 | 6,023
17625 | KFXB-TV | 377,548 | 370,365 | 2,444
70917 | KFXK-TV | 969,012 | 966,868 | 6,379
84453 | KFXL-TV | 977,327 | 976,428 | 6,442
56079 | KFXV | 1,335,643 | 1,335,643 | 8,813
41427 | KFYR-TV | 153,218 | 150,858 | 995
25685 | KGAN | 1,121,266 | 1,109,006 | 7,317
34457 | KGBT-TV | 1,350,104 | 1,350,004 | 8,907
7841 | KGCW | 938,174 | 935,835 | 6,175
24485 | KGEB | 1,257,918 | 1,224,797 | 8,081
34459 | KGET-TV | 982,744 | 940,071 | 6,203
53320 | KGFE | 120,237 | 120,237 | 793
7894 | KGIN | 235,875 | 233,749 | 1,542
83945 | KGLA-DT | 1,754,806 | 1,754,806 | 11,578
34445 | KGMB | 1,016,756 | 907,381 | 5,987
58608 | KGMC | 2,076,523 | 2,052,808 | 13,544
36914 | KGMD-TV | 101,247 | 100,762 | 665
36920 | KGMV | 209,577 | 175,904 | 1,161
10061 | KGNS-TV | 283,777 | 274,877 | 1,814
34470 | KGO-TV | 9,406,080 | 8,630,291 | 56,943
56034 | KGPE | 1,829,902 | 1,812,936 | 11,962
81694 | KGPX-TV | 792,059 | 724,592 | 4,781
25511 | KGTF | 155,729 | 154,491 | 1,019
40876 | KGTV | 4,257,568 | 3,912,037 | 25,812
36918 | KGUN-TV | 1,479,221 | 1,292,183 | 8,526
34874 | KGW | 3,397,112 | 3,239,730 | 21,376
63177 | KGWC-TV | 84,597 | 84,117 | 555
63162 | KGWL-TV | 37,314 | 37,199 | 245
63166 | KGWN-TV | 558,685 | 528,237 | 3,485
63170 | KGWR-TV | 49,435 | 49,242 | 325
4146 | KHAW-TV | 102,381 | 101,946 | 673
60353 | KHBS | 610,455 | 588,263 | 3,881
27300 | KHCE-TV | 2,848,289 | 2,842,696 | 18,756
26431 | KHET | 1,022,459 | 1,009,772 | 6,662
21160 | KHGI-TV | 245,331 | 244,515 | 1,613
36917 | KHII-TV | 1,017,217 | 907,842 | 5,990
29085 | KHIN | 1,137,059 | 1,135,866 | 7,494
17688 | KHME | 196,002 | 194,233 | 1,282
47670 | KHMT | 193,159 | 188,714 | 1,245
47987 | KHNE-TV | 205,833 | 204,923 | 1,352
34867 | KHNL | 1,016,725 | 907,350 | 5,987
60354 | KHOG-TV | 862,177 | 797,810 | 5,264
4144 | KHON-TV | 1,016,508 | 944,271 | 6,230
34529 | KHOU | 7,289,635 | 7,287,991 | 48,086
4690 | KHQA-TV | 299,409 | 298,038 | 1,966
34537 | KHQ-TV | 938,773 | 887,184 | 5,854
30601 | KHRR | 1,298,625 | 1,241,818 | 8,194
34348 | KHSD-TV | 203,077 | 199,032 | 1,313
24508 | KHSL-TV | 634,956 | 615,388 | 4,060
69677 | KHSV | 2,384,812 | 2,343,597 | 15,463
64544 | KHVO | 101,138 | 99,980 | 660
23394 | KIAH | 7,307,171 | 7,306,816 | 48,210
34564 | KICU-TV | 8,992,796 | 7,837,235 | 51,710
56028 | KIDK | 351,335 | 348,794 | 2,301
58560 | KIDY | 126,096 | 126,079 | 832
53382 | KIEM-TV | 177,885 | 166,501 | 1,099
66258 | KIFI-TV | 370,169 | 365,995 | 2,415
16950 | KIFR | 2,356,175 | 2,330,021 | 15,373
10188 | KIII | 580,363 | 577,602 | 3,811
29095 | KIIN | 1,405,103 | 1,375,871 | 9,078
34527 | KIKU | 1,017,227 | 920,837 | 6,076
63865 | KILM | 18,009,859 | 16,478,550 | 108,725
56033 | KIMA-TV | 325,241 | 275,599 | 1,818
66402 | KIMT | 671,281 | 662,859 | 4,374
67089 | KINC | 2,320,873 | 2,230,933 | 14,720
34847 | KING-TV | 4,735,386 | 4,686,752 | 30,923
51708 | KINT-TV | 1,093,579 | 1,093,227 | 7,213
26249 | KION-TV | 2,602,418 | 906,539 | 5,981
62427 | KIPT | 190,856 | 189,839 | 1,253
66781 | KIRO-TV | 4,715,994 | 4,685,383 | 30,914
62430 | KISU-TV | 358,145 | 353,319 | 2,331
12896 | KITU-TV | 749,934 | 749,934 | 4,948
64548 | KITV | 1,016,508 | 890,101 | 5,873
59255 | KIVI-TV | 864,257 | 856,996 | 5,654
47285 | KIXE-TV | 484,629 | 444,405 | 2,932
13792 | KJJC-TV | 85,813 | 84,995 | 561
14000 | KJLA | 18,725,198 | 17,464,578 | 115,231
20015 | KJNP-TV | 96,266 | 96,001 | 633
53315 | KJRE | 15,414 | 15,394 | 102
59439 | KJRH-TV | 1,475,194 | 1,458,401 | 9,623
55364 | KJRR | 45,707 | 44,148 | 291
7675 | KJTL | 365,659 | 365,242 | 2,410
55031 | KJTV-TV | 426,315 | 426,302 | 2,813
13814 | KJUD | 32,087 | 31,083 | 205
36607 | KJZZ-TV | 2,837,622 | 2,620,561 | 17,290
83180 | KKAI | 1,016,756 | 995,859 | 6,571
58267 | KKAP | 1,002,980 | 967,770 | 6,385
24766 | KKCO | 218,313 | 183,190 | 1,209
776228 | KKEL | 396,796 | 390,474 | 2,576
35097 | KKJB | 780,452 | 775,264 | 5,115
22644 | KKPX-TV | 8,265,775 | 7,324,470 | 48,327
35037 | KKTV | 3,340,505 | 2,899,502 | 19,131
35042 | KLAS-TV | 2,421,827 | 2,256,225 | 14,887
52907 | KLAX-TV | 350,490 | 350,144 | 2,310
3660 | KLBK-TV | 409,551 | 409,512 | 2,702
65523 | KLBY | 29,875 | 29,852 | 197
38430 | KLCS | 17,868,933 | 16,310,676 | 107,618
77719 | KLCW-TV | 404,384 | 404,369 | 2,668
51479 | KLDO-TV | 267,717 | 267,717 | 1,766
37105 | KLEI | 149,648 | 122,977 | 811
56032 | KLEW-TV | 173,816 | 158,086 | 1,043
35059 | KLFY-TV | 1,380,417 | 1,379,775 | 9,104
54011 | KLJB | 1,003,676 | 992,763 | 6,550
11264 | KLKN | 1,295,353 | 1,249,913 | 8,247
52593 | KLML | 285,490 | 232,725 | 1,536
47975 | KLNE-TV | 124,206 | 124,134 | 819
38590 | KLPA-TV | 395,240 | 395,079 | 2,607
38588 | KLPB-TV | 749,224 | 749,224 | 4,943
749 | KLRN | 2,865,059 | 2,843,302 | 18,760
11951 | KLRT-TV | 1,206,848 | 1,187,015 | 7,832
8564 | KLRU | 3,404,331 | 3,364,831 | 22,201
8322 | KLSR-TV | 617,791 | 555,511 | 3,665
31114 | KLST | 205,611 | 176,862 | 1,167
24436 | KLTJ | 7,239,268 | 7,239,082 | 47,763
38587 | KLTL-TV | 438,847 | 438,847 | 2,896
38589 | KLTM-TV | 670,083 | 665,283 | 4,390
38591 | KLTS-TV | 930,704 | 927,650 | 6,121
68540 | KLTV | 1,125,646 | 1,108,403 | 7,313
12913 | KLUJ-TV | 1,304,523 | 1,304,523 | 8,607
57220 | KLUZ-TV | 1,122,002 | 1,061,683 | 7,005
11683 | KLVX | 2,368,176 | 2,246,495 | 14,822
82476 | KLWB | 1,066,369 | 1,066,248 | 7,035
40250 | KLWY | 652,057 | 648,301 | 4,277
64551 | KMAU | 230,508 | 205,410 | 1,355
51499 | KMAX-TV | 11,771,919 | 7,828,092 | 51,650
65686 | KMBC-TV | 2,690,459 | 2,688,812 | 17,741
35183 | KMCB | 71,693 | 69,118 | 456
41237 | KMCC | 2,384,330 | 2,325,062 | 15,341
42636 | KMCI-TV | 2,611,447 | 2,610,077 | 17,221
38584 | KMCT-TV | 270,862 | 270,855 | 1,787
22127 | KMCY | 80,761 | 80,722 | 533
162016 | KMDE | 34,041 | 34,035 | 225
26428 | KMEB | 239,702 | 216,916 | 1,431
39665 | KMEG | 763,806 | 758,839 | 5,007
35123 | KMEX-DT | 18,389,371 | 16,955,856 | 111,875
40875 | KMGH-TV | 4,484,612 | 4,211,082 | 27,785
35131 | KMID | 453,896 | 453,890 | 2,995
16749 | KMIR-TV | 3,014,399 | 805,795 | 5,317
63164 | KMIZ | 552,020 | 549,962 | 3,629
53541 | KMLM-DT | 358,819 | 358,819 | 2,367
52046 | KMLU | 685,717 | 681,660 | 4,498
47981 | KMNE-TV | 44,963 | 41,160 | 272
24753 | KMOH-TV | 217,161 | 202,513 | 1,336
4326 | KMOS-TV | 823,502 | 819,698 | 5,408
41425 | KMOT | 90,764 | 88,505 | 584
70034 | KMOV | 3,058,356 | 3,053,447 | 20,147
51488 | KMPH-TV | 1,871,826 | 1,831,011 | 12,081
73701 | KMPX | 7,985,243 | 7,981,841 | 52,664
44052 | KMSB | 1,390,772 | 1,081,454 | 7,135
68883 | KMSP-TV | 4,232,627 | 4,200,278 | 27,713
12525 | KMSS-TV | 1,047,384 | 1,044,317 | 6,890
43095 | KMTP-TV | 6,891,529 | 5,992,187 | 39,536
35189 | KMTR | 858,621 | 737,863 | 4,868
35190 | KMTV-TV | 1,482,627 | 1,481,213 | 9,773
77063 | KMTW | 782,241 | 782,233 | 5,161
35200 | KMVT | 203,865 | 194,642 | 1,284
32958 | KMVU-DT | 333,344 | 255,430 | 1,685
86534 | KMYA-DT | 181,750 | 181,710 | 1,199
51518 | KMYS | 2,695,906 | 2,689,444 | 17,745
54420 | KMYT-TV | 1,378,264 | 1,366,926 | 9,019
35822 | KMYU | 174,066 | 170,667 | 1,126
993 | KNAT-TV | 1,194,249 | 1,164,035 | 7,680
24749 | KNAZ-TV | 370,644 | 251,297 | 1,658
47906 | KNBC | 18,007,954 | 16,466,286 | 108,645
81464 | KNBN | 158,327 | 149,470 | 986
9754 | KNCT | 2,162,813 | 2,134,345 | 14,082
82611 | KNDB | 140,899 | 140,846 | 929
82615 | KNDM | 81,669 | 81,636 | 539
12395 | KNDO | 326,624 | 291,816 | 1,925
12427 | KNDU | 531,985 | 514,613 | 3,395
17683 | KNEP | 96,311 | 91,722 | 605
776145 | KNGF | 418,755 | 418,649 | 2,762
48003 | KNHL | 282,894 | 282,649 | 1,865
125710 | KNIC-DT | 2,916,877 | 2,900,176 | 19,135
59363 | KNIN-TV | 861,563 | 857,065 | 5,655
48525 | KNLC | 3,009,669 | 3,007,124 | 19,841
84215 | KNMD-TV | 1,175,472 | 1,147,431 | 7,571
55528 | KNME-TV | 1,185,928 | 1,145,659 | 7,559
47707 | KNMT | 3,242,939 | 3,141,420 | 20,727
48975 | KNOE-TV | 706,833 | 703,468 | 4,641
49273 | KNOP-TV | 84,998 | 83,626 | 552
10228 | KNPB | 684,366 | 522,715 | 3,449
55362 | KNRR | 24,339 | 24,315 | 160
35277 | KNSD | 4,176,531 | 3,908,916 | 25,791
19191 | KNSN-TV | 689,549 | 521,148 | 3,439
23302 | KNSO | 1,962,568 | 1,942,998 | 12,820
35280 | KNTV | 9,285,323 | 8,743,038 | 57,687
144 | KNVA | 3,326,171 | 3,285,676 | 21,679
33745 | KNVN | 497,887 | 470,307 | 3,103
69692 | KNVO | 1,359,785 | 1,359,785 | 8,972
29557 | KNWA-TV | 929,628 | 912,611 | 6,021
59440 | KNXV-TV | 4,836,838 | 4,826,028 | 31,842
59014 | KOAA-TV | 1,865,217 | 1,422,070 | 9,383
50588 | KOAB-TV | 254,424 | 250,749 | 1,654
50590 | KOAC-TV | 2,168,640 | 1,718,555 | 11,339
58552 | KOAM-TV | 822,738 | 789,385 | 5,208
53928 | KOAT-TV | 1,171,605 | 1,145,416 | 7,557
35313 | KOB | 1,189,849 | 1,152,270 | 7,603
35321 | KOBF | 198,225 | 163,241 | 1,077
8260 | KOBI | 595,619 | 551,251 | 3,637
62272 | KOBR | 227,347 | 226,868 | 1,497
50170 | KOCB | 1,803,171 | 1,802,139 | 11,891
4328 | KOCE-TV | 18,212,242 | 17,141,918 | 113,102
84225 | KOCM | 1,615,493 | 1,614,922 | 10,655
12508 | KOCO-TV | 1,890,246 | 1,881,152 | 12,412
83181 | KOCW | 80,292 | 80,262 | 530
18283 | KODE-TV | 789,082 | 781,251 | 5,155
66195 | KOED-TV | 1,555,369 | 1,523,164 | 10,050
50198 | KOET | 657,252 | 637,057 | 4,203
51189 | KOFY-TV | 5,746,338 | 4,850,897 | 32,006
34859 | KOGG | 206,000 | 173,034 | 1,142
166534 | KOHD | 248,737 | 244,163 | 1,611
35380 | KOIN | 3,398,786 | 3,237,691 | 21,362
35388 | KOKH-TV | 1,800,124 | 1,797,602 | 11,861
11910 | KOKI-TV | 1,428,477 | 1,415,308 | 9,338
48663 | KOLD-TV | 1,278,430 | 932,536 | 6,153
7890 | KOLN | 1,565,175 | 1,465,478 | 9,669
63331 | KOLO-TV | 1,045,027 | 912,343 | 6,020
28496 | KOLR | 1,111,540 | 1,075,340 | 7,095
21656 | KOMO-TV | 4,798,742 | 4,748,599 | 31,331
65583 | KOMU-TV | 560,878 | 559,926 | 3,694
776087 | KONC | 1,752,026 | 1,713,180 | 11,304
35396 | KONG | 4,651,055 | 4,627,490 | 30,532
60675 | KOOD | 107,949 | 107,840 | 712
50589 | KOPB-TV | 3,433,002 | 3,231,453 | 21,321
2566 | KOPX-TV | 1,674,969 | 1,674,820 | 11,050
64877 | KORO | 572,684 | 572,684 | 3,779
6865 | KOSA-TV | 412,004 | 408,993 | 2,699
34347 | KOTA-TV | 189,181 | 166,163 | 1,096
8284 | KOTI | 318,713 | 97,757 | 645
35434 | KOTV-DT | 1,476,322 | 1,464,332 | 9,662
56550 | KOVR | 11,787,731 | 7,857,430 | 51,843
51101 | KOZJ | 431,452 | 429,469 | 2,834
51102 | KOZK | 876,101 | 867,569 | 5,724
3659 | KOZL-TV | 1,026,947 | 999,396 | 6,594
35455 | KPAX-TV | 224,598 | 210,969 | 1,392
67868 | KPAZ-TV | 4,842,326 | 4,829,190 | 31,863
6124 | KPBS | 3,878,727 | 3,740,193 | 24,678
50044 | KPBT-TV | 405,749 | 405,749 | 2,677
77452 | KPCB-DT | 30,087 | 30,010 | 198
35460 | KPDX | 3,335,153 | 3,195,785 | 21,086
12524 | KPEJ-TV | 439,758 | 439,752 | 2,901
41223 | KPHO-TV | 4,847,036 | 4,823,456 | 31,825
61551 | KPIC | 162,187 | 108,923 | 719
86205 | KPIF | 294,133 | 287,132 | 1,894
25452 | KPIX-TV | 8,939,616 | 8,011,243 | 52,858
58912 | KPJK | 8,580,033 | 7,562,337 | 49,896
166510 | KPJR-TV | 3,994,308 | 3,966,833 | 26,173
13994 | KPLC | 1,433,578 | 1,431,830 | 9,447
41964 | KPLO-TV | 55,567 | 52,690 | 348
35417 | KPLR-TV | 3,020,349 | 3,017,559 | 19,910
12144 | KPMR | 1,795,745 | 1,521,941 | 10,042
47973 | KPNE-TV | 89,112 | 84,360 | 557
35486 | KPNX | 4,833,873 | 4,829,331 | 31,864
77512 | KPNZ | 2,843,405 | 2,620,343 | 17,289
73998 | KPOB-TV | 131,017 | 130,539 | 861
26655 | KPPX-TV | 4,839,734 | 4,825,175 | 31,837
53117 | KPRC-TV | 7,306,242 | 7,305,940 | 48,205
48660 | KPRY-TV | 42,882 | 42,790 | 282
61071 | KPSD-TV | 19,034 | 17,986 | 119
53544 | KPTB-DT | 351,156 | 349,137 | 2,304
81445 | KPTF-DT | 83,380 | 83,378 | 550
77451 | KPTH | 709,738 | 706,066 | 4,659
51491 | KPTM | 1,544,022 | 1,542,684 | 10,179
33345 | KPTS | 849,715 | 845,613 | 5,579
50633 | KPTV | 3,367,478 | 3,193,457 | 21,070
82575 | KPTW | 93,904 | 86,230 | 569
1270 | KPVI-DT | 301,761 | 295,401 | 1,949
58835 | KPXB-TV | 7,268,859 | 7,268,534 | 47,958
68695 | KPXC-TV | 3,953,241 | 3,922,814 | 25,883
68834 | KPXD-TV | 7,851,329 | 7,849,492 | 51,791
33337 | KPXE-TV | 2,621,434 | 2,620,523 | 17,290
5801 | KPXG-TV | 3,396,167 | 3,240,309 | 21,380
81507 | KPXJ | 1,114,713 | 1,111,470 | 7,333
61173 | KPXL-TV | 2,675,400 | 2,663,341 | 17,573
35907 | KPXM-TV | 3,872,706 | 3,871,246 | 25,542
58978 | KPXN-TV | 18,009,859 | 16,478,550 | 108,725
77483 | KPXO-TV | 1,016,659 | 977,430 | 6,449
21156 | KPXR-TV | 870,810 | 864,123 | 5,701
69619 | KPYX | 8,951,798 | 8,033,747 | 53,007
10242 | KQCA | 11,066,274 | 6,905,589 | 45,563
41430 | KQCD-TV | 46,118 | 43,974 | 290
18287 | KQCK | 3,914,615 | 3,869,797 | 25,533
78322 | KQCW-DT | 1,198,492 | 1,192,260 | 7,867
35525 | KQDS-TV | 309,526 | 305,800 | 2,018
35500 | KQED | 8,924,403 | 7,934,659 | 52,353
35663 | KQEH | 8,924,403 | 7,934,659 | 52,353
8214 | KQET | 3,221,916 | 2,234,120 | 14,741
5471 | KQIN | 585,179 | 585,151 | 3,861
17686 | KQME | 203,177 | 198,383 | 1,309
61063 | KQSD-TV | 32,060 | 31,225 | 206
8378 | KQSL | 209,114 | 145,828 | 962
20427 | KQTV | 1,587,910 | 1,493,576 | 9,855
78921 | KQUP | 801,534 | 624,922 | 4,123
306 | KRBC-TV | 237,068 | 236,992 | 1,564
166319 | KRBK | 1,018,307 | 1,001,775 | 6,610
22161 | KRCA | 18,303,336 | 17,670,502 | 116,590
57945 | KRCB | 9,553,735 | 9,246,484 | 61,008
41110 | KRCG | 758,918 | 744,644 | 4,913
8291 | KRCR-TV | 439,734 | 419,678 | 2,769
10192 | KRCW-TV | 3,330,638 | 3,194,693 | 21,079
49134 | KRDK-TV | 396,418 | 396,379 | 2,615
52579 | KRDO-TV | 3,041,472 | 2,649,733 | 17,483
70578 | KREG-TV | 159,270 | 97,419 | 643
34868 | KREM | 934,011 | 862,068 | 5,688
51493 | KREN-TV | 890,359 | 755,865 | 4,987
70596 | KREX-TV | 154,968 | 154,745 | 1,021
70579 | KREY-TV | 77,765 | 69,062 | 456
48589 | KREZ-TV | 148,142 | 101,846 | 672
43328 | KRGV-TV | 1,359,834 | 1,359,671 | 8,971
82698 | KRII | 130,753 | 129,582 | 855
29114 | KRIN | 989,283 | 975,977 | 6,439
25559 | KRIS-TV | 576,145 | 576,104 | 3,801
22204 | KRIV | 7,295,333 | 7,294,571 | 48,130
14040 | KRMA-TV | 4,385,284 | 4,186,932 | 27,625
14042 | KRMJ | 184,799 | 169,573 | 1,119
20476 | KRMT | 3,457,214 | 3,353,993 | 22,130
84224 | KRMU | 86,743 | 70,549 | 465
20373 | KRMZ | 37,319 | 34,727 | 229
47971 | KRNE-TV | 45,930 | 38,258 | 252
60307 | KRNV-DT | 1,043,407 | 879,554 | 5,803
65526 | KRON-TV | 9,335,037 | 8,729,878 | 57,600
53539 | KRPV-DT | 65,504 | 65,504 | 432
48575 | KRQE | 1,174,664 | 1,143,133 | 7,542
57431 | KRSU-TV | 1,078,345 | 1,076,370 | 7,102
82613 | KRTN-TV | 86,907 | 67,161 | 443
35567 | KRTV | 95,862 | 94,385 | 623
84157 | KRWB-TV | 118,050 | 117,368 | 774
35585 | KRWF | 82,308 | 82,308 | 543
55516 | KRWG-TV | 929,122 | 719,343 | 4,746
48360 | KRXI-TV | 802,294 | 612,918 | 4,044
307 | KSAN-TV | 142,667 | 142,664 | 941
11911 | KSAS-TV | 773,161 | 773,144 | 5,101
53118 | KSAT-TV | 3,075,254 | 3,027,321 | 19,974
35584 | KSAX | 380,811 | 380,811 | 2,513
35587 | KSAZ-TV | 4,854,767 | 4,831,287 | 31,877
38214 | KSBI | 1,751,439 | 1,749,811 | 11,545
19653 | KSBW | 5,564,606 | 4,838,506 | 31,924
19654 | KSBY | 564,561 | 526,110 | 3,471
82910 | KSCC | 534,707 | 534,707 | 3,528
10202 | KSCE | 1,093,223 | 1,089,485 | 7,188
35608 | KSCI | 18,212,242 | 17,141,918 | 113,102
72348 | KSCW-DT | 927,681 | 922,979 | 6,090
46981 | KSDK | 3,013,779 | 3,007,368 | 19,843
35594 | KSEE | 1,888,344 | 1,874,494 | 12,368
29121 | KSFL-TV | 330,215 | 330,182 | 2,179
48658 | KSFY-TV | 731,978 | 677,603 | 4,471
17680 | KSGW-TV | 63,725 | 62,410 | 412
59444 | KSHB-TV | 2,616,078 | 2,614,543 | 17,251
73706 | KSHV-TV | 927,614 | 927,074 | 6,117
29096 | KSIN-TV | 349,020 | 347,636 | 2,294
34846 | KSIX-TV | 79,019 | 79,019 | 521
35606 | KSKN | 841,494 | 741,761 | 4,894
70482 | KSLA | 998,682 | 998,217 | 6,586
6359 | KSL-TV | 2,839,353 | 2,616,980 | 17,267
71558 | KSMN | 357,081 | 357,075 | 2,356
33336 | KSMO-TV | 2,585,699 | 2,584,094 | 17,050
28510 | KSMQ-TV | 540,217 | 524,751 | 3,462
35611 | KSMS-TV | 1,684,095 | 922,727 | 6,088
21161 | KSNB-TV | 748,097 | 747,971 | 4,935
72359 | KSNC | 166,315 | 165,997 | 1,095
67766 | KSNF | 640,722 | 637,167 | 4,204
72361 | KSNG | 143,267 | 143,050 | 944
72362 | KSNK | 46,872 | 43,725 | 288
67335 | KSNT | 657,321 | 629,824 | 4,156
10179 | KSNV | 2,283,885 | 2,225,135 | 14,681
72358 | KSNW | 810,301 | 809,927 | 5,344
61956 | KSPS-TV | 935,711 | 883,159 | 5,827
52953 | KSPX-TV | 7,814,495 | 5,846,886 | 38,578
166546 | KSQA | 391,323 | 383,112 | 2,528
53313 | KSRE | 83,984 | 83,984 | 554
35843 | KSTC-TV | 4,228,163 | 4,218,565 | 27,834
63182 | KSTF | 49,439 | 49,305 | 325
28010 | KSTP-TV | 4,230,921 | 4,222,032 | 27,857
60534 | KSTR-DT | 7,934,904 | 7,932,227 | 52,337
64987 | KSTS | 9,125,502 | 7,902,723 | 52,142
22215 | KSTU | 2,834,133 | 2,604,938 | 17,187
23428 | KSTW | 4,945,092 | 4,849,973 | 32,000
5243 | KSVI | 192,678 | 191,712 | 1,265
58827 | KSWB-TV | 3,976,536 | 3,773,857 | 24,900
60683 | KSWK | 78,448 | 78,334 | 517
35645 | KSWO-TV | 461,432 | 437,725 | 2,888
61350 | KSYS | 551,328 | 475,899 | 3,140
59988 | KTAB-TV | 281,813 | 281,579 | 1,858
999 | KTAJ-TV | 2,529,426 | 2,528,757 | 16,685
35648 | KTAL-TV | 1,072,280 | 1,070,439 | 7,063
12930 | KTAS | 501,069 | 491,644 | 3,244
81458 | KTAZ | 4,835,851 | 4,811,877 | 31,749
35649 | KTBC | 4,138,493 | 3,857,454 | 25,451
67884 | KTBN-TV | 18,729,484 | 17,423,297 | 114,959
67999 | KTBO-TV | 1,758,274 | 1,756,813 | 11,591
35652 | KTBS-TV | 1,138,628 | 1,135,638 | 7,493
28324 | KTBU | 7,242,592 | 7,242,368 | 47,785
67950 | KTBW-TV | 4,873,117 | 4,763,879 | 31,432
35655 | KTBY | 360,565 | 358,722 | 2,367
68594 | KTCA-TV | 4,022,616 | 4,008,908 | 26,451
68597 | KTCI-TV | 3,912,137 | 3,908,528 | 25,788
35187 | KTCW | 106,581 | 93,009 | 614
36916 | KTDO | 1,093,374 | 1,089,602 | 7,189
2769 | KTEJ | 417,496 | 415,013 | 2,738
83707 | KTEL-TV | 61,338 | 61,328 | 405
35666 | KTEN | 629,981 | 627,687 | 4,141
24514 | KTFD-TV | 3,767,471 | 3,727,523 | 24,594
35512 | KTFF-DT | 2,403,821 | 2,383,063 | 15,723
20871 | KTFK-DT | 7,705,367 | 5,721,312 | 37,749
68753 | KTFN | 1,095,022 | 1,091,962 | 7,205
35084 | KTFQ-TV | 1,188,205 | 1,154,792 | 7,619
29232 | KTGM | 153,836 | 153,653 | 1,014
2787 | KTHV | 1,302,388 | 1,276,430 | 8,422
29100 | KTIN | 275,295 | 273,715 | 1,806
66170 | KTIV | 806,217 | 800,304 | 5,280
49397 | KTKA-TV | 805,221 | 786,518 | 5,189
35670 | KTLA | 18,962,616 | 17,555,224 | 115,829
62354 | KTLM | 1,148,738 | 1,148,738 | 7,579
49153 | KTLN-TV | 5,867,943 | 5,221,797 | 34,453
64984 | KTMD | 7,304,022 | 7,303,795 | 48,190
14675 | KTMF | 203,121 | 182,458 | 1,204
10177 | KTMW | 2,690,440 | 2,543,730 | 16,784
21533 | KTNC-TV | 9,007,762 | 8,012,556 | 52,867
47996 | KTNE-TV | 95,310 | 90,746 | 599
60519 | KTNL-TV | 8,275 | 8,274 | 55
74100 | KTNV-TV | 2,422,112 | 2,249,532 | 14,842
71023 | KTNW | 512,412 | 493,366 | 3,255
8651 | KTOO-TV | 32,198 | 32,017 | 211
7078 | KTPX-TV | 1,138,473 | 1,136,085 | 7,496
68541 | KTRE | 438,137 | 420,563 | 2,775
35675 | KTRK-TV | 7,318,272 | 7,316,846 | 48,277
28230 | KTRV-TV | 869,223 | 861,267 | 5,683
69170 | KTSC | 3,598,645 | 3,397,164 | 22,414
61066 | KTSD-TV | 84,807 | 83,980 | 554
37511 | KTSF | 8,697,794 | 7,750,134 | 51,135
67760 | KTSM-TV | 1,093,389 | 1,090,716 | 7,197
35678 | KTTC | 836,828 | 748,435 | 4,938
28501 | KTTM | 77,930 | 75,368 | 497
11908 | KTTU | 1,393,795 | 1,109,962 | 7,324
22208 | KTTV | 18,130,338 | 17,373,502 | 114,630
28521 | KTTW | 381,013 | 377,833 | 2,493
65355 | KTTZ-TV | 402,714 | 402,692 | 2,657
35685 | KTUL | 1,573,310 | 1,543,051 | 10,181
10173 | KTUU-TV | 397,237 | 395,237 | 2,608
77480 | KTUZ-TV | 1,841,616 | 1,840,457 | 12,143
49632 | KTVA | 353,795 | 353,563 | 2,333
34858 | KTVB | 869,177 | 862,056 | 5,688
31437 | KTVC | 140,329 | 104,355 | 689
68581 | KTVD | 4,468,718 | 4,179,057 | 27,573
35692 | KTVE | 607,145 | 606,961 | 4,005
49621 | KTVF | 96,106 | 95,973 | 633
5290 | KTVH-DT | 244,448 | 199,923 | 1,319
35693 | KTVI | 3,025,572 | 3,022,219 | 19,941
40993 | KTVK | 4,837,443 | 4,825,882 | 31,841
22570 | KTVL | 446,924 | 395,259 | 2,608
18066 | KTVM-TV | 303,243 | 250,287 | 1,651
59139 | KTVN | 1,043,407 | 885,756 | 5,844
21251 | KTVO | 220,732 | 220,235 | 1,453
35694 | KTVQ | 197,125 | 190,529 | 1,257
50592 | KTVR | 153,040 | 56,934 | 376
23422 | KTVT | 8,233,312 | 8,230,812 | 54,307
35703 | KTVU | 9,036,813 | 8,056,602 | 53,157
35705 | KTVW-DT | 4,827,096 | 4,809,796 | 31,735
68889 | KTVX | 2,838,210 | 2,602,217 | 17,169
55907 | KTVZ | 249,013 | 246,030 | 1,623
18286 | KTWO-TV | 84,574 | 84,044 | 555
70938 | KTWU | 1,834,018 | 1,697,183 | 11,198
51517 | KTXA | 8,210,642 | 8,208,172 | 54,158
42359 | KTXD-TV | 8,012,541 | 8,010,333 | 52,852
51569 | KTXH | 7,301,821 | 7,301,673 | 48,176
10205 | KTXL | 9,145,873 | 6,451,158 | 42,565
308 | KTXS-TV | 255,216 | 254,480 | 1,679
69315 | KUAC-TV | 96,544 | 96,043 | 634
51233 | KUAM-TV | 153,836 | 153,836 | 1,015
2722 | KUAS-TV | 1,060,599 | 1,041,636 | 6,873
2731 | KUAT-TV | 1,596,429 | 1,361,399 | 8,983
60520 | KUBD | 15,387 | 13,666 | 90
70492 | KUBE-TV | 7,297,882 | 7,297,596 | 48,150
1136 | KUCW | 2,837,693 | 2,601,359 | 17,164
69396 | KUED | 2,837,687 | 2,603,895 | 17,180
69582 | KUEN | 2,806,982 | 2,580,258 | 17,025
82576 | KUES | 32,094 | 26,754 | 177
82585 | KUEW | 174,491 | 162,588 | 1,073
66611 | KUFM-TV | 203,395 | 180,333 | 1,190
169028 | KUGF-TV | 89,762 | 89,455 | 590
68717 | KUHM-TV | 166,592 | 156,454 | 1,032
69269 | KUHT | 7,288,782 | 7,288,082 | 48,087
62382 | KUID-TV | 482,761 | 308,950 | 2,038
169027 | KUKL-TV | 140,626 | 131,415 | 867
35724 | KULR-TV | 194,552 | 186,663 | 1,232
41429 | KUMV-TV | 70,878 | 70,314 | 464
81447 | KUNP | 133,781 | 45,006 | 297
4624 | KUNS-TV | 4,682,176 | 4,668,774 | 30,805
86532 | KUOK | 28,807 | 28,738 | 190
66589 | KUON-TV | 1,516,440 | 1,502,853 | 9,916
86263 | KUPB | 386,448 | 386,448 | 2,550
65535 | KUPK | 147,290 | 146,174 | 964
27431 | KUPT | 101,334 | 101,329 | 669
89714 | KUPU | 1,019,651 | 1,010,979 | 6,670
57884 | KUPX-TV | 2,824,302 | 2,598,543 | 17,145
23074 | KUSA | 4,470,580 | 4,195,376 | 27,681
61072 | KUSD-TV | 519,419 | 519,181 | 3,426
10238 | KUSI-TV | 3,853,072 | 3,707,454 | 24,462
43567 | KUSM-TV | 155,558 | 140,071 | 924
69694 | KUTF | 1,357,824 | 1,164,486 | 7,683
81451 | KUTH-DT | 2,636,456 | 2,416,549 | 15,944
68886 | KUTP | 4,842,720 | 4,823,413 | 31,825
35823 | KUTV | 2,837,398 | 2,601,168 | 17,163
63927 | KUVE-DT | 1,370,137 | 1,024,072 | 6,757
7700 | KUVI-DT | 1,287,700 | 1,076,164 | 7,101
35841 | KUVN-DT | 7,987,884 | 7,986,084 | 52,692
58609 | KUVS-DT | 4,496,875 | 4,458,448 | 29,417
49766 | KVAL-TV | 1,114,792 | 948,593 | 6,259
32621 | KVAW | 77,028 | 77,028 | 508
58795 | KVCR-DT | 19,073,599 | 18,308,953 | 120,802
35846 | KVCT | 291,432 | 290,038 | 1,914
10195 | KVCW | 2,283,670 | 2,224,688 | 14,678
64969 | KVDA | 3,114,838 | 3,092,933 | 20,407
19783 | KVEA | 18,300,497 | 17,059,098 | 112,556
12523 | KVEO-TV | 1,357,022 | 1,356,984 | 8,953
2495 | KVEW | 537,519 | 524,246 | 3,459
35852 | KVHP | 773,592 | 773,545 | 5,104
49832 | KVIA-TV | 1,093,389 | 1,090,716 | 7,197
35855 | KVIE | 11,759,390 | 8,232,137 | 54,316
40450 | KVIH-TV | 139,435 | 119,247 | 787
40446 | KVII-TV | 392,629 | 391,979 | 2,586
61961 | KVLY-TV | 409,018 | 408,931 | 2,698
16729 | KVMD | 15,940,782 | 15,143,297 | 99,915
83825 | KVME-TV | 26,212 | 22,277 | 147
25735 | KVOA | 1,386,793 | 1,069,725 | 7,058
35862 | KVOS-TV | 2,566,816 | 2,493,670 | 16,453
69733 | KVPT | 1,856,508 | 1,833,293 | 12,096
55372 | KVRR | 403,075 | 403,075 | 2,659
166331 | KVSN-DT | 3,136,196 | 2,698,298 | 17,803
608 | KVTH-DT | 319,985 | 318,374 | 2,101
2784 | KVTJ-DT | 1,459,963 | 1,459,552 | 9,630
607 | KVTN-DT | 970,045 | 963,130 | 6,355
35867 | KVUE | 3,458,312 | 3,395,187 | 22,401
78910 | KVUI | 286,007 | 279,513 | 1,844
35870 | KVVU-TV | 2,369,125 | 2,246,682 | 14,824
36170 | KVYE | 404,453 | 401,890 | 2,652
35095 | KWBA-TV | 1,194,062 | 1,136,172 | 7,496
78314 | KWBM | 694,164 | 676,716 | 4,465
27425 | KWBN | 1,016,508 | 893,029 | 5,892
76268 | KWBQ | 1,186,772 | 1,147,638 | 7,572
66413 | KWCH-DT | 897,522 | 896,232 | 5,913
71549 | KWCM-TV | 253,609 | 245,441 | 1,619
35419 | KWDK | 4,867,196 | 4,778,196 | 31,527
42007 | KWES-TV | 506,963 | 506,675 | 3,343
50194 | KWET | 125,090 | 109,790 | 724
35881 | KWEX-DT | 2,871,330 | 2,864,298 | 18,899
35883 | KWGN-TV | 4,368,605 | 4,155,087 | 27,415
37099 | KWHB | 1,056,520 | 1,056,118 | 6,968
36846 | KWHE | 1,015,533 | 885,013 | 5,839
26231 | KWHY-TV | 18,512,098 | 18,476,669 | 121,909
35096 | KWKB | 1,167,302 | 1,156,465 | 7,630
162115 | KWKS | 38,196 | 37,876 | 250
12522 | KWKT-TV | 1,631,788 | 1,626,721 | 10,733
21162 | KWNB-TV | 87,130 | 85,538 | 564
67347 | KWOG | 615,169 | 608,476 | 4,015
56852 | KWPX-TV | 4,894,047 | 4,809,358 | 31,732
6885 | KWQC-TV | 1,082,087 | 1,072,789 | 7,078
53318 | KWSE | 85,141 | 83,532 | 551
71024 | KWSU-TV | 824,342 | 528,984 | 3,490
25382 | KWTV-DT | 1,801,405 | 1,800,115 | 11,877
35903 | KWTX-TV | 2,532,542 | 2,418,595 | 15,958
593 | KWWL | 1,127,596 | 1,116,266 | 7,365
84410 | KWWT | 358,813 | 358,813 | 2,367
14674 | KWYB | 91,657 | 72,951 | 481
10032 | KWYP-DT | 163,309 | 143,265 | 945
35920 | KXAN-TV | 3,476,567 | 3,408,238 | 22,488
49330 | KXAS-TV | 8,080,362 | 8,077,819 | 53,297
24287 | KXGN-TV | 14,265 | 13,906 | 92
35954 | KXII | 2,904,223 | 2,845,456 | 18,774
55083 | KXLA | 18,725,198 | 17,464,578 | 115,231
35959 | KXLF-TV | 301,370 | 256,892 | 1,695
53847 | KXLN-DT | 7,293,696 | 7,293,476 | 48,122
35906 | KXLT-TV | 369,632 | 369,086 | 2,435
61978 | KXLY-TV | 884,722 | 852,475 | 5,625
55684 | KXMA-TV | 42,033 | 41,964 | 277
55686 | KXMB-TV | 164,736 | 160,794 | 1,061
55685 | KXMC-TV | 108,096 | 100,774 | 665
55683 | KXMD-TV | 66,215 | 66,107 | 436
47995 | KXNE-TV | 314,798 | 313,705 | 2,070
81593 | KXNW | 707,066 | 702,866 | 4,638
35991 | KXRM-TV | 2,129,262 | 1,769,815 | 11,677
1255 | KXTF | 157,622 | 157,168 | 1,037
25048 | KXTV | 11,761,085 | 8,212,854 | 54,188
35994 | KXTX-TV | 8,029,815 | 8,026,902 | 52,961
62293 | KXVA | 195,284 | 195,242 | 1,288
23277 | KXVO | 1,535,792 | 1,534,836 | 10,127
9781 | KXXV | 2,192,443 | 2,159,450 | 14,248
31870 | KYAZ | 7,248,533 | 7,248,341 | 47,825
29086 | KYIN | 596,722 | 594,616 | 3,923
60384 | KYLE-TV | 367,648 | 367,562 | 2,425
33639 | KYMA-DT | 403,372 | 400,541 | 2,643
47974 | KYNE-TV | 1,089,692 | 1,089,546 | 7,189
53820 | KYOU-TV | 679,167 | 668,722 | 4,412
36003 | KYTV | 1,129,940 | 1,117,420 | 7,373
55644 | KYTX | 956,234 | 955,262 | 6,303
13815 | KYUR | 397,084 | 395,055 | 2,607
5237 | KYUS-TV | 12,525 | 12,495 | 82
33752 | KYVE | 317,640 | 273,973 | 1,808
55762 | KYVV-TV | 66,372 | 65,857 | 435
25453 | KYW-TV | 11,769,848 | 11,559,783 | 76,271
69531 | KZJL | 7,244,427 | 7,244,235 | 47,797
69571 | KZJO | 4,814,396 | 4,758,120 | 31,394
61062 | KZSD-TV | 40,148 | 34,607 | 228
33079 | KZTV | 578,385 | 575,560 | 3,798
57292 | WAAY-TV | 1,644,869 | 1,570,146 | 10,360
1328 | WABC-TV | 22,259,872 | 21,880,695 | 144,369
4190 | WABE-TV | 6,138,218 | 6,116,631 | 40,358
43203 | WABG-TV | 352,521 | 352,047 | 2,323
17005 | WABI-TV | 532,053 | 512,796 | 3,383
16820 | WABM | 1,857,082 | 1,825,082 | 12,042
23917 | WABW-TV | 1,106,011 | 1,104,788 | 7,289
19199 | WACH | 1,448,991 | 1,442,358 | 9,517
189358 | WACP | 9,884,531 | 9,777,819 | 64,514
23930 | WACS-TV | 785,954 | 782,957 | 5,166
60018 | WACX | 5,173,569 | 5,164,028 | 34,072
361 | WACY-TV | 992,148 | 991,650 | 6,543
455 | WADL | 4,727,529 | 4,719,528 | 31,139
589 | WAFB | 1,928,550 | 1,927,924 | 12,720
591 | WAFF | 1,642,889 | 1,574,162 | 10,386
70689 | WAGA-TV | 6,879,310 | 6,793,067 | 44,821
48305 | WAGM-TV | 60,320 | 59,087 | 390
37809 | WAGV | 1,555,609 | 1,240,816 | 8,187
706 | WAIQ | 624,285 | 622,198 | 4,105
701 | WAKA | 796,039 | 790,015 | 5,213
4143 | WALA-TV | 1,431,666 | 1,428,457 | 9,425
70713 | WALB | 794,686 | 793,085 | 5,233
60536 | WAMI-DT | 6,013,991 | 6,013,991 | 39,680
70852 | WAND | 1,345,860 | 1,344,596 | 8,872
39270 | WANE-TV | 1,182,627 | 1,182,599 | 7,803
72120 | WANF | 6,907,445 | 6,833,668 | 45,089
64546 | WAOW | 642,013 | 633,108 | 4,177
52073 | WAPA-TV | 3,310,492 | 2,963,089 | 19,550
49712 | WAPT | 784,962 | 783,938 | 5,172
67792 | WAQP | 2,125,841 | 2,121,638 | 13,999
13206 | WATC-DT | 6,582,231 | 6,553,248 | 43,238
71082 | WATE-TV | 1,971,491 | 1,724,804 | 11,380
22819 | WATL | 6,759,193 | 6,686,998 | 44,121
20287 | WATM-TV | 868,640 | 735,080 | 4,850
11907 | WATN-TV | 1,792,866 | 1,789,289 | 11,806
13989 | WAVE | 1,998,359 | 1,989,161 | 13,124
71127 | WAVY-TV | 2,171,033 | 2,171,033 | 14,324
54938 | WAWD | 661,368 | 661,287 | 4,363
65247 | WAWV-TV | 684,558 | 679,421 | 4,483
12793 | WAXN-TV | 3,101,362 | 3,092,322 | 20,403
65696 | WBAL-TV | 10,637,240 | 10,226,692 | 67,476
74417 | WBAY-TV | 1,275,960 | 1,275,160 | 8,414
71085 | WBBH-TV | 2,368,347 | 2,368,347 | 15,626
65204 | WBBJ-TV | 654,842 | 651,262 | 4,297
9617 | WBBM-TV | 10,069,057 | 10,062,626 | 66,393
9088 | WBBZ-TV | 1,293,109 | 1,281,368 | 8,454
70138 | WBDT | 3,996,184 | 3,976,552 | 26,237
51349 | WBEC-TV | 5,979,674 | 5,979,674 | 39,454
10758 | WBFF | 9,293,641 | 9,148,848 | 60,364
12497 | WBFS-TV | 5,895,133 | 5,895,133 | 38,896
6568 | WBGU-TV | 1,325,871 | 1,325,871 | 8,748
81594 | WBIF | 315,981 | 315,981 | 2,085
84802 | WBIH | 734,949 | 717,111 | 4,731
717 | WBIQ | 1,649,738 | 1,621,834 | 10,701
46984 | WBIR-TV | 2,083,590 | 1,795,576 | 11,847
67048 | WBKB-TV | 131,202 | 123,916 | 818
34167 | WBKI | 2,220,753 | 2,204,001 | 14,542
4692 | WBKO | 1,079,438 | 953,403 | 6,291
76001 | WBKP | 54,703 | 54,532 | 360
68427 | WBMM | 595,569 | 595,314 | 3,928
73692 | WBNA | 1,803,465 | 1,770,024 | 11,679
23337 | WBNG-TV | 1,400,072 | 1,023,266 | 6,752
71217 | WBNS-TV | 3,083,491 | 3,021,775 | 19,938
72958 | WBNX-TV | 3,642,087 | 3,632,499 | 23,967
71218 | WBOC-TV | 880,031 | 880,031 | 5,806
71220 | WBOY-TV | 689,705 | 605,977 | 3,998
60850 | WBPH-TV | 11,348,739 | 10,115,153 | 66,740
7692 | WBPX-TV | 7,354,860 | 7,283,151 | 48,054
5981 | WBRA-TV | 1,705,750 | 1,657,188 | 10,934
71221 | WBRC | 1,976,420 | 1,942,307 | 12,815
71225 | WBRE-TV | 2,912,468 | 2,263,626 | 14,935
38616 | WBRZ-TV | 2,299,439 | 2,298,465 | 15,165
82627 | WBSF | 1,816,355 | 1,811,602 | 11,953
30826 | WBTV | 4,973,067 | 4,828,412 | 31,858
66407 | WBTW | 2,060,897 | 2,044,444 | 13,489
16363 | WBUI | 964,071 | 964,061 | 6,361
59281 | WBUP | 124,208 | 111,143 | 733
60830 | WBUY-TV | 1,568,306 | 1,566,684 | 10,337
72971 | WBXX-TV | 2,270,940 | 2,098,066 | 13,843
25456 | WBZ-TV | 8,524,410 | 8,283,402 | 54,654
63153 | WCAU | 11,821,594 | 11,646,436 | 76,843
363 | WCAV | 1,122,505 | 960,525 | 6,338
46728 | WCAX-TV | 793,321 | 675,201 | 4,455
39659 | WCBB | 985,125 | 952,373 | 6,284
10587 | WCBD-TV | 1,336,923 | 1,336,923 | 8,821
12477 | WCBI-TV | 675,135 | 673,011 | 4,441
9610 | WCBS-TV | 23,434,126 | 22,837,346 | 150,681
49157 | WCCB | 4,088,954 | 4,017,224 | 26,506
9629 | WCCO-TV | 4,237,121 | 4,228,346 | 27,899
14050 | WCCT-TV | 5,898,482 | 5,384,454 | 35,527
69544 | WCCU | 673,293 | 673,293 | 4,442
3001 | WCCV-TV | 3,000,204 | 2,188,016 | 14,437
23937 | WCES-TV | 1,138,637 | 1,137,146 | 7,503
65666 | WCET | 3,245,827 | 3,234,134 | 21,339
46755 | WCFE-TV | 468,278 | 427,164 | 2,818
71280 | WCHS-TV | 1,276,867 | 1,199,053 | 7,911
42124 | WCIA | 809,784 | 809,348 | 5,340
711 | WCIQ | 3,433,774 | 3,244,161 | 21,405
71428 | WCIU-TV | 10,205,649 | 10,199,522 | 67,296
9015 | WCIV | 1,341,404 | 1,341,404 | 8,851
42116 | WCIX | 531,709 | 527,935 | 3,483
16993 | WCJB-TV | 1,080,055 | 1,080,055 | 7,126
11125 | WCLF | 4,707,313 | 4,706,427 | 31,053
68007 | WCLJ-TV | 2,538,971 | 2,537,989 | 16,746
50781 | WCMH-TV | 2,988,929 | 2,947,009 | 19,444
9917 | WCML | 229,956 | 221,000 | 1,458
9908 | WCMU-TV | 717,859 | 708,880 | 4,677
9922 | WCMV | 435,637 | 421,372 | 2,780
9913 | WCMW | 107,851 | 105,871 | 699
32326 | WCNC-TV | 4,347,601 | 4,262,460 | 28,124
53734 | WCNY-TV | 1,328,626 | 1,263,336 | 8,335
73642 | WCOV-TV | 916,080 | 911,398 | 6,013
40618 | WCPB | 612,947 | 612,947 | 4,044
59438 | WCPO-TV | 3,461,834 | 3,448,166 | 22,751
10981 | WCPX-TV | 9,906,756 | 9,905,251 | 65,355
71297 | WCSC-TV | 1,188,482 | 1,188,482 | 7,842
39664 | WCSH | 1,844,256 | 1,625,773 | 10,727
69479 | WCTE | 645,441 | 572,887 | 3,780
18334 | WCTI-TV | 1,741,252 | 1,734,851 | 11,447
31590 | WCTV | 1,083,799 | 1,083,709 | 7,150
33081 | WCTX | 7,999,974 | 7,453,383 | 49,177
65684 | WCVB-TV | 8,334,723 | 8,171,970 | 53,919
9987 | WCVE-TV | 1,894,231 | 1,892,374 | 12,486
83304 | WCVI-TV | 41,004 | 40,978 | 270
34204 | WCVN-TV | 2,242,264 | 2,237,912 | 14,766
9989 | WCVW | 1,662,141 | 1,660,801 | 10,958
73042 | WCWF | 1,181,564 | 1,180,880 | 7,791
35385 | WCWG | 3,895,811 | 3,546,156 | 23,398
29712 | WCWJ | 1,938,352 | 1,938,263 | 12,789
73264 | WCWN | 1,917,787 | 1,630,664 | 10,759
2455 | WCYB-TV | 2,296,374 | 1,447,129 | 9,548
11291 | WDAF-TV | 2,724,533 | 2,722,049 | 17,960
21250 | WDAM-TV | 507,937 | 495,331 | 3,268
22129 | WDAY-TV | 389,109 | 389,023 | 2,567
22124 | WDAZ-TV | 155,202 | 154,877 | 1,022
71325 | WDBB | 1,874,003 | 1,841,150 | 12,148
71326 | WDBD | 924,445 | 923,304 | 6,092
71329 | WDBJ | 1,603,364 | 1,421,509 | 9,379
51567 | WDCA | 8,945,253 | 8,890,093 | 58,657
16530 | WDCQ-TV | 1,226,421 | 1,226,397 | 8,092
30576 | WDCW | 9,008,590 | 8,971,597 | 59,195
54385 | WDEF-TV | 1,818,758 | 1,592,644 | 10,508
32851 | WDFX-TV | 343,408 | 343,096 | 2,264
43846 | WDHN | 454,174 | 453,945 | 2,995
71338 | WDIO-DT | 345,803 | 332,242 | 2,192
714 | WDIQ | 674,543 | 625,633 | 4,128
53114 | WDIV-TV | 5,555,564 | 5,555,436 | 36,655
71427 | WDJT-TV | 3,315,464 | 3,306,632 | 21,817
39561 | WDKA | 640,692 | 640,230 | 4,224
64017 | WDKY-TV | 1,280,920 | 1,245,717 | 8,219
67893 | WDLI-TV | 4,131,639 | 4,098,980 | 27,045
72335 | WDPB | 652,694 | 652,694 | 4,306
83740 | WDPM-DT | 1,493,282 | 1,491,552 | 9,841
1283 | WDPN-TV | 12,164,952 | 12,033,746 | 79,399
6476 | WDPX-TV | 7,354,860 | 7,283,151 | 48,054
28476 | WDRB | 2,166,593 | 2,149,625 | 14,183
12171 | WDSC-TV | 4,131,441 | 4,131,441 | 27,259
17726 | WDSE | 335,589 | 320,243 | 2,113
71353 | WDSI-TV | 1,155,212 | 1,094,624 | 7,222
71357 | WDSU | 1,746,300 | 1,746,300 | 11,522
7908 | WDTI | 2,314,404 | 2,313,996 | 15,268
65690 | WDTN | 3,998,815 | 3,979,357 | 26,256
70592 | WDTV | 554,217 | 513,260 | 3,386
25045 | WDVM-TV | 3,360,750 | 2,931,025 | 19,339
4110 | WDWL | 2,449,731 | 2,192,227 | 14,464
49421 | WEAO | 3,954,789 | 3,936,003 | 25,970
71363 | WEAR-TV | 1,662,799 | 1,662,271 | 10,968
7893 | WEAU | 1,031,280 | 993,529 | 6,555
61003 | WEBA-TV | 652,051 | 645,245 | 4,257
19561 | WECN | 2,551,597 | 2,296,482 | 15,152
48666 | WECT | 1,284,078 | 1,284,078 | 8,472
13602 | WEDH | 5,419,331 | 4,792,684 | 31,622
13607 | WEDN | 3,520,804 | 2,654,657 | 17,515
69338 | WEDQ | 6,372,341 | 6,354,538 | 41,927
21808 | WEDU | 6,372,341 | 6,354,538 | 41,927
13594 | WEDW | 21,942,405 | 21,529,106 | 142,049
13595 | WEDY | 5,419,331 | 4,792,684 | 31,622
24801 | WEEK-TV | 730,054 | 729,949 | 4,816
6744 | WEFS | 4,115,849 | 4,115,849 | 27,156
24215 | WEHT | 854,000 | 838,936 | 5,535
721 | WEIQ | 1,138,095 | 1,137,690 | 7,506
18301 | WEIU-TV | 442,120 | 442,040 | 2,917
69271 | WEKW-TV | 1,306,163 | 800,635 | 5,283
60825 | WELF-TV | 1,547,836 | 1,455,263 | 9,602
26602 | WELU | 2,052,918 | 1,847,568 | 12,190
40761 | WEMT | 1,708,704 | 1,169,182 | 7,714
69237 | WENH-TV | 4,865,355 | 4,679,954 | 30,878
71508 | WENY-TV | 636,768 | 501,692 | 3,310
83946 | WEPH | 604,510 | 602,977 | 3,978
81508 | WEPX-TV | 945,425 | 945,425 | 6,238
25738 | WESH | 4,917,201 | 4,906,261 | 32,372
65670 | WETA-TV | 9,177,186 | 9,112,861 | 60,127
69944 | WETK | 681,830 | 571,729 | 3,772
60653 | WETM-TV | 844,248 | 745,266 | 4,917
18252 | WETP-TV | 2,251,212 | 1,940,383 | 12,803
2709 | WEUX | 396,788 | 387,527 | 2,557
72041 | WEVV-TV | 751,428 | 750,047 | 4,949
59441 | WEWS-TV | 4,098,329 | 4,061,663 | 26,799
72052 | WEYI-TV | 3,802,069 | 3,734,694 | 24,642
72054 | WFAA | 8,238,058 | 8,226,984 | 54,282
81669 | WFBD | 919,012 | 918,335 | 6,059
69532 | WFDC-DT | 9,008,590 | 8,971,597 | 59,195
10132 | WFFF-TV | 644,230 | 566,681 | 3,739
25040 | WFFT-TV | 1,133,445 | 1,133,031 | 7,476
11123 | WFGC | 3,402,762 | 3,402,762 | 22,451
6554 | WFGX | 1,631,714 | 1,631,224 | 10,763
13991 | WFIE | 742,941 | 741,771 | 4,894
715 | WFIQ | 550,070 | 548,067 | 3,616
64592 | WFLA-TV | 6,656,303 | 6,639,930 | 43,810
22211 | WFLD | 10,111,733 | 10,105,397 | 66,675
72060 | WFLI-TV | 1,357,801 | 1,252,063 | 8,261
39736 | WFLX | 6,299,680 | 6,299,680 | 41,565
72062 | WFMJ-TV | 4,291,547 | 3,802,286 | 25,087
72064 | WFMY-TV | 5,399,787 | 5,364,129 | 35,393
39884 | WFMZ-TV | 11,348,739 | 10,115,153 | 66,740
83943 | WFNA | 1,511,431 | 1,509,839 | 9,962
47902 | WFOR-TV | 5,952,062 | 5,952,062 | 39,272
11909 | WFOX-TV | 1,881,740 | 1,881,740 | 12,416
40626 | WFPT | 6,479,421 | 6,072,020 | 40,063
21245 | WFPX-TV | 2,980,937 | 2,976,800 | 19,641
25396 | WFQX-TV | 537,914 | 533,910 | 3,523
9635 | WFRV-TV | 1,313,825 | 1,300,885 | 8,583
53115 | WFSB | 4,799,110 | 4,417,573 | 29,147
6093 | WFSG | 403,233 | 403,173 | 2,660
21801 | WFSU-TV | 592,693 | 592,676 | 3,910
11913 | WFTC | 4,159,690 | 4,144,073 | 27,343
64588 | WFTS-TV | 6,213,173 | 6,213,039 | 40,994
16788 | WFTT-TV | 5,291,296 | 5,291,296 | 34,912
72076 | WFTV | 4,707,940 | 4,707,940 | 31,063
70649 | WFTX-TV | 2,076,721 | 2,076,721 | 13,702
60553 | WFTY-DT | 5,838,625 | 5,724,691 | 37,772
25395 | WFUP | 235,473 | 234,457 | 1,547
60555 | WFUT-DT | 21,842,105 | 21,428,169 | 141,383
22108 | WFWA | 1,071,881 | 1,071,733 | 7,071
9054 | WFXB | 1,448,018 | 1,447,713 | 9,552
3228 | WFXG | 1,126,109 | 1,115,208 | 7,358
70815 | WFXL | 792,863 | 786,514 | 5,189
19707 | WFXP | 556,627 | 543,130 | 3,584
24813 | WFXR | 1,418,873 | 1,283,217 | 8,467
6463 | WFXT | 8,044,623 | 7,951,492 | 52,464
22245 | WFXU | 225,675 | 225,675 | 1,489
43424 | WFXV | 682,282 | 587,673 | 3,877
25236 | WFXW | 240,198 | 240,193 | 1,585
41397 | WFYI | 2,614,535 | 2,613,865 | 17,246
53930 | WGAL | 6,592,850 | 5,851,154 | 38,606
2708 | WGBA-TV | 1,219,315 | 1,218,972 | 8,043
24314 | WGBC | 233,035 | 232,798 | 1,536
72099 | WGBH-TV | 8,264,395 | 8,151,180 | 53,781
12498 | WGBO-DT | 9,984,682 | 9,984,501 | 65,878
11113 | WGBP-TV | 1,964,065 | 1,956,753 | 12,911
72098 | WGBX-TV | 8,354,289 | 8,184,570 | 54,002
72096 | WGBY-TV | 4,556,980 | 3,838,887 | 25,329
62388 | WGCU | 1,789,951 | 1,789,951 | 11,810
54275 | WGEM-TV | 340,572 | 335,705 | 2,215
27387 | WGEN-TV | 47,451 | 47,451 | 313
7727 | WGFL | 958,665 | 958,665 | 6,325
25682 | WGGB-TV | 3,501,457 | 3,092,700 | 20,406
11027 | WGGN-TV | 4,010,515 | 3,987,566 | 26,310
9064 | WGGS-TV | 2,978,169 | 2,919,596 | 19,263
72106 | WGHP | 4,716,324 | 4,663,025 | 30,767
710 | WGIQ | 367,358 | 367,140 | 2,422
12520 | WGMB-TV | 1,815,089 | 1,814,919 | 11,975
25683 | WGME-TV | 1,562,382 | 1,391,898 | 9,184
24618 | WGNM | 765,295 | 764,308 | 5,043
72119 | WGNO | 1,737,340 | 1,737,340 | 11,463
9762 | WGNT | 2,218,861 | 2,218,861 | 14,640
72115 | WGN-TV | 10,139,791 | 10,133,994 | 66,864
40619 | WGPT | 570,828 | 347,754 | 2,294
65074 | WGPX-TV | 3,063,562 | 3,053,879 | 20,149
64547 | WGRZ | 1,896,029 | 1,833,959 | 12,100
63329 | WGTA | 1,174,842 | 1,134,460 | 7,485
66285 | WGTE-TV | 2,250,689 | 2,250,689 | 14,850
59279 | WGTQ | 114,517 | 109,995 | 726
59280 | WGTU | 369,755 | 364,263 | 2,403
23948 | WGTV | 6,872,895 | 6,793,292 | 44,822
7623 | WGTW-TV | 830,912 | 830,818 | 5,482
24783 | WGVK | 2,565,756 | 2,563,031 | 16,911
24784 | WGVU-TV | 1,943,807 | 1,894,218 | 12,498
21536 | WGWG | 1,146,502 | 1,146,502 | 7,565
56642 | WGWW | 1,742,591 | 1,714,951 | 11,315
58262 | WGXA | 799,532 | 798,664 | 5,270
73371 | WHAM-TV | 1,381,792 | 1,333,395 | 8,798
32327 | WHAS-TV | 2,065,124 | 2,034,746 | 13,425
6096 | WHA-TV | 1,715,866 | 1,709,075 | 11,276
13950 | WHBF-TV | 1,726,114 | 1,713,500 | 11,306
12521 | WHBQ-TV | 1,735,050 | 1,714,081 | 11,310
10894 | WHBR | 1,425,293 | 1,424,691 | 9,400
65128 | WHDF | 1,720,614 | 1,666,798 | 10,998
72145 | WHDH | 7,993,816 | 7,899,325 | 52,120
83929 | WHDT | 6,334,757 | 6,334,757 | 41,797
70041 | WHEC-TV | 1,322,761 | 1,278,323 | 8,434
67971 | WHFT-TV | 5,976,793 | 5,976,793 | 39,435
41458 | WHIO-TV | 4,041,602 | 4,033,560 | 26,613
713 | WHIQ | 1,383,801 | 1,329,761 | 8,774
61216 | WHIZ-TV | 962,141 | 885,771 | 5,844
18780 | WHLA-TV | 569,415 | 530,529 | 3,500
48668 | WHLT | 481,036 | 479,959 | 3,167
24582 | WHLV-TV | 4,739,820 | 4,739,820 | 31,273
37102 | WHMB-TV | 3,187,327 | 3,126,458 | 20,628
61004 | WHMC | 838,228 | 838,228 | 5,531
36117 | WHME-TV | 1,490,612 | 1,490,518 | 9,834
37106 | WHNO | 1,592,553 | 1,592,553 | 10,508
72300 | WHNS | 2,753,561 | 2,462,848 | 16,250
48693 | WHNT-TV | 1,687,347 | 1,607,863 | 10,609
66221 | WHO-DT | 1,226,093 | 1,209,327 | 7,979
6866 | WHOI | 716,035 | 715,956 | 4,724
72313 | WHP-TV | 4,219,869 | 3,695,568 | 24,383
51980 | WHPX-TV | 5,666,126 | 5,176,293 | 34,153
73036 | WHRM-TV | 537,971 | 535,112 | 3,531
25932 | WHRO-TV | 2,261,464 | 2,261,381 | 14,921
68058 | WHSG-TV | 6,744,093 | 6,678,392 | 44,064
4688 | WHSV-TV | 894,602 | 760,620 | 5,019
9990 | WHTJ | 867,445 | 743,025 | 4,902
72326 | WHTM-TV | 3,349,178 | 2,923,354 | 19,288
11117 | WHTN | 2,283,942 | 2,273,175 | 14,998
27772 | WHUT-TV | 8,785,956 | 8,745,663 | 57,704
18793 | WHWC-TV | 1,205,932 | 1,152,576 | 7,605
72338 | WHYY-TV | 10,984,166 | 10,590,279 | 69,875
5360 | WIAT | 1,959,076 | 1,921,566 | 12,678
63160 | WIBW-TV | 1,312,372 | 1,263,123 | 8,334
25684 | WICD | 1,220,886 | 1,219,775 | 8,048
25686 | WICS | 1,060,412 | 1,058,572 | 6,984
24970 | WICU-TV | 704,263 | 654,470 | 4,318
62210 | WICZ-TV | 1,208,124 | 932,840 | 6,155
18410 | WIDP | 2,258,204 | 2,022,801 | 13,346
26025 | WIFS | 1,664,757 | 1,659,814 | 10,951
720 | WIIQ | 330,593 | 326,759 | 2,156
68939 | WILL-TV | 1,148,587 | 1,125,681 | 7,427
6863 | WILX-TV | 3,505,808 | 3,321,258 | 21,914
22093 | WINK-TV | 2,135,187 | 2,135,187 | 14,088
67787 | WINM | 1,035,236 | 1,004,998 | 6,631
41314 | WINP-TV | 2,918,791 | 2,870,939 | 18,942
3646 | WIPB | 2,098,072 | 2,097,589 | 13,840
48408 | WIPL | 902,112 | 849,374 | 5,604
53863 | WIPM-TV | 2,018,636 | 1,743,992 | 740
53859 | WIPR-TV | 3,164,369 | 2,988,035 | 19,715
10253 | WIPX-TV | 2,538,971 | 2,537,989 | 16,746
39887 | WIRS | 962,531 | 803,553 | 2,946
71336 | WIRT-DT | 125,282 | 123,221 | 813
13990 | WIS | 2,873,204 | 2,819,721 | 18,605
65143 | WISC-TV | 1,816,917 | 1,779,975 | 11,744
13960 | WISE-TV | 1,105,600 | 1,105,444 | 7,294
39269 | WISH-TV | 3,141,430 | 3,093,806 | 20,413
65680 | WISN-TV | 3,041,677 | 3,036,957 | 20,038
73083 | WITF-TV | 2,532,625 | 2,299,838 | 15,174
73107 | WITI | 3,149,773 | 3,140,719 | 20,722
594 | WITN-TV | 1,942,458 | 1,927,751 | 12,719
61005 | WITV | 1,002,380 | 1,002,380 | 6,614
7780 | WIVB-TV | 1,911,934 | 1,834,562 | 12,104
11260 | WIVT | 831,941 | 612,317 | 4,040
60571 | WIWN | 3,387,206 | 3,370,697 | 22,240
62207 | WIYC | 673,128 | 670,480 | 4,424
73120 | WJAC-TV | 2,152,162 | 1,855,359 | 12,242
10259 | WJAL | 9,654,785 | 9,309,845 | 61,426
50780 | WJAR | 7,602,846 | 7,447,435 | 49,138
35576 | WJAX-TV | 1,909,321 | 1,909,321 | 12,598
27140 | WJBF | 1,669,785 | 1,652,861 | 10,906
73123 | WJBK | 5,840,177 | 5,804,131 | 38,296
37174 | WJCL | 1,031,857 | 1,031,857 | 6,808
73130 | WJCT | 1,893,148 | 1,892,490 | 12,487
29719 | WJEB-TV | 1,880,192 | 1,880,192 | 12,406
65749 | WJET-TV | 711,412 | 685,375 | 4,522
7651 | WJFB | 2,745,573 | 2,734,787 | 18,044
49699 | WJFW-TV | 281,148 | 271,274 | 1,790
73136 | WJHG-TV | 912,881 | 905,531 | 5,975
57826 | WJHL-TV | 2,035,505 | 1,463,539 | 9,656
68519 | WJKT | 645,594 | 645,161 | 4,257
1051 | WJLA-TV | 9,654,785 | 9,314,754 | 61,459
86537 | WJLP | 22,694,994 | 22,426,423 | 147,970
9630 | WJMN-TV | 158,494 | 151,938 | 1,002
61008 | WJPM-TV | 587,058 | 586,836 | 3,872
58340 | WJPX | 2,861,004 | 2,653,740 | 17,509
21735 | WJRT-TV | 2,831,612 | 2,583,368 | 17,045
23918 | WJSP-TV | 4,678,958 | 4,643,904 | 30,640
41210 | WJTC | 1,517,180 | 1,516,056 | 10,003
48667 | WJTV | 966,513 | 958,676 | 6,325
73150 | WJW | 3,969,148 | 3,895,876 | 25,705
61007 | WJWJ-TV | 1,180,652 | 1,180,652 | 7,790
58342 | WJWN-TV | 1,830,695 | 1,568,858 | 2,946
53116 | WJXT | 1,899,110 | 1,899,110 | 12,530
11893 | WJXX | 1,888,910 | 1,888,113 | 12,458
32334 | WJYS | 9,820,848 | 9,820,831 | 64,798
25455 | WJZ-TV | 10,637,240 | 10,228,751 | 67,489
73152 | WJZY | 4,965,077 | 4,831,865 | 31,881
64983 | WKAQ-TV | 3,259,225 | 2,914,322 | 1,101
6104 | WKAR-TV | 1,713,640 | 1,709,038 | 11,276
34171 | WKAS | 522,877 | 496,277 | 3,274
51570 | WKBD-TV | 5,180,191 | 5,179,980 | 34,178
73153 | WKBN-TV | 4,870,043 | 4,522,748 | 29,841
13929 | WKBS-TV | 1,054,914 | 914,205 | 6,032
74424 | WKBT-DT | 905,659 | 860,444 | 5,677
54176 | WKBW-TV | 2,261,221 | 2,175,654 | 14,355
53465 | WKCF | 5,109,221 | 5,107,692 | 33,701
73155 | WKEF | 3,860,944 | 3,850,405 | 25,405
34177 | WKGB-TV | 444,266 | 442,639 | 2,921
34196 | WKHA | 475,212 | 372,027 | 2,455
34207 | WKLE | 918,947 | 911,337 | 6,013
34212 | WKMA-TV | 558,464 | 558,150 | 3,683
71293 | WKMG-TV | 4,643,692 | 4,643,692 | 30,639
34195 | WKMJ-TV | 1,572,974 | 1,565,579 | 10,330
34202 | WKMR | 457,241 | 422,772 | 2,789
34174 | WKMU | 339,477 | 339,064 | 2,237
42061 | WKNO | 1,649,295 | 1,647,327 | 10,869
83931 | WKNX-TV | 1,778,483 | 1,548,751 | 10,219
34205 | WKOH | 591,189 | 584,484 | 3,856
67869 | WKOI-TV | 3,996,184 | 3,976,552 | 26,237
34211 | WKON | 1,170,361 | 1,163,470 | 7,677
18267 | WKOP-TV | 1,641,367 | 1,465,642 | 9,670
64545 | WKOW | 1,999,166 | 1,978,160 | 13,052
21432 | WKPC-TV | 1,620,977 | 1,613,304 | 10,645
65758 | WKPD | 277,245 | 276,367 | 1,823
34200 | WKPI-TV | 552,999 | 432,287 | 2,852
27504 | WKPT-TV | 1,107,992 | 876,999 | 5,786
58341 | WKPV | 981,832 | 762,182 | 2,946
11289 | WKRC-TV | 3,412,677 | 3,359,970 | 22,169
73187 | WKRG-TV | 1,661,088 | 1,660,222 | 10,954
73188 | WKRN-TV | 2,843,550 | 2,823,383 | 18,629
34222 | WKSO-TV | 675,800 | 663,810 | 4,380
40902 | WKTC | 1,422,142 | 1,421,788 | 9,381
60654 | WKTV | 1,566,267 | 1,340,030 | 8,842
73195 | WKYC | 4,162,460 | 4,109,739 | 27,116
24914 | WKYT-TV | 1,263,314 | 1,247,201 | 8,229
71861 | WKYU-TV | 447,402 | 444,471 | 2,933
34181 | WKZT-TV | 1,092,295 | 1,075,603 | 7,097
18819 | WLAE-TV | 1,489,518 | 1,489,518 | 9,828
36533 | WLAJ | 4,230,811 | 4,195,529 | 27,682
2710 | WLAX | 480,917 | 455,361 | 3,004
68542 | WLBT | 930,984 | 929,897 | 6,135
39644 | WLBZ | 374,046 | 364,463 | 2,405
69328 | WLED-TV | 333,929 | 175,095 | 1,155
63046 | WLEF-TV | 201,828 | 200,259 | 1,321
73203 | WLEX-TV | 1,037,124 | 1,032,416 | 6,812
37806 | WLFB | 756,510 | 656,110 | 4,329
37808 | WLFG | 1,555,609 | 1,240,816 | 8,187
73204 | WLFI-TV | 2,422,930 | 2,397,991 | 15,822
73205 | WLFL | 4,154,373 | 4,151,842 | 27,394
19777 | WLII-DT | 2,472,430 | 2,284,000 | 15,070
37503 | WLIO | 1,076,204 | 1,052,712 | 6,946
38336 | WLIW | 21,331,793 | 21,007,396 | 138,607
27696 | WLJC-TV | 1,433,034 | 1,317,702 | 8,694
71645 | WLJT-DT | 382,232 | 381,417 | 2,517
53939 | WLKY | 2,035,700 | 2,028,397 | 13,383
11033 | WLLA | 2,204,047 | 2,203,715 | 14,540
1222 | WLMA | 1,681,703 | 1,678,515 | 11,075
17076 | WLMB | 2,820,328 | 2,813,733 | 18,565
68518 | WLMT | 1,739,879 | 1,737,416 | 11,463
22591 | WLNE-TV | 6,880,185 | 6,815,475 | 44,969
74420 | WLNS-TV | 4,230,811 | 4,195,529 | 27,682
73206 | WLNY-TV | 7,829,527 | 7,746,153 | 51,109
84253 | WLOO | 897,764 | 896,755 | 5,917
56537 | WLOS | 3,337,211 | 2,748,224 | 18,133
37732 | WLOV-TV | 608,778 | 606,994 | 4,005
13995 | WLOX | 1,236,798 | 1,224,809 | 8,081
38586 | WLPB-TV | 1,263,410 | 1,263,379 | 8,336
73189 | WLPX-TV | 1,012,910 | 963,892 | 6,360
66358 | WLRN-TV | 6,010,422 | 6,010,422 | 39,657
73226 | WLS-TV | 10,333,090 | 10,326,952 | 68,137
73230 | WLTV-DT | 5,988,029 | 5,988,029 | 39,509
37176 | WLTX | 1,614,789 | 1,611,719 | 10,634
37179 | WLTZ | 738,023 | 734,057 | 4,843
21259 | WLUC-TV | 103,185 | 95,367 | 629
4150 | WLUK-TV | 1,237,211 | 1,236,394 | 8,158
73238 | WLVI | 7,993,816 | 7,899,325 | 52,120
36989 | WLVT-TV | 11,348,739 | 10,115,153 | 66,740
3978 | WLWC | 3,398,164 | 3,257,998 | 21,496
46979 | WLWT | 3,499,610 | 3,489,652 | 23,025
54452 | WLXI | 3,243,843 | 3,015,382 | 19,895
55350 | WLYH | 3,349,178 | 2,923,354 | 19,288
43192 | WMAB-TV | 389,089 | 384,767 | 2,539
43170 | WMAE-TV | 692,999 | 663,737 | 4,379
43197 | WMAH-TV | 1,302,245 | 1,301,790 | 8,589
43176 | WMAO-TV | 333,490 | 333,321 | 2,199
47905 | WMAQ-TV | 10,069,653 | 10,068,069 | 66,429
59442 | WMAR-TV | 10,025,750 | 9,879,744 | 65,187
43184 | WMAU-TV | 637,434 | 631,358 | 4,166
43193 | WMAV-TV | 1,018,601 | 1,018,556 | 6,720
43169 | WMAW-TV | 731,384 | 716,614 | 4,728
46991 | WMAZ-TV | 1,238,176 | 1,180,117 | 7,786
66398 | WMBB | 990,632 | 964,744 | 6,365
43952 | WMBC-TV | 22,446,503 | 21,778,765 | 143,696
42121 | WMBD-TV | 720,722 | 720,669 | 4,755
83969 | WMBF-TV | 526,232 | 526,232 | 3,472
60829 | WMCF-TV | 644,916 | 641,833 | 4,235
9739 | WMCN-TV | 10,984,166 | 10,590,279 | 69,875
19184 | WMC-TV | 2,057,112 | 2,053,563 | 13,549
189357 | WMDE | 6,933,795 | 6,802,466 | 44,883
73255 | WMDN | 259,822 | 259,616 | 1,713
16455 | WMDT | 790,315 | 790,315 | 5,214
39656 | WMEA-TV | 965,365 | 911,355 | 6,013
39648 | WMEB-TV | 411,335 | 396,677 | 2,617
70537 | WMEC | 199,187 | 198,698 | 1,311
39649 | WMED-TV | 28,850 | 27,884 | 184
39662 | WMEM-TV | 66,343 | 64,625 | 426
41893 | WMFD-TV | 1,637,011 | 1,379,386 | 9,101
41436 | WMFP | 6,230,964 | 5,959,061 | 39,318
61111 | WMGM-TV | 830,912 | 830,818 | 5,482
43847 | WMGT-TV | 614,625 | 614,040 | 4,051
73263 | WMHT | 1,729,302 | 1,559,066 | 10,287
68545 | WMLW-TV | 1,863,951 | 1,863,679 | 12,297
53819 | WMOR-TV | 6,400,456 | 6,400,333 | 42,229
81503 | WMOW | 122,110 | 106,904 | 705
65944 | WMPB | 8,059,368 | 7,940,127 | 52,389
43168 | WMPN-TV | 843,756 | 841,772 | 5,554
65942 | WMPT | 9,500,117 | 9,442,413 | 62,301
60827 | WMPV-TV | 1,565,537 | 1,564,599 | 10,323
10221 | WMSN-TV | 2,030,916 | 2,010,636 | 13,266
2174 | WMTJ | 2,764,573 | 2,492,464 | 16,445
6870 | WMTV | 1,628,641 | 1,625,206 | 10,723
73288 | WMTW | 2,041,342 | 1,737,673 | 11,465
23935 | WMUM-TV | 926,604 | 921,419 | 6,080
73292 | WMUR-TV | 5,652,739 | 5,453,759 | 35,984
42663 | WMVS | 3,216,887 | 3,155,770 | 20,822
42665 | WMVT | 3,216,887 | 3,155,770 | 20,822
81946 | WMWC-TV | 935,338 | 912,437 | 6,020
56548 | WMYA-TV | 1,808,659 | 1,723,755 | 11,373
74211 | WMYD | 5,840,155 | 5,839,880 | 38,532
20624 | WMYT-TV | 4,965,077 | 4,831,865 | 31,881
25544 | WMYV | 4,406,813 | 4,379,408 | 28,895
73310 | WNAB | 2,600,886 | 2,591,235 | 17,097
73311 | WNAC-TV | 7,817,084 | 7,459,610 | 49,219
47535 | WNBC | 23,283,577 | 22,722,761 | 149,925
83965 | WNBW-DT | 1,557,530 | 1,550,637 | 10,231
72307 | WNCF | 665,079 | 658,994 | 4,348
50782 | WNCN | 4,201,973 | 4,186,944 | 27,625
57838 | WNCT-TV | 2,034,787 | 1,975,930 | 13,037
41674 | WNDU-TV | 1,901,588 | 1,870,311 | 12,340
28462 | WNDY-TV | 3,141,430 | 3,093,806 | 20,413
71928 | WNED-TV | 1,408,141 | 1,390,745 | 9,176
60931 | WNEH | 1,389,794 | 1,383,193 | 9,126
41221 | WNEM-TV | 1,437,726 | 1,434,104 | 9,462
49439 | WNEO | 3,343,598 | 3,265,373 | 21,545
73318 | WNEP-TV | 3,472,501 | 2,879,994 | 19,002
18795 | WNET | 22,428,695 | 21,915,470 | 144,598
51864 | WNEU | 7,676,529 | 7,606,661 | 50,189
23942 | WNGH-TV | 6,461,522 | 6,281,764 | 41,447
67802 | WNIN | 907,713 | 891,200 | 5,880
41671 | WNIT | 1,335,767 | 1,335,767 | 8,813
48457 | WNJB | 22,145,547 | 21,374,668 | 141,030
48477 | WNJN | 22,145,547 | 21,374,668 | 141,030
48481 | WNJS | 7,729,626 | 7,710,589 | 50,874
48465 | WNJT | 7,729,626 | 7,710,589 | 50,874
73333 | WNJU | 23,283,577 | 22,722,761 | 149,925
73336 | WNJX-TV | 1,446,990 | 1,265,826 | 905
61217 | WNKY | 414,184 | 412,652 | 2,723
71905 | WNLO | 1,911,934 | 1,834,562 | 12,104
4318 | WNMU | 178,504 | 177,692 | 1,172
73344 | WNNE | 801,186 | 684,501 | 4,516
54280 | WNOL-TV | 1,730,074 | 1,730,074 | 11,415
71676 | WNPB-TV | 2,094,971 | 1,923,306 | 12,690
62137 | WNPI-DT | 159,208 | 154,143 | 1,017
41398 | WNPT | 2,692,492 | 2,657,273 | 17,533
28468 | WNPX-TV | 2,494,581 | 2,470,662 | 16,301
61009 | WNSC-TV | 2,860,897 | 2,853,300 | 18,826
61010 | WNTV | 2,775,252 | 2,572,161 | 16,971
16539 | WNTZ-TV | 328,336 | 327,661 | 2,162
7933 | WNUV | 9,944,268 | 9,735,378 | 64,234
9999 | WNVC | 867,445 | 743,025 | 4,902
10019 | WNVT | 1,894,231 | 1,892,374 | 12,486
73354 | WNWO-TV | 2,915,507 | 2,915,507 | 19,237
136751 | WNYA | 1,932,105 | 1,656,014 | 10,926
30303 | WNYB | 1,784,805 | 1,758,025 | 11,599
6048 | WNYE-TV | 20,693,079 | 20,445,674 | 134,901
34329 | WNYI | 1,609,642 | 1,329,569 | 8,772
67784 | WNYO-TV | 1,449,480 | 1,428,169 | 9,423
73363 | WNYT | 1,691,742 | 1,539,006 | 10,154
22206 | WNYW | 21,377,740 | 21,043,915 | 138,848
69618 | WOAI-TV | 3,063,753 | 3,050,610 | 20,128
66804 | WOAY-TV | 536,548 | 414,046 | 2,732
41225 | WOFL | 4,897,034 | 4,891,577 | 32,275
70651 | WOGX | 1,262,333 | 1,262,333 | 8,329
8661 | WOI-DT | 1,278,698 | 1,277,340 | 8,428
39746 | WOIO | 3,819,462 | 3,739,439 | 24,673
71725 | WOLE-DT | 1,581,955 | 1,411,809 | 5,385
73375 | WOLF-TV | 3,025,477 | 2,531,097 | 16,700
60963 | WOLO-TV | 2,854,959 | 2,814,886 | 18,573
36838 | WOOD-TV | 2,637,147 | 2,631,110 | 17,360
67602 | WOPX-TV | 4,677,102 | 4,676,992 | 30,859
64865 | WORA-TV | 3,172,055 | 2,933,387 | 19,354
73901 | WORO-DT | 2,847,102 | 2,661,536 | 17,561
60357 | WOST | 1,055,465 | 918,659 | 6,061
66185 | WOSU-TV | 3,073,523 | 3,013,857 | 19,885
131 | WOTF-TV | 4,204,625 | 4,204,625 | 27,742
10212 | WOTV | 2,493,328 | 2,492,908 | 16,448
50147 | WOUB-TV | 739,667 | 721,384 | 4,760
50141 | WOUC-TV | 1,680,457 | 1,618,502 | 10,679
23342 | WOWK-TV | 1,098,995 | 1,028,502 | 6,786
65528 | WOWT | 1,516,978 | 1,514,052 | 9,990
31570 | WPAN | 1,392,393 | 1,392,261 | 9,186
51988 | WPBF | 3,601,603 | 3,601,603 | 23,763
21253 | WPBN-TV | 452,157 | 440,310 | 2,905
62136 | WPBS-TV | 332,147 | 296,972 | 1,959
13456 | WPBT | 5,976,331 | 5,976,331 | 39,432
13924 | WPCB-TV | 2,920,794 | 2,802,648 | 18,492
64033 | WPCH-TV | 6,826,973 | 6,747,200 | 44,518
4354 | WPCT | 207,688 | 207,286 | 1,368
17012 | WPDE-TV | 1,845,347 | 1,838,747 | 12,132
52527 | WPEC | 6,332,850 | 6,332,850 | 41,784
84088 | WPFO | 1,390,230 | 1,272,952 | 8,399
54728 | WPGA-TV | 575,813 | 575,578 | 3,798
60820 | WPGD-TV | 2,787,190 | 2,772,517 | 18,293
73875 | WPGH-TV | 3,209,933 | 3,099,658 | 20,452
2942 | WPGX | 448,453 | 445,686 | 2,941
73879 | WPHL-TV | 10,944,731 | 10,756,717 | 70,973
73881 | WPIX | 22,259,872 | 21,818,842 | 143,961
69880 | WPKD-TV | 3,366,547 | 3,181,216 | 20,990
53113 | WPLG | 6,165,413 | 6,165,413 | 40,679
11906 | WPMI-TV | 1,609,741 | 1,609,491 | 10,619
10213 | WPMT | 2,532,625 | 2,299,838 | 15,174
18798 | WPNE-TV | 1,210,150 | 1,209,366 | 7,979
73907 | WPNT | 3,148,917 | 3,050,465 | 20,127
28480 | WPPT | 11,348,739 | 10,115,153 | 66,740
51984 | WPPX-TV | 8,429,105 | 8,212,096 | 54,183
47404 | WPRI-TV | 7,754,340 | 7,480,561 | 49,357
51991 | WPSD-TV | 852,232 | 848,332 | 5,597
12499 | WPSG | 11,342,493 | 11,068,585 | 73,031
66219 | WPSU-TV | 1,016,983 | 842,529 | 5,559
73905 | WPTA | 1,136,029 | 1,135,873 | 7,494
25067 | WPTD | 3,535,155 | 3,522,151 | 23,239
25065 | WPTO | 3,080,289 | 3,066,947 | 20,236
59443 | WPTV-TV | 6,414,108 | 6,414,108 | 42,320
57476 | WPTZ | 801,186 | 684,501 | 4,516
8616 | WPVI-TV | 11,997,071 | 11,834,791 | 78,086
48772 | WPWR-TV | 10,111,733 | 10,105,397 | 66,675
51969 | WPXA-TV | 7,486,662 | 7,341,812 | 48,441
71236 | WPXC-TV | 1,812,411 | 1,812,329 | 11,958
5800 | WPXD-TV | 5,357,614 | 5,357,504 | 35,349
37104 | WPXE-TV | 3,105,562 | 3,094,581 | 20,418
48406 | WPXG-TV | 2,760,323 | 2,697,351 | 17,797
73312 | WPXH-TV | 1,558,487 | 1,543,110 | 10,181
73910 | WPXI | 3,270,399 | 3,179,997 | 20,982
2325 | WPXJ-TV | 2,383,753 | 2,319,308 | 15,303
52628 | WPXK-TV | 1,897,932 | 1,672,850 | 11,037
21729 | WPXL-TV | 1,738,354 | 1,738,354 | 11,470
48608 | WPXM-TV | 5,673,283 | 5,673,283 | 37,432
73356 | WPXN-TV | 22,193,311 | 21,756,322 | 143,548
27290 | WPXP-TV | 6,117,297 | 6,117,297 | 40,362
50063 | WPXQ-TV | 3,398,164 | 3,257,998 | 21,496
70251 | WPXR-TV | 1,361,522 | 1,199,794 | 7,916
40861 | WPXS | 2,313,093 | 2,228,599 | 14,704
53065 | WPXT | 1,058,317 | 1,005,248 | 6,633
37971 | WPXU-TV | 764,835 | 764,835 | 5,046
67077 | WPXV-TV | 1,997,620 | 1,997,620 | 13,180
74091 | WPXW-TV | 8,918,745 | 8,866,240 | 58,499
21726 | WPXX-TV | 1,563,942 | 1,560,675 | 10,297
73319 | WQAD-TV | 1,077,293 | 1,065,179 | 7,028
65130 | WQCW | 1,234,953 | 1,165,995 | 7,693
71561 | WQEC | 177,193 | 175,191 | 1,156
41315 | WQED | 3,491,971 | 3,385,114 | 22,335
3255 | WQHA | 2,936,821 | 2,543,288 | 16,781
60556 | WQHS-DT | 3,982,203 | 3,936,334 | 25,972
53716 | WQLN | 573,688 | 553,172 | 3,650
52075 | WQMY | 403,099 | 246,363 | 1,626
64550 | WQOW | 383,460 | 372,929 | 2,461
5468 | WQPT-TV | 928,221 | 922,909 | 6,089
64690 | WQPX-TV | 1,624,976 | 1,207,503 | 7,967
52408 | WQRF-TV | 1,384,090 | 1,360,850 | 8,979
2175 | WQTO | 2,533,848 | 1,714,503 | 4,010
8688 | WRAL-TV | 4,258,430 | 4,255,027 | 28,075
10133 | WRAY-TV | 4,701,102 | 4,682,210 | 30,893
64611 | WRAZ | 4,206,845 | 4,204,439 | 27,741
136749 | WRBJ-TV | 1,029,422 | 1,026,759 | 6,775
3359 | WRBL | 1,573,722 | 1,534,121 | 10,122
57221 | WRBU | 2,964,043 | 2,960,986 | 19,537
54940 | WRBW | 4,929,252 | 4,926,807 | 32,507
59137 | WRCB | 1,674,932 | 1,436,942 | 9,481
47904 | WRC-TV | 9,040,003 | 8,996,367 | 59,358
54963 | WRDC | 4,380,924 | 4,374,069 | 28,860
55454 | WRDQ | 4,765,929 | 4,765,929 | 31,446
73937 | WRDW-TV | 1,630,465 | 1,580,144 | 10,426
66174 | WREG-TV | 1,645,112 | 1,638,826 | 10,813
61011 | WRET-TV | 2,775,252 | 2,572,161 | 16,971
73940 | WREX | 2,367,561 | 2,071,361 | 13,667
54443 | WRFB | 2,361,435 | 2,105,790 | 1,101
73942 | WRGB | 1,773,206 | 1,559,637 | 10,290
411 | WRGT-TV | 3,563,572 | 3,528,799 | 23,283
74416 | WRIC-TV | 2,264,724 | 2,197,233 | 14,497
61012 | WRJA-TV | 1,227,284 | 1,220,205 | 8,051
412 | WRLH-TV | 2,215,949 | 2,152,568 | 14,203
61013 | WRLK-TV | 1,268,677 | 1,267,713 | 8,364
43870 | WRLM | 3,954,789 | 3,936,003 | 25,970
74156 | WRNN-TV | 21,146,732 | 20,904,564 | 137,928
73964 | WROC-TV | 1,210,157 | 1,192,546 | 7,868
159007 | WRPT | 108,521 | 108,009 | 713
20590 | WRPX-TV | 2,980,937 | 2,976,800 | 19,641
62009 | WRSP-TV | 1,062,091 | 1,060,251 | 6,996
40877 | WRTV | 3,148,448 | 3,125,475 | 20,622
15320 | WRUA | 2,624,204 | 2,339,222 | 15,434
71580 | WRXY-TV | 2,114,529 | 2,114,529 | 13,952
48662 | WSAV-TV | 1,094,897 | 1,094,884 | 7,224
6867 | WSAW-TV | 657,843 | 651,328 | 4,297
36912 | WSAZ-TV | 1,173,019 | 1,103,266 | 7,279
56092 | WSBE-TV | 8,044,866 | 7,776,757 | 51,311
73982 | WSBK-TV | 7,834,658 | 7,766,985 | 51,247
72053 | WSBS-TV | 47,386 | 47,386 | 313
73983 | WSBT-TV | 1,790,673 | 1,780,628 | 11,749
23960 | WSB-TV | 6,772,503 | 6,695,450 | 44,177
69446 | WSCG | 961,649 | 961,649 | 6,345
64971 | WSCV | 6,029,382 | 6,029,382 | 39,782
70536 | WSEC | 517,830 | 517,364 | 3,414
49711 | WSEE-TV | 585,062 | 562,271 | 3,710
21258 | WSES | 1,905,067 | 1,866,312 | 12,314
73988 | WSET-TV | 1,587,650 | 1,345,990 | 8,881
13993 | WSFA | 1,206,335 | 1,168,069 | 7,707
11118 | WSFJ-TV | 1,911,871 | 1,902,328 | 12,552
10203 | WSFL-TV | 5,890,244 | 5,890,244 | 38,864
72871 | WSFX-TV | 1,088,964 | 1,088,964 | 7,185
73999 | WSIL-TV | 650,734 | 647,093 | 4,270
4297 | WSIU-TV | 994,418 | 936,746 | 6,181
74007 | WSJV | 1,686,953 | 1,680,493 | 11,088
78908 | WSKA | 530,610 | 416,302 | 2,747
74034 | WSKG-TV | 866,172 | 616,130 | 4,065
76324 | WSKY-TV | 2,003,325 | 2,002,894 | 13,215
776220 | WSLN | 3,269,796 | 3,020,118 | 19,927
57840 | WSLS-TV | 1,436,974 | 1,276,869 | 8,425
21737 | WSMH | 2,350,370 | 2,335,477 | 15,409
41232 | WSMV-TV | 2,883,773 | 2,837,323 | 18,721
70119 | WSNS-TV | 10,069,653 | 10,068,069 | 66,429
74070 | WSOC-TV | 4,156,321 | 4,085,565 | 26,957
66391 | WSPA-TV | 3,717,232 | 3,549,667 | 23,421
64352 | WSPX-TV | 1,285,581 | 1,167,040 | 7,700
17611 | WSRE | 1,490,766 | 1,489,946 | 9,831
63867 | WSST-TV | 312,974 | 312,260 | 2,060
60341 | WSTE-DT | 3,284,058 | 3,220,155 | 21,247
21252 | WSTM-TV | 1,437,543 | 1,367,590 | 9,023
11204 | WSTR-TV | 3,424,743 | 3,411,973 | 22,512
19776 | WSUR-DT | 3,276,102 | 3,182,722 | 5,385
2370 | WSVI | 41,004 | 41,004 | 271
63840 | WSVN | 6,165,386 | 6,165,386 | 40,679
73374 | WSWB | 1,516,774 | 1,088,360 | 7,181
28155 | WSWG | 389,103 | 389,030 | 2,567
71680 | WSWP-TV | 849,038 | 633,378 | 4,179
74094 | WSYM-TV | 1,607,593 | 1,607,277 | 10,605
73113 | WSYR-TV | 1,314,500 | 1,226,575 | 8,093
40758 | WSYT | 1,962,530 | 1,731,744 | 11,426
56549 | WSYX | 2,871,413 | 2,825,664 | 18,644
65681 | WTAE-TV | 2,985,875 | 2,865,692 | 18,908
23341 | WTAJ-TV | 1,158,024 | 925,907 | 6,109
4685 | WTAP-TV | 489,083 | 469,004 | 3,094
416 | WTAT-TV | 1,284,148 | 1,284,148 | 8,473
67993 | WTBY-TV | 16,997,114 | 16,897,718 | 111,491
29715 | WTCE-TV | 2,964,583 | 2,964,583 | 19,560
65667 | WTCI | 1,276,295 | 1,159,269 | 7,649
67786 | WTCT | 590,643 | 586,819 | 3,872
28954 | WTCV | 2,861,004 | 2,653,740 | 17,509
74422 | WTEN | 1,913,356 | 1,621,808 | 10,701
9881 | WTGL | 4,516,827 | 4,516,827 | 29,802
27245 | WTGS | 1,064,292 | 1,064,066 | 7,021
70655 | WTHI-TV | 966,268 | 914,388 | 6,033
70162 | WTHR | 3,175,603 | 3,122,761 | 20,604
147 | WTIC-TV | 5,397,501 | 4,767,795 | 31,458
26681 | WTIN-TV | 3,277,279 | 3,162,469 | 905
66536 | WTIU | 1,690,704 | 1,689,678 | 11,148
1002 | WTJP-TV | 2,037,103 | 2,002,301 | 13,211
4593 | WTJR | 316,974 | 316,852 | 2,091
70287 | WTJX-TV | 112,125 | 104,561 | 690
47401 | WTKR | 2,242,929 | 2,242,846 | 14,798
82735 | WTLF | 883,350 | 883,326 | 5,828
23486 | WTLH | 1,082,589 | 1,082,542 | 7,143
67781 | WTLJ | 1,738,667 | 1,736,853 | 11,460
65046 | WTLV | 2,041,165 | 2,022,822 | 13,347
74098 | WTMJ-TV | 3,139,304 | 3,123,411 | 20,608
74109 | WTNH | 7,999,974 | 7,453,267 | 49,177
19200 | WTNZ | 1,790,817 | 1,598,570 | 10,547
590 | WTOC-TV | 1,061,993 | 1,061,993 | 7,007
74112 | WTOG | 6,239,245 | 6,236,871 | 41,151
4686 | WTOK-TV | 391,847 | 386,112 | 2,548
13992 | WTOL | 4,534,147 | 4,527,590 | 29,873
21254 | WTOM-TV | 120,159 | 116,524 | 769
74122 | WTOV-TV | 3,866,114 | 3,605,421 | 23,789
82574 | WTPC-TV | 2,138,494 | 2,132,635 | 14,071
86496 | WTPX-TV | 258,246 | 258,154 | 1,703
6869 | WTRF-TV | 2,938,363 | 2,562,114 | 16,905
67798 | WTSF | 879,853 | 811,994 | 5,358
11290 | WTSP | 6,538,906 | 6,515,239 | 42,988
4108 | WTTA | 6,656,303 | 6,639,930 | 43,810
74137 | WTTE | 2,926,672 | 2,885,004 | 19,035
22207 | WTTG | 8,945,253 | 8,890,093 | 58,657
56526 | WTTK | 3,074,975 | 3,055,143 | 20,158
74138 | WTTO | 1,966,252 | 1,931,949 | 12,747
56523 | WTTV | 2,752,635 | 2,749,080 | 18,138
10802 | WTTW | 9,929,487 | 9,929,071 | 65,512
74148 | WTVA | 807,017 | 794,561 | 5,243
22590 | WTVC | 1,658,814 | 1,434,931 | 9,468
8617 | WTVD | 4,201,042 | 4,188,018 | 27,633
55305 | WTVE | 5,368,807 | 5,365,301 | 35,400
36504 | WTVF | 2,816,921 | 2,798,755 | 18,466
74150 | WTVG | 4,440,934 | 4,429,742 | 29,227
74151 | WTVH | 1,375,016 | 1,313,054 | 8,664
10645 | WTVI | 3,286,073 | 3,261,428 | 21,519
63154 | WTVJ | 6,009,434 | 6,009,434 | 39,650
52280 | WTVK | 7,403,075 | 7,395,979 | 48,799
595 | WTVM | 1,577,223 | 1,471,502 | 9,709
72945 | WTVO | 1,413,778 | 1,400,377 | 9,240
28311 | WTVP | 660,258 | 660,214 | 4,356
51597 | WTVQ-DT | 1,060,102 | 1,054,409 | 6,957
57832 | WTVR-TV | 1,998,729 | 1,990,377 | 13,133
16817 | WTVS | 5,607,125 | 5,606,929 | 36,995
68569 | WTVT | 6,511,462 | 6,491,829 | 42,833
3661 | WTVW | 839,062 | 833,035 | 5,496
35575 | WTVX | 3,558,645 | 3,556,727 | 23,467
4152 | WTVY | 1,032,612 | 1,029,898 | 6,795
40759 | WTVZ-TV | 2,246,928 | 2,246,845 | 14,825
66908 | WTWC-TV | 1,078,213 | 1,078,166 | 7,114
20426 | WTWO | 716,304 | 710,680 | 4,689
81692 | WTWV | 1,529,924 | 1,528,555 | 10,085
51568 | WTXF-TV | 11,330,716 | 11,023,958 | 72,736
41065 | WTXL-TV | 1,071,056 | 1,070,908 | 7,066
8532 | WUAB | 3,819,462 | 3,739,439 | 24,673
12855 | WUCF-TV | 4,516,827 | 4,516,827 | 29,802
36395 | WUCW | 4,213,867 | 4,205,494 | 27,748
69440 | WUFT | 1,524,792 | 1,524,792 | 10,061
413 | WUHF | 1,161,377 | 1,157,795 | 7,639
8156 | WUJA | 2,449,731 | 2,192,227 | 14,464
69080 | WUNC-TV | 4,701,102 | 4,682,210 | 30,893
69292 | WUND-TV | 1,526,704 | 1,526,704 | 10,073
69114 | WUNE-TV | 3,449,284 | 2,886,515 | 19,045
69300 | WUNF-TV | 2,825,704 | 2,517,064 | 16,608
69124 | WUNG-TV | 4,065,099 | 4,049,218 | 26,717
60551 | WUNI | 7,755,236 | 7,627,170 | 50,324
69332 | WUNJ-TV | 1,224,449 | 1,224,449 | 8,079
69149 | WUNK-TV | 2,105,575 | 2,099,533 | 13,853
69360 | WUNL-TV | 3,243,843 | 3,015,382 | 19,895
69444 | WUNM-TV | 1,370,547 | 1,370,547 | 9,043
69397 | WUNP-TV | 1,488,708 | 1,474,989 | 9,732
69416 | WUNU | 1,212,006 | 1,210,875 | 7,989
83822 | WUNW | 2,012,283 | 1,476,883 | 9,744
6900 | WUPA | 6,845,271 | 6,764,030 | 44,629
13938 | WUPL | 1,833,116 | 1,833,116 | 12,095
10897 | WUPV | 2,142,407 | 2,122,016 | 14,001
19190 | WUPW | 2,136,541 | 2,135,020 | 14,087
23128 | WUPX-TV | 1,182,585 | 1,166,267 | 7,695
65593 | WUSA | 9,654,785 | 9,309,845 | 61,426
4301 | WUSI-TV | 320,658 | 320,658 | 2,116
60552 | WUTB | 9,293,641 | 9,148,848 | 60,364
30577 | WUTF-TV | 8,479,857 | 8,266,141 | 54,540
57837 | WUTR | 511,394 | 470,311 | 3,103
415 | WUTV | 1,611,128 | 1,579,265 | 10,420
16517 | WUVC-DT | 4,224,285 | 4,208,453 | 27,767
48813 | WUVG-DT | 6,908,879 | 6,834,542 | 45,094
3072 | WUVN | 1,236,426 | 1,156,397 | 7,630
60560 | WUVP-DT | 10,944,731 | 10,756,717 | 70,973
9971 | WUXP-TV | 2,749,827 | 2,737,094 | 18,059
417 | WVAH-TV | 1,295,710 | 1,222,075 | 8,063
23947 | WVAN-TV | 1,118,534 | 1,117,845 | 7,376
65387 | WVBT | 1,964,109 | 1,964,109 | 12,959
72342 | WVCY-TV | 3,149,773 | 3,140,719 | 20,722
60559 | WVEA-TV | 5,324,315 | 5,322,343 | 35,117
74167 | WVEC | 2,189,627 | 2,184,435 | 14,413
5802 | WVEN-TV | 4,749,513 | 4,749,513 | 31,337
61573 | WVEO | 962,531 | 803,553 | 2,946
69946 | WVER | 903,858 | 770,412 | 5,083
10976 | WVFX | 688,514 | 596,278 | 3,934
47929 | WVIA-TV | 3,472,501 | 2,879,994 | 19,002
3667 | WVII-TV | 368,499 | 348,813 | 2,301
70309 | WVIR-TV | 2,140,100 | 2,107,081 | 13,903
74170 | WVIT | 5,920,252 | 5,425,459 | 35,797
18753 | WVIZ | 3,694,957 | 3,687,740 | 24,332
70021 | WVLA-TV | 1,969,063 | 1,969,000 | 12,991
81750 | WVLR | 1,483,484 | 1,376,091 | 9,079
35908 | WVLT-TV | 1,983,974 | 1,714,780 | 11,314
74169 | WVNS-TV | 889,675 | 560,472 | 3,698
11259 | WVNY | 755,448 | 673,828 | 4,446
29000 | WVOZ-TV | 981,832 | 762,182 | 2,946
71657 | WVPB-TV | 939,383 | 910,465 | 6,007
60111 | WVPT | 995,523 | 887,449 | 5,855
70491 | WVPX-TV | 4,131,639 | 4,098,980 | 27,045
66378 | WVPY | 995,523 | 887,449 | 5,855
67190 | WVSN | 2,593,148 | 2,271,512 | 14,987
69940 | WVTB | 468,294 | 246,240 | 1,625
74173 | WVTM-TV | 2,101,947 | 2,026,895 | 13,373
74174 | WVTV | 3,130,664 | 3,122,630 | 20,603
77496 | WVUA | 2,305,621 | 2,250,337 | 14,848
4149 | WVUE-DT | 1,759,779 | 1,759,779 | 11,611
4329 | WVUT | 267,636 | 267,555 | 1,765
74176 | WVVA | 997,556 | 690,651 | 4,557
3113 | WVXF | 70,673 | 66,853 | 441
12033 | WWAY | 1,328,366 | 1,328,366 | 8,765
30833 | WWBT | 2,109,206 | 2,074,930 | 13,690
20295 | WWCP-TV | 2,798,717 | 2,540,105 | 16,760
24812 | WWCW | 1,390,908 | 1,210,482 | 7,987
23671 | WWDP | 6,230,964 | 5,959,061 | 39,318
21158 | WWHO | 2,994,400 | 2,952,760 | 19,482
14682 | WWJE-DT | 7,755,236 | 7,627,170 | 50,324
65919 | WWJS | 3,798,882 | 3,731,768 | 24,622
72123 | WWJ-TV | 5,653,566 | 5,653,219 | 37,300
166512 | WWJX | 524,625 | 524,579 | 3,461
6868 | WWLP | 3,866,407 | 3,097,621 | 20,438
74192 | WWL-TV | 1,908,335 | 1,908,335 | 12,591
3133 | WWMB | 1,596,320 | 1,591,501 | 10,501
74195 | WWMT | 2,667,986 | 2,657,016 | 17,531
68851 | WWNY-TV | 368,613 | 341,101 | 2,251
74197 | WWOR-TV | 21,146,732 | 20,904,564 | 137,928
65943 | WWPB | 3,531,585 | 3,086,500 | 20,365
23264 | WWPX-TV | 2,612,045 | 2,544,163 | 16,786
68547 | WWRS-TV | 2,376,549 | 2,354,442 | 15,535
61251 | WWSB | 3,830,838 | 3,830,838 | 25,276
23142 | WWSI | 11,821,594 | 11,646,436 | 76,843
16747 | WWTI | 195,127 | 188,538 | 1,244
998 | WWTO-TV | 6,837,732 | 6,837,732 | 45,115
26994 | WWTV | 1,047,227 | 1,032,448 | 6,812
84214 | WWTW | 1,529,924 | 1,528,555 | 10,085
26993 | WWUP-TV | 114,688 | 108,690 | 717
23338 | WXBU | 4,219,869 | 3,695,568 | 24,383
61504 | WXCW | 2,000,927 | 2,000,927 | 13,202
61084 | WXEL-TV | 5,976,331 | 5,976,331 | 39,432
60539 | WXFT-DT | 10,333,090 | 10,326,952 | 68,137
23929 | WXGA-TV | 618,176 | 616,843 | 4,070
51163 | WXIA-TV | 7,067,151 | 6,920,534 | 45,662
53921 | WXII-TV | 3,895,811 | 3,546,156 | 23,398
146 | WXIN | 3,066,589 | 3,043,020 | 20,078
39738 | WXIX-TV | 3,033,449 | 3,023,049 | 19,946
414 | WXLV-TV | 4,920,177 | 4,882,710 | 32,216
68433 | WXMI | 2,110,083 | 2,109,607 | 13,919
64549 | WXOW | 433,343 | 422,605 | 2,788
6601 | WXPX-TV | 5,414,068 | 5,411,832 | 35,707
74215 | WXTV-DT | 21,842,105 | 21,428,169 | 141,383
12472 | WXTX | 745,811 | 742,438 | 4,899
11970 | WXXA-TV | 1,691,753 | 1,553,272 | 10,248
57274 | WXXI-TV | 1,192,140 | 1,176,310 | 7,761
53517 | WXXV-TV | 1,235,520 | 1,233,511 | 8,139
10267 | WXYZ-TV | 5,716,967 | 5,716,632 | 37,718
77515 | WYCI | 32,321 | 21,447 | 142
70149 | WYCW | 3,717,232 | 3,549,667 | 23,421
62219 | WYDC | 542,984 | 435,924 | 2,876
18783 | WYDN | 2,760,323 | 2,697,351 | 17,797
35582 | WYDO | 1,340,990 | 1,340,990 | 8,848
25090 | WYES-TV | 2,002,806 | 2,002,459 | 13,212
53905 | WYFF | 2,836,376 | 2,609,544 | 17,218
49803 | WYIN | 7,062,511 | 7,062,511 | 46,598
24915 | WYMT-TV | 1,144,051 | 819,069 | 5,404
17010 | WYOU | 2,912,468 | 2,246,394 | 14,822
77789 | WYOW | 94,927 | 94,486 | 623
13933 | WYPX-TV | 1,547,670 | 1,434,147 | 9,463
4693 | WYTV | 4,870,043 | 4,522,748 | 29,841
5875 | WYZZ-TV | 1,008,995 | 1,002,743 | 6,616
15507 | WZBJ | 1,603,364 | 1,421,509 | 9,379
28119 | WZDX | 1,714,034 | 1,633,019 | 10,775
70493 | WZME | 21,320,488 | 20,875,035 | 137,733
81448 | WZMQ | 73,784 | 73,510 | 485
71871 | WZPX-TV | 2,165,413 | 2,165,333 | 14,287
136750 | WZRB | 1,007,172 | 1,006,731 | 6,642
418 | WZTV | 2,743,270 | 2,733,978 | 18,039
83270 | WZVI | 64,187 | 63,279 | 418
19183 | WZVN-TV | 2,331,155 | 2,331,155 | 15,381
49713 | WZZM | 1,678,220 | 1,652,095 | 10,901
¹ Call signs WIPM and WIPR are stations in Puerto Rico that are linked together with a total fee of $20,455.
² Call signs WNJX and WAPA are stations in Puerto Rico that are linked together with a total fee of $20,455.
³ Call signs WKAQ and WORA are stations in Puerto Rico that are linked together with a total fee of $20,455.
⁴ Call signs WOLE and WLII are stations in Puerto Rico that are linked together with a total fee of $20,455.
⁵ Call signs WVEO and WTCV are stations in Puerto Rico that are linked together with a total fee of $20,455.
⁶ Call signs WJPX and WJWN are stations in Puerto Rico that are linked together with a total fee of $20,455.
⁷ Call signs WAPA and WTIN are stations in Puerto Rico that are linked together with a total fee of $20,455.
⁸ Call signs WSUR and WLII are stations in Puerto Rico that are linked together with a total fee of $20,455.
⁹ Call signs WVOZ and WTCV are stations in Puerto Rico that are linked together with a total fee of $20,455.
¹⁰ Call signs WJPX and WKPV are stations in Puerto Rico that are linked together with a total fee of $20,455.
¹¹ Call signs WMTJ and WQTO are stations in Puerto Rico that are linked together with a total fee of $20,455.
¹² Call signs WIRS and WJPX are stations in Puerto Rico that are linked together with a total fee of $20,455.
¹³ Call signs WRFB and WORA are stations in Puerto Rico that are linked together with a total fee of $20,455.

Table 9—FY 2023 Schedule of Regulatory Fees

Regulatory fees for the categories shaded in gray are collected by the Commission in advance to cover the term of the license and are submitted at the time the application is filed.

Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) (Includes Non-Geographic telephone numbers) | .16.
CMRS Messaging Services (per unit) (47 CFR parts 20, 22, 24 and 90) | .08.
Broadband Radio Service (formerly MMDS/MDS) (per license) (47 CFR part 27) Local Multipoint Distribution Service (per call sign) (47 CFR, part 101) | 700. 700.
AM Radio Construction Permits | 620.
FM Radio Construction Permits | 1,085.
AM and FM Broadcast Radio Station Fees | See Table Below.
Digital TV (47 CFR part 73) VHF and UHF Commercial Fee Factor | $.007799. See Appendix G of FY 2023 R&O for fee amounts due, also available at https://www.fcc.gov/licensing-databases/fees/regulatory-fees.
Digital TV Construction Permits | 5,100.
Low Power TV, Class A TV, TV/FM Translators & FM Boosters (47 CFR part 74) | 260.
CARS (47 CFR part 78) | 1,720.
Cable Television Systems (per subscriber) (47 CFR part 76), Including IPTV and Direct Broadcast Satellite (DBS) | 1.23.
Interstate Telecommunication Service Providers (per revenue dollar) | .00540.
Toll Free (per toll free subscriber) (47 CFR section 52.101 (f) of the rules) | .13.
Earth Stations (47 CFR part 25) | 575.
Space Stations (per operational station in geostationary orbit) (47 CFR part 25) also includes DBS Service (per operational station) (47 CFR part 100) | 117,580.
Space Stations (per operational system in non-geostationary orbit) (47 CFR part 25) (Other) | 347,755.
Space Stations (per operational system in non-geostationary orbit) (47 CFR part 25) (Less Complex) | 130,405.
Space Stations (per license/call sign in non-geostationary orbit) (47 CFR part 25) (Small Satellite) | 12,215.
International Bearer Circuits—Terrestrial/Satellites (per Gbps circuit) | $26.
Submarine Cable Landing Licenses Fee (per cable system) | See Table Below.

FY 2023 Radio Station Regulatory Fees
Population served | AM Class A | AM Class B | AM Class C | AM Class D | FM Classes A, B1 & C3 | FM Classes B, C, C0, C1 & C2
≤10,000 | $595 | $430 | $370 | $410 | $650 | $745
10,001-25,000 | 990 | 715 | 620 | 680 | 1,085 | 1,240
25,001-75,000 | 1,485 | 1,075 | 930 | 1,020 | 1,630 | 1,860
75,001-150,000 | 2,230 | 1,610 | 1,395 | 1,530 | 2,440 | 2,790
150,001-500,000 | 3,345 | 2,415 | 2,095 | 2,300 | 3,665 | 4,190
500,001-1,200,000 | 5,010 | 3,620 | 3,135 | 3,440 | 5,490 | 6,275
1,200,001-3,000,000 | 7,525 | 5,435 | 4,710 | 5,170 | 8,245 | 9,425
3,000,001-6,000,000 | 11,275 | 8,145 | 7,060 | 7,745 | 12,360 | 14,125
>6,000,000 | 16,920 | 12,220 | 10,595 | 11,620 | 18,545 | 21,190

FY 2023 International Bearer Circuits—Submarine Cable Systems
Submarine cable systems (capacity as of December 31, 2022) | Fee ratio (units) | FY 2023 regulatory fees
Less than 50 Gbps | .0625 | $7,680
50 Gbps or greater, but less than 250 Gbps | .125 | 15,355
250 Gbps or greater, but less than 1,500 Gbps | .25 | 30,705
1,500 Gbps or greater, but less than 3,500 Gbps | .5 | 61,410
3,500 Gbps or greater, but less than 6,500 Gbps | 1.0 | 122,815
6,500 Gbps or greater | 2.0 | 245,630

VI. Initial Regulatory Flexibility Analysis

As required by the RFA the Commission has prepared this IRFA of the possible significant economic impact on a substantial number of small entities by the policies and rules proposed in the NPRM. Written comments are requested on this IRFA. Comments must be identified as responses to the IRFA and must be filed by the deadlines for comments on the NPRM. The Commission will send a copy of the NPRM, including this IRFA, to the Chief Counsel for Advocacy of the SBA.

A. Need for, and Objectives of, the Proposed Rules

68. For FY 2024, the Commission is required to collect $390,192,000 in regulatory fees, an amount equal to our annual salaries and expenses appropriation, pursuant to section 9 of the Communications Act and the Commission's FY 2024 Further Consolidation Appropriations Act. The Commission's methodology for assessing regulatory fees must “reflect the full-time equivalent number of employees within the bureaus and offices of the Commission, adjusted to take into account factors that are reasonably related to the benefits provided to the payor of the fee by the Commission's activities.” The total amount the Commission must collect in an offsetting collection generally changes each fiscal year, and payors' regulatory fees will also typically change each fiscal year as a mathematical consequence of the changes in the total amount to be collected, the number of FTEs, and projected unit estimates for each regulatory fee category. In the annual NPRM, we seek comment on the Commission's proposed methodology and regulatory fees for FY 2024, as set forth in Tables 3, 4, and 7 of the NPRM. In 2023, the Commission eliminated the International Bureau, established a new Space Bureau and a new Office of International Affairs, and reallocated the authorities and functions of the International Bureau to the Space Bureau and the Office of International Affairs. In light of these actions, for FY 2024, we reviewed the FY 2023 reallocations to determine if any changes are warranted, and propose to slightly revise the FY 2023 reallocations to the core bureaus, including the new Space Bureau and the new Office of International Affairs.

69. We also seek comment on several additional regulatory fee issues, including: (i) the calculation of television broadcaster regulatory fees; (ii) how our proposals may promote or inhibit advances in diversity, equity, inclusion, and accessibility; (iii) the end of temporary relief measures we implemented in response to the COVID-19 pandemic; (iv) our proposal to discontinue the Commission's presumption that broadcast stations that are dark or were recently dark or bankrupt are experiencing financial hardship sufficient to justify waiver of their regulatory fees; and (v) ways in which the Commission might assist regulatory fee payors in meeting their annual regulatory fee obligations.

B. Legal Basis

70. The proposed action is authorized pursuant to sections 4(i), 4(j), 9, 9A, and 303(r) of the Communications Act.

C. Description and Estimate of the Number of Small Entities to Which the Proposed Rules Will Apply

71. The RFA directs agencies to provide a description of, and where feasible, an estimate of the number of small entities that may be affected by the proposed rules, if adopted. The RFA generally defines the term “small entity” as having the same meaning as the terms “small business,” “small organization,” and “small governmental jurisdiction.” In addition, the term “small business” has the same meaning as the term “small business concern” under the SBA. A “small business concern” is one which: (1) is independently owned and operated; (2) is not dominant in its field of operation; and (3) satisfies any additional criteria established by the SBA.

72. Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the SBA's Office of Advocacy, in general a small business is an independent business having fewer than 500 employees. These types of small businesses represent 99.9% of all businesses in the United States, which translates to 33.2 million businesses.

73. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

74. Finally, the small entity described as a “small governmental jurisdiction” is defined generally as “governments of cities, counties, towns, townships, villages, school districts, or special districts, with a population of less than fifty thousand.” U.S. Census Bureau data from the 2022 Census of Governments indicate there were 90,837 local governmental jurisdictions consisting of general purpose governments and special purpose governments in the United States. Of this number, there were 36,845 general purpose governments (county, municipal, and town or township) with populations of less than 50,000 and 11,879 special purpose governments (independent school districts) with enrollment populations of less than 50,000. Accordingly, based on the 2022 U.S. Census of Governments data.

75. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

76. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

77. Local Exchange Carriers (LECs). Neither the Commission nor the SBA has developed a size standard for small businesses specifically applicable to local exchange services. Providers of these services include both Incumbent LECs and CLECs. Wired Telecommunications Carriers is the closest industry with an SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were fixed LECs. Of these providers, the Commission estimates that 4,146 providers have 1,500 or fewer employees. Consequently, using the SBA's small business size standard, most of these providers can be considered small entities.

78. Incumbent Local Exchange Carriers (Incumbent LECs). Neither the Commission nor the SBA have developed a small business size standard specifically for incumbent LECs. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 1,212 providers that reported they were Incumbent LECs. Of these providers, the Commission estimates that 916 providers have 1,500 or fewer employees. Consequently, using the SBA's small business size standard, the Commission estimates that the majority of Incumbent LECs can be considered small entities.

79. Competitive Local Exchange Carriers (CLECs). Neither the Commission nor the SBA has developed a size standard for small businesses specifically applicable to local exchange services. Providers of these services include several types of CLECs. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 3,378 providers that reported they were CLECS. Of these providers, the Commission estimates that 3,230 providers have 1,500 or fewer employees. Consequently, using the SBA's small business size standard, most of these providers can be considered small entities.

80. Interexchange Carriers (IXCs). Neither the Commission nor the SBA have developed a small business size standard specifically for IXCs. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

81. Prepaid Calling Card Providers. Neither the Commission nor the SBA has developed a small business size standard specifically for prepaid calling card providers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 62 providers that reported they were engaged in the provision of prepaid card services. Of these providers, the Commission estimates that 61 providers have 1,500 or fewer employees. Consequently, using the SBA's small business size standard, most of these providers can be considered small entities.

82. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 207 providers that reported they were engaged in the provision of local resale services. Of these providers, the Commission estimates that 202 providers have 1,500 or fewer employees. Consequently, using the SBA's small business size standard, most of these providers can be considered small entities.

83. Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 457 providers that reported they were engaged in the provision of toll services. Of these providers, the Commission estimates that 438 providers have 1,500 or fewer employees. Consequently, using the SBA's small business size standard, most of these providers can be considered small entities.

84. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 90 providers that reported they were engaged in the provision of other toll services. Of these providers, the Commission estimates that 87 providers have 1,500 or fewer employees. Consequently, using the SBA's small business size standard, most of these providers can be considered small entities.

85. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

86. Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $41.5 million or less in annual receipts as small. 2017 U.S. Census Bureau data indicate that 744 firms in this industry operated for the entire year. Of that number, 657 firms had revenue of less than $25,000,000. Based on this data we estimate that the majority of television broadcasters are small entities under the SBA small business size standard.

87. As of March 31, 2024, there were 1,382 licensed commercial television stations. Of this total, 1,263 stations (or 91.4%) had revenues of $41.5 million or less in 2022, according to Commission staff review of the BIA Kelsey Inc. Media Access Pro Television Database (BIA) on April 4, 2024, and therefore these licensees qualify as small entities under the SBA definition. In addition, the Commission estimates as of March 31, 2024, there were 383 licensed noncommercial educational (NCE) television stations, 379 Class A TV stations, 1,829 low power television (LPTV) stations and 3,118 TV translator stations. The Commission, however, does not compile and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

88. Radio Stations. This industry is comprised of “establishments primarily engaged in broadcasting aural programs by radio to the public.” Programming may originate in their own studio, from an affiliated network, or from external sources. The SBA small business size standard for this industry classifies firms having $41.5 million or less in annual receipts as small. U.S. Census Bureau data for 2017 show that 2,963 firms operated in this industry during that year. Of this number, 1,879 firms operated with revenue of less than $25 million per year. Based on this data and the SBA's small business size standard, we estimate a majority of such entities are small entities.

89. The Commission estimates that as of March 31, 2024, there were 4,427 licensed commercial AM radio stations and 6,663 licensed commercial FM radio stations, for a combined total of 11,090 commercial radio stations. Of this total, 11,088 stations (or 99.98%) had revenues of $41.5 million or less in 2022, according to Commission staff review of the BIA Kelsey Inc. Media Access Pro Database (BIA) on April 4, 2024, and therefore these licensees qualify as small entities under the SBA definition. In addition, the Commission estimates that as of March 31, 2024, there were 4,320 licensed NCE FM radio stations, 1,960 low power FM (LPFM) stations, and 8,913 FM translators and boosters. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

90. We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

91. Cable Companies and Systems (Rate Regulation). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

92. Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

93. Direct Broadcast Satellite (DBS) Service. DBS service is a nationally distributed subscription service that delivers video and audio programming via satellite to a small parabolic “dish” antenna at the subscriber's location. DBS is included in the Wired Telecommunications Carriers industry which comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VoIP services, wired (cable) audio and video programming distribution; and wired broadband internet services. By exception, establishments providing satellite television distribution services using facilities and infrastructure that they operate are included in this industry.

94. The SBA small business size standard for Wired Telecommunications Carriers classifies firms having 1,500 or fewer employees as small. U.S. Census Bureau data for 2017 show that 3,054 firms operated in this industry for the entire year. Of this number, 2,964 firms operated with fewer than 250 employees. Based on this data, the majority of firms in this industry can be considered small under the SBA small business size standard. According to Commission data however, only two entities provide DBS service—DIRECTV (owned by AT&T) and DISH Network, which require a great deal of capital for operation. DIRECTV and DISH Network both exceed the SBA size standard for classification as a small business. Therefore, we must conclude based on internally developed Commission data, in general DBS service is provided only by large firms.

95. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $38.5 million or less in annual receipts as small. U.S. Census Bureau data for 2017 show that 275 firms in this industry operated for the entire year. Of this number, 242 firms had revenue of less than $25 million. Additionally, based on Commission data in the 2022 Universal Service Monitoring Report, as of December 31, 2021, there were 65 providers that reported they were engaged in the provision of satellite telecommunications services. Of these providers, the Commission estimates that approximately 42 providers have 1,500 or fewer employees. Consequently, using the SBA's small business size standard, a little more than half of these providers can be considered small entities.

96. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g., dial-up ISPs) or Voice over internet Protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

97. RespOrgs. Responsible Organizations, or RespOrgs (also referred to as Toll-Free Number (TFN) providers), are entities chosen by toll free subscribers to manage and administer the appropriate records in the toll-free Service Management System for the toll-free subscriber. Based on information on the website of SOMOS, the entity that maintains a registry of Toll-Free Number providers (SMS/800 TFN Registry) for the more than 42 million Toll-Free numbers in North America, and the TSS Registry, a centralized registry for the use of Toll-Free Numbers in text messaging and multimedia services, there were approximately 446 registered RespOrgs/Toll-Free Number providers in July 2021. RespOrgs are often wireline carriers, however they can be include non-carrier entities. Accordingly, the description below for RespOrgs include both Carrier RespOrgs and Non-Carrier RespOrgs.

98. Carrier RespOrgs. Neither the Commission nor the SBA have developed a small business size standard for Carrier RespOrgs. Wired Telecommunications Carriers, and Wireless Telecommunications Carriers (except Satellite) are the closest industries with a SBA small business size applicable to Carrier RespOrgs.

99. Wired Telecommunications Carriers are establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. The SBA small business size standard for this industry classifies a business as small if it has 1,500 or fewer employees. U.S. Census Bureau data for 2017 show that there were 3,054 firms that operated for the entire year. Of this number, 2,964 firms operated with fewer than 250 employees. Based on that data, we conclude that the majority of Carrier RespOrgs that operated with wireline-based technology are small.

100. Wireless Telecommunications Carriers (except Satellite) engage in operating and maintaining switching and transmission facilities to provide communications via the airwaves. Establishments in this industry have spectrum licenses and provide services using that spectrum, such as cellular services, paging services, wireless internet access, and wireless video services. The SBA small business size standard for this industry classifies a business as small if it has 1,500 or fewer employees. For this industry, U.S. Census Bureau data for 2017 show that there were 2,893 firms that operated for the entire year. Of this number, 2,837 firms employed fewer than 250 employees. Based on this data, we conclude that the majority of Carrier RespOrgs that operated with wireless-based technology are small.

101. Non-Carrier RespOrgs. Neither the Commission, nor the SBA have developed a small business size standard Non-Carrier RespOrgs. Other Services Related to Advertising and Other Management Consulting Services” are the closest industries with a SBA small business size applicable to Non-Carrier RespOrgs.

102. The Other Services Related to Advertising industry establishments primarily engaged in providing advertising services (except advertising agency services, public relations agency services, media buying agency services, media representative services, display advertising services, direct mail advertising services, advertising material distribution services, and marketing consulting services). The SBA small business size standard for this industry classifies a business as small that has annual receipts of $16.5 million or less. U.S. Census Bureau data for 2017 show that 5,650 firms operated in this industry for the entire year. Of that number, 3,693 firms operated with revenue of less than $10 million. Based on this data, we conclude that a majority of non-carrier RespOrgs who provide TFN-related management consulting services are small.

103. The Other Management Consulting Services industry contains establishments primarily engaged in providing management consulting services (except administrative and general management consulting; human resources consulting; marketing consulting; or process, physical distribution, and logistics consulting). Establishments providing telecommunications or utilities management consulting services are included in this industry. The SBA small business size standard for this industry classifies a business as small if it has annual receipts of $16.5 million or less. U.S. Census Bureau data for 2017 show that 4,696 firms operated in this industry for the entire year. Of that number, 3,700 firms had revenue of less than $10 million. Based on this data, we conclude that a majority of non-carrier RespOrgs who provide TFN-related management consulting services are small.

D. Description of Projected Reporting, Recordkeeping and Other Compliance Requirements for Small Entities

104. The NPRM does not propose any changes to the Commission's current information collection, reporting, recordkeeping, or compliance requirements for collecting regulatory fees from small entities. Small and other regulated entities are required to pay regulatory fees on an annual basis. The cost of compliance with the annual regulatory assessment for small entities is the amount assessed for their regulatory fee category and should not require small entities to hire professionals to comply, as they are accustomed to paying the annual fees and most should be familiar with both the Commission's current collection process as well as the process prior to the COVID-19 pandemic.

105. The NPRM proposes changes to the current fee waiver process which may impact small entities. The NPRM proposes to return to normal, pre-COVID-19 pandemic operations and discontinue temporary waiver relief from regulatory fees available in the FY 2023 Report and Order that was not codified at that time. This includes reinstating the Commission's policy of requiring down payments for installment payment of regulatory fee debt. The proposed changes would also require small and other entities seeking relief through a waiver, reduction, and/or deferral of fees to submit all financial documents necessary to support their hardship request. We propose to make this change effective for fiscal year 2025 to allow regulatory fee payors more time to comply with this change in policy. Small entities that continue to have financial difficulties related to the economic impact of the pandemic may be able to take advantage of the streamlined waiver processes codified in the FY 2023 Report and Order, including permitting parties to submit a single waiver request for various forms of relief electronically, instead of separate filings.

E. Steps Taken To Minimize Significant Economic Impact on Small Entities, and Significant Alternatives Considered

106. The RFA requires an agency to describe any significant alternatives that could minimize impacts to small entities it has considered in reaching its proposed approach, which may include the following four alternatives, among others: “(1) the establishment of differing compliance and reporting requirements or timetables that take into account the resources available to small entities; (2) the clarification, consolidation, or simplification of compliance or reporting requirements under the rule for such small entities; (3) the use of performance, rather than design, standards; and (4) an exemption from coverage of the rule, or any part thereof, for such small entities.”

107. Assessment of Regulatory Fees. For FY 2024, we propose to employ the same methodology as the Commission did in FY 2023, however, we conclude that changes within the Commission's organizational structure and additional staff resources merits a review of the FY 2023 reallocations of the FTEs located in the Office of General Counsel, the Office of Economics and Analytics, and the Public Safety and Homeland Security Bureau that were previously considered to be indirect FTEs and were allocated as direct FTEs to a core bureau. Specifically, effective on April 10, 2023, the International Bureau was eliminated by establishing a new Space Bureau and a new Office of International Affairs, and the Public Safety and Homeland Security Bureau have since hired 11 additional staff members. We therefore analyzed the work being done by the new staff within the Public Safety and Homeland Security Bureau to determine whether their work is being spent on the regulation and oversight of a regulatory fee payor such that their work should be allocated as direct to a core bureau, solely for regulatory fee purposes. We also analyzed the FTEs previously reallocated as direct to a core bureau in FY 2023 for regulatory fee purposes to determine whether there have been any shifts in work assignments such that the number of allocations to a core bureau for regulatory fee purposes should be adjusted. Also, in instances where an FTE was previously allocated to the International Bureau as direct for regulatory fee purposes, we analyzed the specific work done by the FTE to determine whether such FTE should be allocated to the new Office of International Affairs or the new Space Bureau. We limited our analytical efforts for FY 2024 to address the specific changes within the Commission, and while we considered conducting a high-level analysis this fiscal year of all FTEs within the Commission, we opted not to because we believe the adjustments we made for FY 2024 reasonably reflect the major changes in the burden of work within the Commission. Based on the results of our evaluation, we propose that certain indirect FTEs could be reassigned as direct FTEs and incorporate these into the count of FTEs of the relevant core bureau for purposes of calculating regulatory fees for FY 2024, which could reduce regulatory fee obligations for some small and other regulatory payees.

108. Additionally, on March 13, 2024, the Commission released the Space and Earth Station Regulatory Fees NPRM seeking comment on proposed changes to the regulatory fee methodology used for assessing space and earth station regulatory fees for FY 2024. In the NPRM, we propose regulatory fee rates based on the proposals set forth in the Space and Earth Station Regulatory Fees NPRM. However, our proposed space and earth station regulatory fee rates are estimates because we recognize that, ultimately, final space and earth station regulatory fee rates are dependent upon the outcome of the Space and Earth Station Regulatory Fees proceeding. Accordingly, we do not seek comment again in this proceeding on the specific proposals to adjust our existing methodology for assessing space and earth station regulatory fees, or to adopt an alternative methodology for assessing space station regulatory fees, which were set forth in the Space and Earth Station Regulatory Fees NPRM. Instead, comments pertaining to the proposals set forth in the Space and Earth Station Regulatory Fees NPRM regarding the categories and allocation of fees for space and earth stations should be submitted in the proceeding, MD Docket No. 24-85, and need not be submitted again in response to the NPRM. If any of the proposals are adopted as part of the subsequent Space and Earth Station Regulatory Fees Report and Order, it may increase or reduce the regulatory fee burden on some satellite entities.

109. Broadcast Regulatory Fees. In the NPRM, we propose to continue to assess fees for full-power broadcast television stations based on the population covered by a full-service broadcast television station's contour which may reduce the economic impact of the regulatory fees for some small licensees. While the population-based methodology increases fees for some licensees and reduces fees for others, we believe the population-based metric better conforms with the service of broadcasting television to the American people. In addition, small licensees experiencing financial hardship will continue to have access to fee relief, such as waiver, reduction, deferral and/or installment payment of their regulatory fees and may be exempt from paying a regulatory fee if the assessed fee is below the de minimis threshold that the Commission has established.

110. Temporary Relief Measures Due to Economic Effects of COVID-19 Pandemic. During the COVID-19 pandemic and through FY 2023, the Commission provided certain temporary relief to regulatory fee payors experiencing financial hardship caused or exacerbated by the COVID-19 pandemic through a combination of partial rule waivers and direction to the Office of the Managing Director in exercising its delegated authority. In the NPRM, we do not plan to implement these temporary measures for FY 2024. The circumstances for which the measures were temporarily implemented have changed. The National Emergency COVID-19 pandemic has ended and the national economy is rebounding. We recognize that some regulatory fee payors may be experiencing lingering or continuing financial difficulties related to the pandemic's economic effects, but we believe that sections 1.1166 and 1.1914 of our rules, now streamlined and simplified, offer those fee payors a straightforward path to regulatory fee relief.

111. Non-Operating Broadcast Stations. In the NPRM, we seek comment on ending a policy of presuming that dark or silent stations have experienced financial hardship and therefore merit grant of a request for waiver of regulatory fees on the basis of financial hardship, without requiring submission of evidence of actual financial hardship. This policy was first mentioned by the Commission in 1995, and then applied by the Commission's Office of the Managing Director in 1996. The Commission, however, has never codified this policy and it is rarely used. The policy, moreover, appears to assume that the only rationale for a dark or silent station is financial duress. There is no such limitation, however, contained in section 73.1740(a)(4) of the Commission's rules. Licensees might go dark for different reasons depending on each station's particular circumstances. Thus, drawing on the Commission's experience since establishment of the policy in 1995, the assumption that requiring financial information in a request for waiver of regulatory fees is unnecessary by the operators of a dark or silent station appears to be no longer accurate in 2024. In the NPRM, we therefore propose to end the assumption that stations are dark or were recently dark or bankrupt are experiencing financial distress when they file a request for waiver of regulatory fees. We propose instead to require these licensees to submit supporting financial documentation with their fee requests to prove financial hardship sufficient to justify a fee waiver, just as all other regulatory fee payors are required to do under section 1.1166 of our rules. In order to give regulatory fee payors more time to make any necessary changes to comply with this change in policy, we propose to make the change effective for fiscal year 2025.

F. Federal Rules that May Duplicate, Overlap, or Conflict With the Proposed Rules

112. None.

VII. Ordering Clauses

113. Accordingly, it is ordered that, pursuant to sections 47 U.S.C. 4(i), 4(j), 9, 9A, and 303(r) of the Communications Act of 1934, as amended, 47 U.S.C. 154(i), 154(j), 159, 159A, and 303(r), this Notice of Proposed Rulemaking is hereby adopted.

114. It is further ordered that the Commission's Office of the Secretary shall send a copy of this Notice of Proposed Rulemaking, including the Initial Regulatory Flexibility Analysis, to the Chief Counsel for Advocacy of the Small Business Administration.Federal Communications Commission.

Katura Jackson,
Federal Register Liaison Officer.

[FR Doc. 2024-13813 Filed 6-24-24; 8:45 am]

BILLING CODE 6712-01-P